DEPARTMENT OF THE INTERIOR

Fish and Wildlife Service

50 CFR Part 17

[Docket No. FWS-R9-ES-2008-0063; 92300-1113-0000-9B]

RIN 1018-AU62

Endangered and Threatened Wildlife and Plants; Amending the Formats of the Lists of Endangered and Threatened Wildlife and Plants

AGENCY: Fish and Wildlife Service, Interior.

ACTION: Final rule.

SUMMARY: We, the U.S. Fish and Wildlife Service, amend the format of the Lists of Endangered and Threatened Wildlife and Plants (Lists) to reflect current practices and standards that will make the regulations and Lists easier to understand. The Lists, in the new format, are included in their entirety and have been updated to correct identified errors.

DATES: This rule is effective August 4, 2016.

FOR FURTHER INFORMATION CONTACT: Don Morgan, Ecological Services Program, U.S. Fish and Wildlife Service, 5275 Leesburg Pike, Falls Church, VA 22041; telephone 703-358-2171. If you use a telecommunications device for the deaf (TDD), call the Federal Information Relay Service (FIRS) at 800-877-8339.

SUPPLEMENTARY INFORMATION:

Background

The Lists of Endangered and Threatened Wildlife and Plants (Lists), found in title 50 of the Code of Federal Regulations (CFR) at 50 CFR 17.11 for wildlife and 50 CFR 17.12 for plants, contain the names of endangered species and threatened species officially listed pursuant to the Endangered Species Act of 1973, as amended (16 U.S.C. 1531 et seq., (ESA)). The most recent compilation of Lists appeared in the 2015 edition of title 50 CFR, which was issued in early 2016. That compilation included regulatory amendments effective as of October 1, 2015.

The species were placed on the Lists as the result of rulemaking promulgated by the U.S. Fish and Wildlife Service (FWS), by the National Marine Fisheries Service (NMFS) of the Department of Commerce's National Oceanic and Atmospheric Administration, or by both agencies via joint rulemaking actions. References to “Services” in the text of §§ 17.11 and 17.12 refer to both of these agencies.

The Lists represent the official Federal Government record of which species are listed and where they are considered listed under the ESA. The Lists also contain information regarding other designations and regulations issued under specific provisions of the ESA, such as section 4(d) regarding threatened species, section 10(j) regarding experimental populations, and critical habitat.

Over time, we have noted numerous unintentional errors, ambiguous entries, and confusing format and column titles in the Lists. After detailed research on the origin, history, and purpose of the Lists, we determined that the format, references, and standards needed to be updated to better reflect current practices and standards. Consequently, we published a proposed rule in the Federal Register on August 5, 2008, to address these observed problems and make corrections to enhance the clarity of the Lists (73 FR 45383). In the rule portion of this document, we set forth the corrected Lists in entirety in the new format.

Summary of Changes From Proposed Rule

The following adjustments have been made which are different from the proposed document. We have decreased the total columns to 5 instead of 8 for both Lists by removing the “Historical range” columns, and combining the “When listed”, “Critical habitat” and “Special rules” columns.

History of the Lists of Endangered and Threatened Species

The first endangered species list was published March 11, 1967 (32 FR 4001), pursuant to the Endangered Species Preservation Act of 1966, and included only two columns, Common Name and Scientific Name. In 1970, after passage of the Endangered Species Conservation Act in 1969, that list was added to title 50 CFR in the newly created part 17. In 1971, that list was divided into two separate lists with appendix A being the “U.S. List of Endangered Foreign Fish and Wildlife” with three columns (Common Name, Scientific Name, and Where Found) and appendix D being the “United States' List of Endangered Native Fish and Wildlife” with only the original two columns (Common Name and Scientific Name).

In 1974, after enactment of the ESA, the two appendices were moved to § 17.11 and § 17.12, with appendix A becoming § 17.11 (Foreign) and appendix D becoming § 17.12 (Native). In 1975, the two lists were combined into one list at § 17.11 (Wildlife), and the columns were expanded from three to eight (Common Name, Scientific Name, Population, Known Distribution, Portion of Range Where Endangered or Threatened, Status, When Listed, and Special Rules). See figure 1, below. The footnote system denoting “When Listed” found in the current CFR was created with 11 footnotes. Section 17.12 was reserved for “Endangered and Threatened Plants”.

Figure 1—Format for the ESA List for Wildlife in the 1975 Version of 50 CFR 17.11
Species: Common name | Species: Scientific name | Population | Range: Known distribution | Range: Portion of range where endangered or threatened | Status | When listed | Special rules

In 1977, § 17.12 was populated with only seven columns (Common Name, Scientific Name, Known Distribution, Portion of Range Where Threatened or Endangered, Status, When Listed, and Special Rules). See figure 2, below. The § 17.12 List had its own footnote system, which was only one footnote at that time.

Figure 2—Format for the ESA List for Plants in the 1977 Version of 50 CFR 17.12
Species: Common name | Species: Scientific name | Range: Known distribution | Range: Portion of range where threatened or endangered | Status | When listed | Special rules

In 1980, the Lists underwent the last major formatting change prior to this current rulemaking action. A proposed rule was published on August 15, 1979 (44 FR 47862), proposing to include the following columns for § 17.11 (Wildlife): Common name, Scientific name, Historic range, Population where endangered or threatened, Status, When listed, Critical habitat, and Special rules; and the following columns for § 17.12 (Plants): Scientific name, Common name, Historic range, Status, When listed, Critical habitat, and Special rules. A final rule that published on February 27, 1980 (45 FR 13010), set forth the following columns for § 17.11: Common name, Scientific name, Historic range, Vertebrate population where endangered or threatened, Status, When listed, Critical habitat, and Special rules. The final rule adopted the columns for § 17.12 as they had appeared in the proposed rule. See figures 3 and 4.

Figure 3—Format for the ESA List for Wildlife in the 1980 Version of 50 CFR 17.11
Species: Common name | Species: Scientific name | Historic range | Vertebrate population where endangered or threatened | Status | When listed | Critical habitat | Special rules

Figure 4—Format for the ESA List for Plants in the 1980 Version of 50 CFR 17.12
Species: Common name | Species: Scientific name | Historic Range | Status | When listed | Critical habitat | Special rules

Neither the August 1979 proposed rule nor the February 1980 final rule included the entire contents of the Lists. The Lists in their entirety were published in the new format with corrections to technical errors on May 20, 1980 (45 FR 33767). On September 30, 1994 (59 FR 49848), the family grouping of the plants, which had resided in the scientific name column, was moved to a new column named “Family.” See figure 5.

Figure 5—Format for the ESA List for Plants in the 1994 Version of 50 CFR 17.12
Species: Common name | Species: Scientific name | Historic range | Family | Status | When listed | Critical habitat | Special rules

Rule Purpose

Through this rulemaking, we are changing the format of the Lists to include current practices and standards, thereby ensuring that the regulations and Lists are easy for the public to understand. We are also standardizing entries and correcting numerous errors and ambiguous entries. Technical corrections in this rulemaking include updating or correcting footnotes, references to certain other applicable portions of title 50 CFR, synonyms, and the spelling of species' names. We also provide more current common names. Textual descriptions of the List format, such as the meaning of the column titles, are included within these changes to the regulations at §§ 17.11 and 17.12. None of the changes are regulatory in nature with respect to the entities on the List; these changes are for the purpose of clarity. These revisions do not alter species' protections or status in any way. Such actions would require separate rulemaking actions following the procedures of 50 CFR part 424.

Renaming and Reorganizing the Lists' Columns

With this rule, we are renaming, reorganizing, and removing columns in the Lists to clarify the types of information being presented. The following paragraphs describe the new columns.

Changing “When Listed” to “Listing Citations and Applicable Rules”

For both Lists, we are replacing the column heading “When listed” with “Listing citations and applicable rules.” This column currently contains footnote numbers referencing a table of citations for final listing rules. When we proposed the changes to the format of the Lists in 1979 that instituted this footnote system, the Lists contained only 44 footnotes. The Lists now have more than 800 footnotes, and, consequently, the footnote system has become hard for us to manage and for the public to use. To correct this situation, we are replacing the footnote numbers that currently populate this column with the actual Federal Register citation (volume and document starting page number) and publication date of the listing rule and other applicable rulemaking actions. We are also correcting any errors contained in the previous footnotes or referenced citations. For example, some existing footnotes included the wrong date, wrong page numbers, or were missing a citation reference. Please note that all the referenced citations are available through the Services' Web sites for each listed species (http://www.fws.gov/endangered/ and http://www.nmfs.noaa.gov/pr/species/esa/listed.htm).

Moving “Critical Habitat” and “Special Rules” Entries Into New “Listing Citations and Applicable Rules” Column

These columns provide the citations for pertinent regulations for the listed species and were created solely for the convenience of the public. To consolidate these purely navigational columns, we are combining the “Special rules,” “Critical habitat,” and “When listed” columns into the renamed “Listing citations and applicable rules” column. Superscripts utilized in this column are identified in the revised regulatory text at §§ 17.11(f)(1) and 17.12(f)(1). For additional information concerning these entries and downloadable maps of proposed and designated critical habitat, please visit the Services' Web sites (http://www.fws.gov/endangered/ and http://www.nmfs.noaa.gov/pr/species/esa/listed.htm).

Changing “Vertebrate Population Where Endangered or Threatened” and “Family” to “Where Listed”

We originally published the entries for invertebrate species indicating “not applicable” (shown as “NA”) in the column “Vertebrate population where endangered or threatened” because that column applied only to distinct population segments of vertebrate species. In the October 1, 2000, edition of the CFR, in the Lists found at § 17.11(h), all of the entries for invertebrate species within the column “Vertebrate population where endangered or threatened” were erroneously changed to “Entire.” While it is generally true that the invertebrate species are listed wherever found thus, throughout their entire range, except where listed as experimental populations, it is more accurate to state that this column is not applicable since it pertains to vertebrate populations. The error was purely editorial; it in no way changed any of the applicable provisions of law. As indicated in the prior regulations at § 17.11(e), all individuals of the invertebrate species are protected wherever found, regardless of whether “NA” or “Entire” appeared in the column. However, amendments to the Act in 1982 included the addition of section 10(j) which allows for the designation of reintroduced populations of listed species as “experimental populations.” Under section 10(j) of the Act and our regulations at 50 CFR 17.81, the Service may designate as an experimental population a population of endangered or threatened species that has been or will be released into suitable natural habitat outside the species' current natural range. The format of the Lists published in 1980, prior to the 1982 amendments, did not envision this change and therefore did not provide specifically for indicating experimental population designations. When the Service published regulations regarding experimental population at 50 CFR 17.80 (49 FR 33885, August 27, 1984), we stated that experimental population designations would be indicated by a separate line in the Lists at §§ 17.11 and 17.12. Thus, the location information for experimental population designations of listed species began to be placed in the column originally intended to indicate species listed as distinct population segments of vertebrate species. Additionally, as the Service began to expand our use of section 10(j) in recovery of listed species, we also included location information for experimental population designations of invertebrate species, causing an inconsistency between the column's title and its application.

To address these issues, for the wildlife list (§ 17.11(h)) only, we are replacing the column heading “Vertebrate population where endangered or threatened” with “Where listed,” to more broadly accommodate the information regarding the geographic specificity of both distinct population segments of vertebrate species and experimental population designations. Thus, the new name “Where listed” better reflects the data within the column. We are also changing all the current “NA” entries to “Wherever found” to reflect the change in the column title. All current entries that have the word “Entire” will be changed to “Wherever found” to standardize all entries to the same format. And, lastly, we will no longer use the “ditto” system (shown as “do” in the current tables) to indicate duplicative information.

For the plants list (§ 17.12(h)), we are replacing the “Family” column with a “Where listed” column to standardize both Lists to identical columns and structure. We are also populating each entry for that column with “Wherever found” because the ESA protection for all of the plants currently on the list applies to all individuals of a plant species wherever found. Future additions to the list may have a more limited entry under the “Where listed” column if experimental populations of plant species are designated. Including the “Where listed” column in the List of plants facilitates our ability to provide more specific information in the future, if applicable. While we are no longer including a plant species' taxonomic family in order to standardize the format between the Lists, information regarding a species taxonomy is readily available through links provided on our species profile pages. A link to the Integrated Taxonomic Information System (ITIS), which displays the taxonomic hierarchy of a species, including its family name, is provided on each species' profile page accessible through the Services' Web sites (http://www.fws.gov/endangered/ and http://www.nmfs.noaa.gov/pr/species/esa/listed.htm) or information is available directly through the ITIS. (These amendments to the Lists are editorial in nature and involve no substantive changes to the List of Endangered and Threatened Wildlife found at 50 CFR 17.11(h) or the List of Endangered and Threatened Plants found at 50 CFR 17.12(h), nor to any applicable regulations. While we have changed the name of the column to better reflect its current content, we do not intend to change the use of this column. Unless the column is used to define a distinct population segment of a vertebrate species or an experimental population designation of any taxa, the entry in this column will be “Wherever found,” indicating that the protections of the Act will apply to all individuals of the species wherever found.

Adding ESU and DPS Subtitles to “Common Name”

The ESA defines “species” to include any “distinct population segment of any species of vertebrate fish or wildlife which interbreeds when mature.” (16 U.S.C. 1532(16)). NMFS's Evolutionarily Significant Unit (ESU) policy (56 FR 58612, November 20, 1991) defines how it will apply this definition of “species” in evaluating Pacific salmon stocks for listing under the ESA. The Services' interagency Policy Regarding the Recognition of Distinct Vertebrate Population Segments (DPS) (61 FR 4721, February 7, 1996) clarifies their interpretation of the phrase “distinct population segment of any species of vertebrate fish or wildlife” for the purpose of listing, delisting, and reclassifying species under the ESA. Currently, the “Vertebrate population where endangered or threatened” column distinguishes the different ESU and DPS entries for the same species by describing the geographic area where it is found, but without providing a name for the population or indicating it is an ESU or DPS listing. We are adding the ESU or DPS subtitle to the Common Name column in brackets to clarify when it is an ESU or DPS listing.

Removing Historic Range Columns

The “Historic range” column is not required by the ESA (see section 4(c)(1)) and is part of the “other data in the list” currently referenced in 50 CFR 17.11(d) and 17.12(d) as “nonregulatory in nature” and “provided for the information of the reader.” However, since its creation in 1980, it has been a source of contention and confusion, leading to questions of how it is defined; its regulatory use; what time period it represents; and should it instead be changed to “Historical Range”. These and similar concerns were raised in the 1980 reformat (see 45 FR 13011, February 27, 1980), for which the Services took the following position regarding suggestions for specific criteria to define this column: “In light of this broad diversity and the guidance of both the Act and the legislative history, the Services find it inadvisable to establish new criteria as suggested. The Services will continue to consider this issue, however, and will propose criteria at a later date, if warranted.” Given prior concerns regarding this column in the 1980 reformat and continued long-standing confusion regarding its use and meaning, we revisited this issue in making our final determination on this action. The Services have consistently indicated that information provided regarding historic range is purely informational and does not alter or imply any limitation on the application of the prohibitions in the Act or implementing rules. Additionally, historic range information often only represented the Service's best approximation of historic range based on the scientific literature, given that past range was not always well or thoroughly documented for many species. We also indicated that only the columns entitled “Common Name,” “Scientific Name,” and “Vertebrate Population Where Endangered or Threatened” define the species of wildlife for purposes of implementing the Act. Despite this, the column “Historic range” column continued to be a point of confusion with regard to where protections of the Act apply to a species. Based on concerns raised by commenters on the 2008 proposed rule (See “Summary of Comments Received”) and to help alleviate confusion to the public, the Services have decided to remove the “Historic range” column from both tables. However, to provide further clarification regarding where protections of the Act apply, we state in our revised §§ 17.11(d) and 17.12(d) that unless the new “where listed” column indicates a distinct population segment of a vertebrate species, or an experimental population, prohibitions of the Act apply to all individuals of the species, wherever found. Please note that the general information regarding the historic range of a species, as previously provided in this column, is discussed in listing determinations and is available in the listing rule documents provided in the “Listing citations and applicable rules” column. See figures 6 and 7 for the new format of the tables.

Figure 6—New Format for the ESA List for Wildlife (Column Headings) in 50 CFR 17.11
Common name | Scientific name | Where listed | Status | Listing citations and applicable rules

Figure 7—New Format for the ESA List for Plants (Column Headings) in 50 CFR 17.12
Scientific name | Common name | Where listed | Status | Listing citations and applicable rules

Updating Standards for Scientific Nomenclature References

For species' nomenclature (scientific and common names), we are changing the primary source upon which we rely. The current text introducing the lists in §§ 17.11 and 17.12 references two standards for scientific nomenclature: The International Code of Zoological Nomenclature and The International Code of Botanical Nomenclature. Respectfully, instead of referencing those International Codes, the Service now relies, to the extent practicable, on the Integrated Taxonomic Information System (ITIS), which incorporates both of the International Code standards and the standard references adopted for the Convention on International Trade in Endangered Species of Wild Fauna and Flora (CITES).

ITIS is an authoritative taxonomic database (http://www.itis.gov) maintained by a partnership of U.S., Canadian, and Mexican agencies; other organizations; and taxonomic specialists. The U.S. partners include the National Oceanic and Atmospheric Administration of the Department of Commerce; the U.S. Fish and Wildlife Service, U.S. Geological Survey, and National Park Service of the Department of the Interior; the Environmental Protection Agency; the Agricultural Research Service and Natural Resources Conservation Service of the Department of Agriculture; the Smithsonian Institution; and NatureServe (a nonprofit organization representing the Natural Heritage programs in the States).

CITES is an international convention among 182 signatory countries (Parties) to ensure that international trade in specimens of wild animals and plants does not threaten their survival (50 CFR part 23). The CITES Parties have adopted standard nomenclatural and taxonomic references for species included in the CITES Appendices, which are listed in the most recent CITES resolution on standard nomenclature. (http://www.cites.org/eng/res/index.shtml)

Removing Unnecessary Examples, Updating Regulations, and Removing Entries Pursuant to Court Order

Upon review of the regulations connected to the Lists, we noted that § 17.50 had three examples that were pre-1980 table format. Rather than update them to the new format, we determined that these examples are not necessary and are, therefore, removing them. We have also determined that the introductory paragraph of § 17.52 should read as set forth in the rule portion of this document to provide more specific cross-references within part 17. The revised language specifies the sections in part 17 that may include language that differs from the provisions in § 17.52. These changes to the regulations are nonsubstantive.

Additionally, in 50 CFR 17.11(h), the List of Endangered and Threatened Wildlife, we are removing the Beringia DPS of the bearded seal to comply with the U.S. District Court for the District of Alaska's decision vacating the December 28, 2012, final rule by NMFS that listed the Beringia DPS of the Erignathus barbatus nauticus subspecies of the bearded seal as a threatened species (77 FR 76740) (Alaska Oil & Gas Ass'n v. Pritzker, 4:13-cv-00018-RRB, 2014 WL 3726121, 2014 U.S. Dist. Lexis 101446 (D. Alaska July 25, 2014), appeal docketed, No. 14-35806 (9th Cir. 2014)). NMFS has appealed the district court's decision to the U.S. Court of Appeals for the Ninth Circuit, but as a result of the court decision the species is not currently listed. Depending on the outcome of that litigation, we may issue a technical rule to reinstate the listing.

We are removing the Arctic subspecies of the ringed seal to comply with the U.S. District Court for the District of Alaska's decision vacating the December 28, 2012, final rule by NMFS that listed the Arctic subspecies of the ringed seal, Phoca hispida hispida, as a threatened species (77 FR 76706) (Alaska Oil & Gas Ass'n v. NMFS, 4:14-cv-00029-RRB, 2016 WL 1125744, 2016 U.S. Dist. Lexis 34848 (D. Alaska Mar. 17, 2016), appeal docketed, No. 16-35380 (9th Cir. 2016)). NMFS has appealed the district court's decision to the U.S. Court of Appeals for the Ninth Circuit, but as a result of the court decision the species is not currently listed. Depending on the outcome of that litigation, we may issue a technical rule to reinstate the listing.

We are removing slickspot peppergrass from the List of Endangered and Threatened Plants to comply with the decision of the U.S. District Court for the District of Idaho (Otter v. Salazar, Case No. 1:11-cv-358-CWD, 2012 U.S. Dist. Lexis 111743 (D. Idaho Aug. 8, 2012)) vacating the previous listing rule (74 FR 52014; October 8, 2009). The Service has already proposed to reinstate the listing (79 FR 8416; February 12, 2014) and will make a final determination shortly. This is a clerical change to comply with a court order, and not a final listing determination on the outstanding new proposal to list.

Summary of Comments Received

In our proposed rule (73 FR 45383, August 5, 2008), we requested that all interested parties submit information, data, and comments regarding the format of the Lists. The comment period ended September 4, 2008. During the 30-day comment period, we received a total of 14 comments, of which we consider 8 to be substantive. The following paragraphs discuss the comments received.

Solicitor's Opinion and “Where Listed”

Several commenters were concerned that changing the “Vertebrate population where endangered or threatened” and “Family” columns to “Where listed” would allow for applying the protections of the Act to only limited geographic areas of a species' range. Commenters expressed concern that the proposed rule was an attempt to codify the March 16, 2007, opinion of the Solicitor of the Department of the Interior regarding “The Meaning of `In Danger of Extinction Throughout All or a Significant Portion of the Range',” which would have allowed in some cases applying protections to less than all members of the species (i.e., applying protections only to a portion of a species' range). As explained above, the intent of altering the column heading was to better align the column's title and definition with the current use of the column to indicate both distinct population segments of vertebrate species and experimental population designations for all taxa (invertebrates and plants as well as vertebrate species); we did not intend to alter its use. While this rulemaking never attempted to “codify” the 2007 opinion of the Solicitor, we believe the underlying concerns of the commenters have nevertheless been resolved by subsequent developments. Two district court decisions have addressed whether the ESA's language allows the Services to list or protect less than all members of a defined species: Defenders of Wildlife v. Salazar, 729 F. Supp. 2d 1207 (D. Mont. 2010), concerning FWS's delisting of the Northern Rocky Mountain gray wolf (74 FR 15123, Apr. 12, 2009); and WildEarth Guardians v. Salazar, 2010 U.S. Dist. LEXIS 105253 (D. Ariz. Sept. 30, 2010), concerning the Service's 2008 finding on a petition to list the Gunnison's prairie dog (73 FR 6660, Feb. 5, 2008). The courts concluded that reading the ESA's language to allow protecting only a portion of a species' range is inconsistent with the definition of “species,” which forecloses listing any population that does not qualify as a taxonomic species, subspecies, or DPS. These two decisions held that the “significant portion of its range” language may not be used as a basis for listing less than all members of a species. Rather, the ESA's language requires rangewide listing of species whenever they are endangered or threatened in a significant portion of the range, even if they are healthy in other areas.

On May 4, 2011, the Solicitor of the U.S. Department of the Interior (“Interior”) withdrew the 2007 opinion. On July 1, 2014, the Service published a new policy to clarify the interpretation of the phrase “significant portion of its range” in the ESA as it applies to decisions to list species as threatened or endangered (79 FR 37578). This policy stated that if a species is determined to be neither endangered nor threatened throughout all its range and a subsequent analysis reveals it is endangered or threatened within a significant portion of that range, then the entire species will be listed as an endangered species or threatened species and the Act's protections apply to all individuals of the species wherever found. To address this concern and to further clarify how the “Where listed” column will be used and protections applied, we have added language to §§ 17.11(d) and 17.12(d) to indicate that except when providing a geographic description of a DPS or ESU, or an experimental population designation, “Wherever found” will be used to indicate the Act's protections apply to all individuals of the species, wherever found.

Historic Range Column

One commenter suggested that the “Historic range” column is not “nonregulatory” nor “for informational purposes only” because it reinforced that a listed species may only receive protections in a portion of its range if it were found to be threatened or endangered in a significant portion of its current range.

Response: We disagree. The “Historic range” column is not required by the ESA (see section 4(c)(1)) and is part of the “other data in the list” currently referenced in 50 CFR 17.11(d) and 17.12(d) as “nonregulatory in nature” and “provided for the information of the reader.” Similar concerns were addressed in the 1980 reformat (see 45 FR 13011, February 27, 1980.). Please note that the general information regarding the historic range of a species, as previously provided in this column, is discussed in listing determinations and is available in the listing rule documents provided in the “Listing citations and applicable rules” column.

Where Listed Column

Several commenters suggested that, by changing “Vertebrate population where endangered or threatened” to “Where Listed,” the Service was limiting the protection of the listed species.

Response: We disagree. None of the changes encompassed in this rule are substantive in nature or in any way alter protections for listed species. As noted earlier in this rule, such actions would require separate rulemaking actions following the procedures of 50 CFR part 424. As stated previously, by changing “Vertebrate population where endangered or threatened” to “Where Listed,” the Service is allowing for the inclusion of invertebrate species and invertebrate experimental population entries that have been in the table since 2001. Also, by replacing “endangered or threatened” with “listed,” the Service is allowing for all the statuses recognized by the “Status” column. See §§ 17.11(d) and 17.12(d).

Several commenters also suggested that defining the “Where listed” column as “the geographic area where the species is listed for purposes of the Act” also narrowed the protection of the listed species.

Response: While we understand the concern, this was not our intent. This column is intended only to provide a geographic description for distinct population segments of vertebrate, and invertebrate, vertebrate and plant experimental population designations. We added this column to § 17.12 to allow for indicating plant experimental population designations. Again, as we explain above, except for DPSs and experimental population designations, entries in this column will be “Wherever found.” None of the changes encompassed in this rule are substantive in nature or in any way alter protections for listed species. Such actions would require separate rulemaking actions following the procedures of 50 CFR part 424.

ITIS and CITES

One commenter suggested that relying on the Integrated Taxonomic Information System (ITIS) could pose problems by being more limiting than, and not as comprehensive as, the previous standards, especially for foreign species.

Response: We addressed the adoption of the previous standards in our rule of February 27, 1980 (45 FR 13010, 13012). At that time, we stated that: “In deciding which alternative taxonomic interpretations to accept, the Director will rely on the professional judgment available both within the Service and the scientific community and from the most recent taxonomic studies available pertaining to the subject species. However, no criteria other than these very general ones can be established for acceptance of taxonomic treatments. As a matter of practice, the Services review current taxonomic literature in considering the appropriateness of present and proposed listings. Although professional societies maintain lists of accepted taxa for some taxonomic groups, this is not true of all groups. The Services will rely on the generally accepted lists of taxa when they are available.” This is still the Services' current standard, as indicated in our regulations. See 50 CFR 424.11(a), which states that the Secretary must rely on standard taxonomic distinctions and the biological expertise of the Department and the scientific community in determining whether a particular taxon or population is a species for the purposes of the Act. To the cases where ITIS may not be sufficiently comprehensive, we may consult other sources or experts regarding appropriate taxonomic interpretations.

The Services have determined that ITIS is a reviewer of current taxonomic literature and maintains generally accepted lists of taxa that are determined to be both valid and verified. As such, to the extent practicable, the Services, in combination with the professional judgment available both within the Services and the scientific community (§ 424.11(a)), will utilize ITIS and, for international species not covered by ITIS, the taxonomic nomenclature adopted for use under CITES. In cases where taxonomy is in dispute or there is a newly described taxa that might not be updated in ITIS, we will use our own best professional judgment and the expertise of the scientific community.

Need for Immediate Effective Date

We find good cause pursuant to 5 U.S.C. 553(d)(3) to make this rule effective upon the date set forth in DATES due to the continual changes being made to the Lists via new rulemaking actions. To ensure that we provide the most accurate and up-to-date information to the public, we must set forth the Lists in their entirety as soon as possible. The public would not be served by a 30-day delay in the effective date, particularly because this rule does not affect any legal rights.

Required Determinations

Regulatory Planning and Review (Executive Orders 12866 and 13563)

Executive Order 12866 provides that the Office of Information and Regulatory Affairs (OIRA) in the Office of Management and Budget will review all significant rules. OIRA has determined that this rule is not significant.

Executive Order 13563 reaffirms the principles of E.O. 12866 while calling for improvements in the nation's regulatory system to promote predictability, to reduce uncertainty, and to use the best, most innovative, and least burdensome tools for achieving regulatory ends.

The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this final rule in a manner consistent with these requirements.

Regulatory Flexibility Act

The Department of the Interior certifies that this rule will not have a significant economic effect on a substantial number of small entities under the Regulatory Flexibility Act (RFA) (5 U.S.C. 601 et seq.). The changes we are making are intended primarily to update the standards of scientific naming used in the Lists of Endangered and Threatened Wildlife and Plants and to clarify language in our regulations. These changes will not have a substantive impact on the scope of the regulation, and thus would not affect businesses or other small entities as defined in the RFA.

Small Business Regulatory Enforcement Fairness Act (SBREFA)

This rule is not a major rule under 5 U.S.C. 804(2), the Small Business Regulatory Enforcement Fairness Act. This rule:

1. Will not have an annual effect on the economy of $100 million or more.

2. Will not cause a major increase in costs or prices for consumers; individual industries; Federal, State, or local government agencies; or geographic regions.

3. Will not have significant adverse effects on competition, employment, investment, productivity, innovation, or the ability of U.S.-based enterprises to compete with foreign-based enterprises.

Unfunded Mandates Reform Act

This rule will not impose an unfunded mandate on State, local, or tribal governments or the private sector of more than $100 million per year. This rule will not have a significant or unique effect on State, local, or tribal governments or the private sector. Our rule simply reorganizes and clarifies existing regulations and provides new standard references for species' nomenclature. A statement containing the information required by the Unfunded Mandates Reform Act (2 U.S.C. 1531 et seq.) is not required.

Takings (E.O. 12630)

In accordance with E.O. 12630, this rule will not have significant takings implications. We are only reorganizing and clarifying existing regulations and providing new standard references for species' nomenclature. This action will, therefore, not interfere with constitutionally protected private property rights. A takings implication assessment is not required.

Federalism (E.O. 13132)

In accordance with E.O. 13132, this rule does not have sufficient Federalism implications to warrant the preparation of a Federalism Assessment. As our rule involves reorganizing and clarifying existing regulations, and providing new standard references for species' nomenclature, we do not expect it will have any effect on State or local governments or their activities. A Federalism Assessment is not required.

Civil Justice Reform (E.O. 12988)

In accordance with E.O. 12988, the Department of the Interior has determined that this rule does not unduly burden the judicial system and that it meets the requirements of sections 3(a) and 3(b)(2) of the Order.

Paperwork Reduction Act of 1995 (PRA)

This rule does not contain any information collection requirements for which Office of Management and Budget approval is required under the PRA (44 U.S.C. 3501 et seq.). We may not conduct or sponsor and you are not required to respond to a collection of information unless it displays a currently valid OMB control number.

National Environmental Policy Act

We have analyzed this rule in accordance with the criteria of the National Environmental Policy Act (NEPA) and the Department of the Interior Manual. This rule does not constitute a major Federal action significantly affecting the quality of the human environment. We have determined this rule is categorically excluded under the Department of the Interior's NEPA regulations in 43 CFR 46.210(i). This categorical exclusion addresses policies, directives, regulations, and guidelines that are of an administrative, financial, legal, technical, or procedural nature.

Government-to-Government Relationship With Tribes

Under the President's memorandum of April 29, 1994, “Government-to-Government Relations with Native American Tribal Governments” (59 FR 22951), and the Department of the Interior's Manual at 512 DM 2, we have evaluated possible effects on federally recognized Indian Tribes and have determined that there are no effects. Our rule will simply reorganize and clarify existing regulations and provide new standards references for species' nomenclature.

Energy Supply, Distribution, or Use

Executive Order 13211 requires agencies to prepare Statements of Energy Effects when undertaking certain actions that significantly affect energy supply, distribution, and use. This rule revises the formats of the Lists of Endangered and Threatened Wildlife and Plants and will not significantly affect energy supplies, distribution, or use. Therefore, this action is not a significant energy action, and no Statement of Energy Effects is required.

Author

Michael Franz, Ecological Services, Headquarters, compiled this document.

List of Subjects in 50 CFR Part 17

Endangered and threatened species, Exports, Imports, Reporting and recordkeeping requirements, Transportation.

Regulation Promulgation

For the reasons set forth in the preamble, we amend part 17, subchapter B of chapter I, title 50 of the Code of Federal Regulations, as set forth below:

PART 17—[AMENDED]

1. The authority citation for part 17 continues to read as follows:

Authority: 16 U.S.C. 1361-1407; 1531-1544; and 4201-4245, unless otherwise noted.

2. Revise § 17.11 to read as follows:

§ 17.11 Endangered and threatened wildlife.

(a) The list in paragraph (h) of this section contains the wildlife species determined by the Service or the National Marine Fisheries Service (NMFS) of the Department of Commerce's National Oceanic and Atmospheric Administration (hereafter in this section referred to as “the Services”) to be endangered species or threatened species. It also contains the wildlife species treated as endangered species or threatened species because they are similar in appearance to and may be confused with endangered or threatened species (see §§ 17.50 through 17.52). The “Common name,” “Scientific name,” “Where listed,” and “Status” columns provide regulatory information; together, they identify listed wildlife species within the meaning of the Act and describe where they are protected. When a taxon has more than one entry, the “Where listed” or “Status” column will identify its status in each relevant geographic area. The listing of a particular taxon includes all lower taxonomic units.

(b) “Common name” column. Although common names are included, they cannot be relied upon for identification of any specimen, since they may vary greatly in local usage. In cases where confusion might arise, one or more synonyms are provided in parentheses within the “Common name” column. If a species has been listed as an Evolutionarily Significant Unit (ESU) or a Distinct Vertebrate Population Segment (DPS), the ESU or DPS names will be provided in brackets “[ ]” following the common name.

(c) “Scientific name” column. The Services use the most recently accepted scientific name. In cases where confusion might arise, one or more synonyms are provided in parentheses within the “Scientific name” column. The Services rely, to the extent practicable, on the Integrated Taxonomic Information System (ITIS) to determine a species' scientific name. ITIS incorporates the naming principles established by the International Code of Zoological Nomenclature (see paragraph (g) of this section). If the scientific name in ITIS differs from the scientific name adopted for use under the Convention on International Trade in Endangered Species of Wild Fauna and Flora (CITES), the CITES nomenclature is provided in brackets “[ ]” within the “Scientific name” column following the ITIS nomenclature.

(d) “Where listed” column. The “Where listed” column sets forth the geographic area where the species is listed for purposes of the Act. Except when providing a geographic description of a DPS or ESU, or an experimental population designation, “Wherever found” will be used to indicate the Act's protections apply to all individuals of the species, wherever found.

(e) “Status” column. Within the “Status” column, the following abbreviations are used:

Abbreviation | Regulatory status the abbreviation represents
E | Endangered species.
T | Threatened species.
E (S/A) | Endangered based on similarity of appearance to an existing listed species.
T (S/A) | Threatened based on similarity of appearance to an existing listed species.
XE | Essential experimental population (See subpart H of this part).
XN | Nonessential experimental population (See subpart H of this part).

(f) “Listing Citations and Applicable Rules” column. The “Listing Citations and Applicable Rules” column is nonregulatory in nature and is provided for informational and navigational purposes only.

(1) Within the “Listing Citations and Applicable Rules” column, the following superscripts are used:

Superscript | Description of citation or rule
N | NMFS listing citation (NMFS Lead).
J | Both FWS and NMFS listing citation (Joint Jurisdiction).
CH | Critical habitat rule.
4d | Species-specific “4(d)” rule (a rule issued under the authority of section 4(d) of the Act).
10j | Species-specific “10(j)” rule (a rule issued under the authority of section 10(j) of the Act).

(2) Listing citations contain the volume, document starting page number, and publication date of the Federal Register publication(s) in which a species was given status, listed, or reclassified. At least since 1973, these documents have included a statement indicating the basis for the listing, as well as the effective date(s) of the listing or other rules that changed how the species was identified in the List in paragraph (h) of this section.

(3) “Critical habitat” and “Species-specific” rules superscripts provide cross-references to other sections in this part or part 222, 223, or 226 of chapter II of this title where critical habitat and species-specific rules are found. The species-specific superscripts also identify experimental populations. Experimental populations (superscript “10j”) are a separate citation, with one of the following symbols in the “Status” column: “XE” for an essential experimental population and “XN” for a nonessential experimental population.

(4) This column is for reference and navigational purposes only. All other appropriate rules in this part, parts 217 through 226 of chapter II of this title, and part 402 of chapter IV of this title apply, if no species-specific rules are referenced. In addition, other rules in this title could relate to such species (for example, port-of-entry requirements). The references in the “Listing Citations and Applicable Rules” column do not comprise a comprehensive list of all regulations that the Services might apply to the species or to the regulations of other Federal agencies or State or local governments.

(g) The Services will rely to the extent practicable on ITIS (http://www.itis.gov) and standard references adopted for CITES (http://cites.org).

(h) The “List of Endangered and Threatened Wildlife” is provided in the table in this paragraph (h):

Common name | Scientific name | Where listed | Status | Listing citations and applicable rules
Mammals
Addax | Addax nasomaculatus | Wherever found | E | 70 FR 52319; 9/2/2005.
Anoa, lowland | Bubalus depressicornis | Wherever found | E | 35 FR 8491; 6/2/1970.
Anoa, mountain | Bubalus quarlesi | Wherever found | E | 41 FR 24061; 6/14/1976.
Antelope, giant sable | Hippotragus niger variani | Wherever found | E | 41 FR 24061; 6/14/1976.
Antelope, Tibetan | Panthalops hodgsonii | Wherever found | E | 71 FR 15620; 3/29/2006.
Argali [All populations except Kyrgyzstan, Mongolia, and Tajikistan] | Ovis ammon | Wherever found except Kyrgyzstan, Mongolia, and Tajikistan | E | 41 FR 24061; 6/14/1976, 57 FR 28014; 6/23/1992.
Argali [Kyrgyzstan, Mongolia, and Tajikistan] | Ovis ammon | Kyrgyzstan, Mongolia, and Tajikistan | T | 41 FR 24061; 6/14/1976, 57 FR 28014; 6/23/1992, 50 CFR 17.40(j) 4d.
Armadillo, giant | Priodontes maximus | Wherever found | E | 41 FR 24061; 6/14/1976.
Armadillo, pink fairy | Chlamyphorus truncatus | Wherever found | E | 35 FR 8491; 6/2/1970.
Ass, African wild | Equus africanus | Wherever found | E | 35 FR 8491; 6/2/1970, 42 FR 15971; 3/24/1977.
Ass, Asian wild | Equus hemionus | Wherever found | E | 35 FR 8491; 6/2/1970.
Avahi | Avahi laniger (=entire genus) | Wherever found | E | 35 FR 8491; 6/2/1970.
Aye-aye | Daubentonia madagascariensis | Wherever found | E | 35 FR 8491; 6/2/1970.
Babirusa | Babyrousa babyrussa | Wherever found | E | 41 FR 24061; 6/14/1976.
Baboon, gelada | Theropithecus gelada | Wherever found | T | 41 FR 45990; 10/19/1976, 50 CFR 17.40(c) 4d.
Bandicoot, barred | Perameles bougainville | Wherever found | E | 35 FR 18319; 12/2/1970.
Bandicoot, desert | Perameles eremiana | Wherever found | E | 38 FR 14678; 6/4/1973.
Bandicoot, lesser rabbit | Macrotis leucura | Wherever found | E | 35 FR 18319; 12/2/1970.
Bandicoot, pig-footed | Chaeropus ecaudatus | Wherever found | E | 35 FR 18319; 12/2/1970.
Bandicoot, rabbit | Macrotis lagotis | Wherever found | E | 35 FR 18319; 12/2/1970.
Banteng | Bos javanicus | Wherever found | E | 35 FR 8491; 6/2/1970.
Bat, Bulmer's fruit (flying fox) | Aproteles bulmerae | Wherever found | E | 49 FR 2779; 1/23/1984.
Bat, bumblebee | Craseonycteris thonglongyai | Wherever found | E | 49 FR 2779; 1/23/1984.
Bat, Florida bonneted | Eumops floridanus | Wherever found | E | 78 FR 61003; 10/2/2013.
Bat, gray | Myotis grisescens | Wherever found | E | 41 FR 17736; 4/28/1976.
Bat, Hawaiian hoary | Lasiurus cinereus semotus | Wherever found | E | 35 FR 16047; 10/13/1970.
Bat, Indiana | Myotis sodalis | Wherever found | E | 32 FR 4001; 3/11/1967, 50 CFR 17.95(a) CH.
Bat, lesser long-nosed | Leptonycteris curasoae yerbabuenae | Wherever found | E | 53 FR 38456; 9/30/1988.
Bat, little Mariana fruit | Pteropus tokudae | Wherever found | E | 49 FR 33881; 8/27/1984.
Fruit Bat, Mariana (=fanihi, Mariana flying fox) | Pteropus mariannus mariannus | Wherever found | T | 49 FR 33881; 8/27/1984, 70 FR 1190; 1/6/2005, 50 CFR 17.95(a) CH.
Bat, Mexican long-nosed | Leptonycteris nivalis | Wherever found | E | 53 FR 38456; 9/30/1988.
Bat, northern long-eared | Myotis septentrionalis | Wherever found | T | 80 FR 17973; 4/2/2015, 50 CFR 17.40(o) 4d.
Bat, Ozark big-eared | Corynorhinus (=Plecotus) townsendii ingens | Wherever found | E | 44 FR 69206; 11/30/1979.
Bat, Pacific sheath-tailed (Mariana subspecies) (Payeyi, Paischeey) | Emballonura semicaudata rotensis | Wherever found | E | 80 FR 59423; 10/1/2015.
Bat, Rodrigues fruit (flying fox) | Pteropus rodricensis | Wherever found | E | 49 FR 2779; 1/23/1984.
Bat, Singapore roundleaf horseshoe | Hipposideros ridleyi | Wherever found | E | 49 FR 2779; 1/23/1984.
Bat, Virginia big-eared | Corynorhinus (=Plecotus) townsendii virginianus | Wherever found | E | 44 FR 69206; 11/30/1979, 50 CFR 17.95(a) CH.
Bear, Baluchistan | Ursus thibetanus gedrosianus | Wherever found | E | 51 FR 17977; 5/16/1986.
Bear, brown [Italy] | Ursus arctos arctos | Italy | E | 41 FR 24062; 6/14/1976, 41 FR 26019; 6/24/1976.
Bear, brown | Ursus arctos pruinosus | Wherever found | E | 41 FR 24062; 6/14/1976.
Bear, grizzly [Lower 48 States DPS] | Ursus arctos horribilis | U.S.A., conterminous (lower 48) States, except where listed as an experimental population | T | 32 FR 4001; 3/11/1967, 35 FR 16047; 10/13/1970, 40 FR 31734; 7/28/1975, 72 FR 14866; 3/29/2007, 50 CFR 17.40(b) 4d.
Bear, grizzly | Ursus arctos horribilis | U.S.A. (portions of ID and MT, see § 17.84(l)) | XN | 70 FR 69854; 11/17/2005, 50 CFR 17.84(l) 10j.
Bear, Mexican grizzly | Ursus arctos | Mexico | E | 35 FR 8491; 6/2/1970.
Bear, polar | Ursus maritimus | Wherever found | T | 73 FR 28212; 5/15/2008, 50 CFR 17.40(q) 4d, 50 CFR 17.95(a) CH.
Beaver (Mongolia) | Castor fiber birulai | Wherever found | E | 41 FR 24062; 6/14/1976.
Bison, wood | Bison bison athabascae | Wherever found, except where listed as an experimental population | T | 35 FR 8491; 6/2/1970, 77 FR 26191; 5/3/2012.
Bison, wood | Bison bison athabascae | U.S.A. (Alaska) | XN | 79 FR 26175; 5/7/2014, 50 CFR 17.84(x) 10j.
Bobcat, Mexican | Lynx (=Felis) rufus escuinapae | Wherever found | E | 41 FR 24062; 6/14/1976.
Bontebok (antelope) | Damaliscus pygarus (=dorcas) dorcas | Wherever found | E | 41 FR 24062; 6/14/1976.
Camel, Bactrian | Camelus bactrianus | Wherever found | E | 41 FR 24062; 6/14/1976.
Caribou, woodland [Southern Selkirk Mountains DPS] | Rangifer tarandus caribou | Canada (southeastern British Columbia bounded by the Canada-U.S. border, Columbia River, Kootenay River, Kootenay Lake, and Kootenai River), U.S. (ID, WA) | E | 48 FR 1722; 1/14/1983, 48 FR 49245; 10/25/1983, 49 FR 7390; 2/29/1984, 50 CFR 17.95(a) CH.
Cat, Andean | Felis jacobita | Wherever found | E | 41 FR 24062; 6/14/1976.
Cat, Asian golden (=Temminck's) | Catopuma (=Felis) temminckii | Wherever found | E | 41 FR 24062; 6/14/1976.
Cat, black-footed | Felis nigripes | Wherever found | E | 41 FR 24062; 6/14/1976.
Cat, flat-headed | Prionailurus (=Felis) planiceps | Wherever found | E | 41 FR 24062; 6/14/1976.
Cat, Iriomote | Prionailurus (=Felis) bengalensis iriomotensis | Wherever found | E | 44 FR 37124; 6/25/1979.
Cat, leopard | Prionailurus (=Felis) bengalensis bengalensis | Wherever found | E | 41 FR 24062; 6/14/1976.
Cat, marbled | Pardofelis (=Felis) marmorata | Wherever found | E | 41 FR 24062; 6/14/1976.
Cat, Pakistan sand | Felis margarita scheffeli | Wherever found | E | 49 FR 2779; 1/23/1984.
Cat, tiger | Leopardus (=Felis) tigrinus | Wherever found | E | 37 FR 6476; 3/30/1972.
Chamois, Apennine | Rupicapra rupicapra ornata | Wherever found | E | 41 FR 24062; 6/14/1976.
Cheetah | Acinonyx jubatus | Wherever found | E | 35 FR 8491; 6/2/1970, 37 FR 6476; 3/30/1972.
Chimpanzee | Pan troglodytes | Wherever found | E | 41 FR 45990; 10/19/1976, 55 FR 9129; 3/12/1990, 80 FR 34500; 6/16/2015.
Chimpanzee, pygmy | Pan paniscus | Wherever found | E | 41 FR 45990; 10/19/1976, 55 FR 9129; 3/12/1990.
Chinchilla | Chinchilla brevicaudata boliviana | Wherever found | E | 41 FR 24062; 6/14/1976.
Civet, Malabar large-spotted | Viverra civettina (=megaspila c.) | Wherever found | E | 44 FR 37124; 6/25/1979.
Deer, Bactrian | Cervus elaphus bactrianus | Wherever found | E | 44 FR 37124; 6/25/1979.
Deer, Barbary | Cervus elaphus barbarus | Wherever found | E | 44 FR 37124; 6/25/1979.
Deer, Calamianes (=Philippine) | Axis porcinus calamianensis | Wherever found | E | 41 FR 24062; 6/14/1976.
Deer, Cedros Island mule | Odocoileus hemionus cedrosensis | Wherever found | E | 40 FR 44149; 9/25/1975.
Deer, Columbian white-tailed [Columbia River DPS] | Odocoileus virginianus leucurus | Columbia River (Clark, Cowlitz, Pacific, Skamania, and Wahkiakum Counties, WA, and Clatsop, Columbia, and Multnomah Counties, OR) | E | 32 FR 4001; 3/11/1967, 68 FR 43647; 7/24/2003.
Deer, Corsican red | Cervus elaphus corsicanus | Wherever found | E | 44 FR 37124; 6/25/1979.
Deer, Eld's brow-antlered | Cervus eldi | Wherever found | E | 35 FR 8491; 6/2/1970.
Deer, Formosan sika | Cervus nippon taiouanus | Wherever found | E | 44 FR 37124; 6/25/1979.
Deer, Indochina hog | Axis (=Cervus) porcinus annamiticus | Wherever found | E | 41 FR 24062; 6/14/1976.
Deer, key | Odocoileus virginianus clavium | Wherever found | E | 32 FR 4001; 3/11/1967.
Deer, Kuhl's (=Bawean) | Axis porcinus kuhli | Wherever found | E | 35 FR 8491; 6/2/1970.
Deer, marsh | Blastocerus dichotomus | Wherever found | E | 35 FR 8491; 6/2/1970.
Deer, McNeill's | Cervus elaphus macneilii | Wherever found | E | 35 FR 8491; 6/2/1970.
Deer, musk | Moschus spp. (all species) | Afghanistan, Bhutan, Burma, China (Tibet, Yunnan), India, Nepal, Pakistan, Sikkim | E | 41 FR 24062; 6/14/1976.
Deer, North China sika | Cervus nippon mandarinus | Wherever found | E | 44 FR 37124; 6/25/1979.
Deer, pampas | Ozotoceros bezoarticus | Wherever found | E | 41 FR 24062; 6/14/1976.
Deer, Persian fallow | Dama mesopotamica (=dama m.) | Wherever found | E | 35 FR 8491; 6/2/1970.
Deer, Ryukyu sika | Cervus nippon keramae | Wherever found | E | 44 FR 37124; 6/25/1979.
Deer, Shansi sika | Cervus nippon grassianus | Wherever found | E | 44 FR 37124; 6/25/1979.
Deer, South China sika | Cervus nippon kopschi | Wherever found | E | 44 FR 37124; 6/25/1979.
Deer, swamp | Cervus duvauceli | Wherever found | E | 35 FR 8491; 6/2/1970.
Deer, Visayan | Cervus alfredi | Wherever found | E | 53 FR 33990; 9/1/1988.
Deer, Yarkand | Cervus elaphus yarkandensis | Wherever found | E | 44 FR 37124; 6/25/1979.
Dhole | Cuon alpinus | Wherever found | E | 35 FR 8491; 6/2/1970.
Dibbler | Antechinus apicalis | Wherever found | E | 35 FR 18319; 12/2/1970.
Dog, African wild | Lycaon pictus | Wherever found | E | 49 FR 2779; 1/23/1984.
Dolphin, Chinese river | Lipotes vexillifer | Wherever found | E | 54 FR 22906; 5/30/1989 N, 54 FR 22905; 5/30/1989.
Dolphin, South Asian River (Indus River subspecies) | Platanista gangetica minor | Wherever found | E | 55 FR 50835; 12/11/1990 N, 56 FR 1463; 1/14/1991.
Drill | Mandrillus (=Papio) leucophaeus | Wherever found | E | 41 FR 45990; 10/19/1976.
Dugong | Dugong dugon | Wherever found | E | 35 FR 18319; 12/2/1970, 68 FR 70185; 12/17/2003.
Duiker, Jentink's | Cephalophus jentinki | Wherever found | E | 44 FR 37124; 6/25/1979.
Eland, western giant | Taurotragus derbianus derbianus | Wherever found | E | 44 FR 37124; 6/25/1979.
Elephant, African | Loxodonta africana | Wherever found | T | 43 FR 20499; 5/12/1978, 50 CFR 17.40(e) 4d.
Elephant, Asian | Elephas maximus | Wherever found | E | 41 FR 24062; 6/14/1976.
Ferret, black-footed | Mustela nigripes | Wherever found, except where listed as an experimental population | E | 32 FR 4001; 3/11/1967, 35 FR 8491; 6/2/1970, 56 FR 41473; 9/21/1979, 59 FR 42682; 8/18/1994, 59 FR 42696; 8/18/1994, 61 FR 11320/3/20/1996, 63 FR 52824; 10/1/1998, 65 FR 60879; 10/13/2000, 68 FR 26498; 5/16/2003, 80 FR 66821; 10/30/2015.
Ferret, black-footed | Mustela nigripes | U.S.A. (WY and specified portions of AZ, CO, MT, SD, and UT, see § 17.84(g)(9)) | XN | 56 FR 41473; 8/21/1991, 59 FR 42682; 8/18/1994, 59 FR 42696; 8/18/1994, 61 FR 11320; 3/20/1996, 63 FR 52824; 10/1/1998, 65 FR 60879; 10/13/2000, 68 FR 26498; 5/16/2003, 80 FR 66821; 10/30/2015, 50 CFR 17.84(g) 10j.
Fox, northern swift | Vulpes velox hebes | Canada | E | 35 FR 8491; 6/2/1970.
Fox, San Joaquin kit | Vulpes macrotis mutica | Wherever found | E | 32 FR 4001; 3/11/1967.
Fox, San Miguel Island | Urocyon littoralis littoralis | Wherever found | E | 69 FR 10335; 3/5/2004, 50 CFR 17.95(a) CH.
Fox, Santa Catalina Island | Urocyon littoralis catalinae | Wherever found | E | 69 FR 10335; 3/5/2004, 50 CFR 17.95(a) CH.
Fox, Santa Cruz Island | Urocyon littoralis santacruzae | Wherever found | E | 69 FR 10335; 3/5/2004, 50 CFR 17.95(a) CH.
Fox, Santa Rosa Island | Urocyon littoralis santarosae | Wherever found | E | 69 FR 10335; 3/5/2004, 50 CFR 17.95(a) CH.
Fox, Simien | Canis simensis | Wherever found | E | 44 FR 37124; 6/25/1979.
Gazelle, Arabian | Gazella gazella | Wherever found | E | 44 FR 37124; 6/25/1979.
Gazelle, Clark's | Ammodorcas clarkei | Wherever found | E | 35 FR 8491, 6/2/1970.
Gazelle, dama | Gazella dama | Wherever found | E | 70 FR 52319; 9/2/2005, 35 FR 8491; 6/2/1970.
Gazelle, Moroccan | Gazella dorcas massaesyla | Wherever found | E | 35 FR 8491; 6/2/1970.
Gazelle, mountain (=Cuvier's) | Gazella cuvieri | Wherever found | E | 35 FR 8491; 6/2/1970.
Gazelle, Pelzeln's | Gazella dorcas pelzelni | Wherever found | E | 44 FR 37124; 6/25/1979.
Gazelle, sand | Gazella subgutturosa marica | Wherever found | E | 44 FR 37124; 6/25/1979.
Gazelle, Saudi Arabian | Gazella dorcas saudiya | Wherever found | E | 44 FR 37124; 6/25/1979.
Gazelle, slender-horned | Gazella leptoceros | Wherever found | E | 35 FR 8491; 6/2/1970.
Gibbons | Hylobates spp. (including Nomascus ) | Wherever found | E | 35 FR 8491; 6/2/1970, 41 FR 24062; 6/14/1976.
Goral | Nemorhaedus goral | Wherever found | E | 41 FR 24062; 6/14/1976.
Gorilla | Gorilla gorilla | Wherever found | E | 35 FR 8491; 6/2/1970.
Hare, hispid | Caprolagus hispidus | Wherever found | E | 41 FR 24062; 6/14/1976.
Hartebeest, Swayne's | Alcelaphus buselaphus swaynei | Wherever found | E | 35 FR 8491; 6/2/1970, 41 FR 24062; 6/14/1976.
Hartebeest, Tora | Alcelaphus buselaphus tora | Wherever found | E | 41 FR 24062; 6/14/1976.
Hog, pygmy | Sus salvanius | Wherever found | E | 35 FR 8491; 6/2/1970.
Horse, Przewalski's | Equus przewalskii | Wherever found | E | 41 FR 24062; 6/14/1976.
Huemul, north Andean | Hippocamelus antisensis | Wherever found | E | 41 FR 24062; 6/14/1976.
Huemul, south Andean | Hippocamelus bisulcus | Wherever found | E | 41 FR 24062; 6/14/1976.
Hutia, Cabrera's | Capromys angelcabrerai | Wherever found | E | 51 FR 17977; 5/16/1986.
Hutia, dwarf | Capromys nana | Wherever found | E | 51 FR 17977; 5/16/1986.
Hutia, large-eared | Capromys auritus | Wherever found | E | 51 FR 17977; 5/16/1986.
Hutia, little earth | Capromys sanfelipensis | Wherever found | E | 51 FR 17977; 5/16/1986.
Hyena, Barbary | Hyaena hyaena barbara | Wherever found | E | 35 FR 8491; 6/2/1970.
Hyena, brown | Parahyaena (=Hyaena) brunnea | Wherever found | E | 35 FR 8491, 6/2/1970.
Ibex, Pyrenean | Capra pyrenaica pyrenaica | Wherever found | E | 35 FR 8491; 6/2/1970.
Ibex, Walia | Capra walie | Wherever found | E | 35 FR 8491; 6/2/1970.
Impala, black-faced | Aepyceros melampus petersi | Wherever found | E | 35 FR 8491; 6/2/1970.
Indri | Indri indri (=entire genus) | Wherever found | E | 35 FR 8491; 6/2/1970.
Jaguar | Panthera onca | Wherever found | E | 37 FR 6476; 3/30/1972, 62 FR 39147; 7/22/1997, 50 CFR 17.95(a) CH.
Jaguarundi, Guatemalan | Herpailurus (=Felis) yagouaroundi fossata | Wherever found | E | 41 FR 24062; 6/14/1976.
Jaguarundi, Gulf Coast | Herpailurus (=Felis) yagouaroundi cacomitli | Wherever found | E | 41 FR 24062; 6/14/1976.
Jaguarundi, Panamanian | Herpailurus (=Felis) yagouaroundi panamensis | Wherever found | E | 41 FR 24062; 6/14/1976.
Jaguarundi, Sinaloan | Herpailurus (=Felis) yagouaroundi tolteca | Wherever found | E | 41 FR 24062; 6/14/1976.
Kangaroo rat, Fresno | Dipodomys nitratoides exilis | Wherever found | E | 50 FR 4222; 1/30/1985, 50 CFR 17.95(a) CH.
Kangaroo rat, giant | Dipodomys ingens | Wherever found | E | 52 FR 283; 1/5/1987.
Kangaroo rat, Morro Bay | Dipodomys heermanni morroensis | Wherever found | E | 35 FR 16047; 10/13/1970, 50 CFR 17.95(a) CH.
Kangaroo rat, San Bernardino Merriam's | Dipodomys merriami parvus | Wherever found | E | 63 FR 3835; 1/27/1988, 63 FR 51005; 9/24/1988, 50 CFR 17.95(a) CH.
Kangaroo rat, Stephens' | Dipodomys stephensi (incl. D. cascus) | Wherever found | E | 53 FR 38465; 9/30/1988.
Kangaroo rat, Tipton | Dipodomys nitratoides nitratoides | Wherever found | E | 53 FR 25608; 7/8/1988.
Kangaroo, Tasmanian forester | Macropus giganteus tasmaniensis | Wherever found | E | 38 FR 14678; 6/4/1973.
Koala | Phascolarctos cinereus | Australia | T | 65 FR 26762; 5/9/2000.
Kouprey | Bos sauveli | Wherever found | E | 35 FR 8491; 6/2/1970.
Langur, capped | Trachypithecus (=Presbytis) pileatus | Wherever found | E | 41 FR 24062; 6/14/1976.
Langur, Douc | Pygathrix nemaeus | Wherever found | E | 35 FR 8491; 6/2/1970.
Langur, Francois' | Trachypithecus (=Presbytis) francoisi | Wherever found | E | 41 FR 45990; 10/19/1976.
Langur, golden | Trachypithecus (=Presbytis) geei | Wherever found | E | 41 FR 24062; 6/14/1976.
Langur, gray (=entellus) | Semnopithecus (=Presbytis) entellus | Wherever found | E | 41 FR 24062; 6/14/1976.
Langur, long-tailed | Presbytis potenziani | Wherever found | T | 41 FR 45990; 10/19/1976, 50 CFR 17.40(c) 4d.
Langur, Pagi Island | Nasalis concolor | Wherever found | E | 35 FR 8491; 6/2/1970.
Langur, purple-faced | Presbytis senex | Wherever found | T | 41 FR 45990; 10/19/1976, 50 CFR 17.40(c) 4d.
Lechwe, red | Kobus leche | Wherever found | T | 35 FR 8491; 6/2/1970, 41 FR 24062; 6/14/1976, 45 FR 65132; 10/1/1980.
Lemurs | Lemuridae (incl. genera Lemur, Phaner, Hapalemur, Lepilemur, Microcebus, Allocebus, Cheirogaleus, Varecia ) | Wherever found | E | 35 FR 8491; 6/2/1970, 41 FR 24062; 6/14/1976, 41 FR 26019; 6/24/1976.
Leopard | Panthera pardus | Wherever found, except where it is listed as threatened | E | 35 FR 8491; 6/2/1970, 37 FR 6476; 3/30/1972, 47 FR 4204; 1/28/1982.
Leopard [Southern Africa populations] | Panthera pardus | In Africa, in the wild, south of, and including, the following countries: Gabon, Congo, Zaire, Uganda, Kenya | T | 35 FR 8491: 6/2/1970, 37 FR 6476; 3/30/1972, 47 FR 4204; 1/28/1982, 50 CFR 17.40(f) 4d.
Leopard, clouded | Neofelis nebulosa | Wherever found | E | 35 FR 8491; 6/2/1970, 41 FR 24062; 6/14/1976.
Leopard, snow | Uncia (=Panthera) uncia | Wherever found | E | 37 FR 6476; 3/30/1972.
Linsang, spotted | Prionodon pardicolor | Wherever found | E | 41 FR 24062; 6/14/1976.
Lion | Panthera leo leo | Wherever found | E | 80 FR 79999; 12/23/2015.
Lion | Panthera leo melanochaita | Wherever found | T | 80 FR 79999; 12/23/2015, 50 CFR 17.40(r) 4d.
Loris, lesser slow | Nycticebus pygmaeus | Wherever found | T | 41 FR 45990; 10/19/1976, 50 CFR 17.40(c) 4d.
Lynx, Canada [Contiguous U.S. DPS] | Lynx canadensis | Where found within contiguous U.S.A. | T | 65 FR 16053; 3/24/2000, 50 CFR 17.40(k) 4d, 50 CFR 17.95(a) CH.
Lynx, Spanish | Felis pardina | Wherever found | E | 35 FR 8491; 6/2/1970.
Macaque, Formosan rock | Macaca cyclopis | Wherever found | T | 41 FR 45990; 10/19/1976, 50 CFR 17.40(c) 4d.
Macaque, Japanese | Macaca fuscata | Wherever found | T | 41 FR 45990; 10/19/1976, 50 CFR 17.40(c) 4d.
Macaque, lion-tailed | Macaca silenus | Wherever found | E | 35 FR 8491; 6/2/1970.
Macaque, stump-tailed | Macaca arctoides | Wherever found | T | 41 FR 45990; 10/19/1976, 50 CFR 17.40(c) 4d.
Macaque, Toque | Macaca sinica | Wherever found | T | 41 FR 45990; 10/19/1976, 50 CFR 17.40(c) 4d.
Manatee, Amazonian | Trichechus inunguis | Wherever found | E | 35 FR 8491; 6/2/1970.
Manatee, West African | Trichechus senegalensis | Wherever found | T | 44 FR 42910; 7/20/1979.
Manatee, West Indian | Trichechus manatus | Wherever found | E | 32 FR 4001; 3/11/1967, 35 FR 8491; 6/2/1970, 50 CFR 17.108(a), 50 CFR 17.95(a) CH.
Mandrill | Mandrillus (=Papio) sphinx | Wherever found | E | 41 FR 45990; 10/19/1976.
Mangabey, Tana River | Cercocebus galeritus galeritus | Wherever found | E | 35 FR 8491; 6/2/1970.
Mangabey, white-collared | Cercocebus torquatus | Wherever found | E | 41 FR 45990; 10/19/1976.
Margay | Leopardus (=Felis) wiedii | Mexico southward | E | 37 FR 6476; 3/30/1972.
Markhor, chiltan (=wild goat) | Capra falconeri (=aegagrus) chiltanensis | Wherever found | E | 41 FR 24062; 6/14/1976.
Markhor, straight-horned | Capra falconeri megaceros | Wherever found | T | 41 FR 24062; 6/14/1976, 79 FR 60365; 10/7/2014, 50 CFR 17.40(d) 4d.
Marmoset, buff-headed | Callithrix flaviceps | Wherever found | E | 49 FR 2779; 1/23/1984.
Marmoset, cotton-top | Saguinus oedipus | Wherever found | E | 41 FR 45990; 10/19/1976.
Marmoset, Goeldi's | Callimico goeldii | Wherever found | E | 35 FR 8491; 6/2/1970.
Marmoset, white-eared (=buffy tufted-ear) | Callithrix aurita (=jacchus a.) | Wherever found | E | 51 FR 17977; 5/16/1986.
Marmot, Vancouver Island | Marmota vancouverensis | Wherever found | E | 49 FR 2779; 1/23/1984.
Marsupial, eastern jerboa | Antechinomys laniger | Wherever found | E | 35 FR 18319; 6/2/1970.
Marsupial-mouse, large desert | Sminthopsis psammophila | Wherever found | E | 35 FR 18319; 6/2/1970.
Marsupial-mouse, long-tailed | Sminthopsis longicaudata | Wherever found | E | 35 FR 18319; 6/2/1970.
Marten, Formosan yellow-throated | Martes flavigula chrysospila | Wherever found | E | 35 FR 8491; 6/2/1970.
Monkey, black colobus | Colobus satanas | Wherever found | E | 41 FR 45990; 10/19/1976.
Monkey, black howler | Alouatta pigra | Wherever found | T | 41 FR 45990; 10/19/1976, 50 CFR 17.40(c) 4d.
Monkey, Diana | Cercopithecus diana | Wherever found | E | 41 FR 45990; 10/19/1976.
Monkey, Guizhou snub-nosed | Rhinopithecus brelichi | Wherever found | E | 55 FR 39414; 9/27/1990.
Monkey, L'hoest's | Cercopithecus lhoesti | Wherever found | E | 41 FR 45990; 10/19/1976.
Monkey, mantled howler | Alouatta palliata | Wherever found | E | 41 FR 24062; 6/14/1976.
Monkey, Preuss' red colobus | Procolobus (=Colobus) preussi (=badius p.) | Wherever found | E | 49 FR 2779; 1/23/1984.
Monkey, proboscis | Nasalis larvatus | Wherever found | E | 41 FR 24062; 6/14/1976.
Monkey, red-backed squirrel | Saimiri oerstedii | Wherever found | E | 35 FR 8491; 6/2/1970.
Monkey, red-bellied | Cercopithecus erythrogaster | Wherever found | E | 41 FR 45990; 10/19/1976.
Monkey, red-eared nose-spotted | Cercopithecus erythrotis | Wherever found | E | 41 FR 45990; 10/19/1976.
Monkey, Sichuan snub-nosed | Rhinopithecus roxellana | Wherever found | E | 55 FR 39414; 9/27/1990.
Monkey, spider | Ateles geoffroyi frontatus | Wherever found | E | 35 FR 8491; 6/2/1970.
Monkey, spider | Ateles geoffroyl panamensis | Wherever found | E | 35 FR 8491; 6/2/1970.
Monkey, Tana River red colobus | Procolobus (=Colobus) rufomitratus (=badius r.) | Wherever found | E | 35 FR 8491; 6/2/1970.
Monkey, Tonkin snub-nosed | Rhinopithecus avunculus | Wherever found | E | 41 FR 45990; 10/19/1976, 55 FR 39414; 9/27/1990.
Monkey, woolly spider | Brachyteles arachnoides | Wherever found | E | 35 FR 8491; 6/2/1970.
Monkey, yellow-tailed woolly | Lagothrix flavicauda | Wherever found | E | 41 FR 45990; 10/19/1976.
Monkey, Yunnan snub-nosed | Rhinopithecus bieti | Wherever found | E | 55 FR 39414; 9/27/1990.
Monkey, Zanzibar red colobus | Procolobus (=Colobus) pennantii (=kirki) kirki | Wherever found | E | 35 FR 8491; 6/2/1970.
Mountain beaver, Point Arena | Aplodontia rufa nigra | Wherever found | E | 56 FR 64716; 12/12/1991.
Mouse, Alabama beach | Peromyscus polionotus ammobates | Wherever found | E | 50 FR 23872; 6/6/1985, 50 CFR 17.95(a) CH.
Mouse, Anastasia Island beach | Peromyscus polionotus phasma | Wherever found | E | 54 FR 20598; 5/12/1989.
Mouse, Australian native | Notomys aquilo | Wherever found | E | 41 FR 24062; 6/14/1976.
Mouse, Australian native | Zyzomys pedunculatus | Wherever found | E | 41 FR 24062; 6/14/1976.
Mouse, Choctawhatchee beach | Peromyscus polionotus allophrys | Wherever found | E | 50 FR 23872; 6/6/1985, 50 CFR 17.95(a) CH.
Mouse, Field's | Pseudomys fieldi | Wherever found | E | 35 FR 18319; 12/2/1970.
Mouse, Gould's | Pseudomys gouldii | Wherever found | E | 38 FR 14678; 6/4/1973.
Mouse, Key Largo cotton | Peromyscus gossypinus allapaticola | Wherever found | E | 48 FR 43040; 9/21/1983, 49 FR 34504; 8/31/1984.
Mouse, New Holland | Pseudomys novaehollandiae | Wherever found | E | 35 FR 18319; 12/2/1970.
Mouse, New Mexico meadow jumping | Zapus hudsonius luteus | Wherever found | E | 79 FR 33119; 6/10/2014, 50 CFR 17.95(a) CH.
Mouse, Pacific pocket | Perognathus longimembris pacificus | Wherever found | E | 59 FR 5306; 2/3/1994, 59 FR 49752; 9/29/1994.
Mouse, Perdido Key beach | Peromyscus polionotus trissyllepsis | Wherever found | E | 50 FR 23872; 6/6/1985, 50 CFR 17.95(a) CH.
Mouse, Preble's meadow jumping | Zapus hudsonius preblei | Wherever found | T | 63 FR 26517; 5/13/1998, 78 FR 31679; 5/24/2013, 50 CFR 17.40(l) 4d, 50 CFR 17.95(a) CH.
Mouse, salt marsh harvest | Reithrodontomys raviventris | Wherever found | E | 35 FR 16047; 10/13/1970.
Mouse, Shark Bay | Pseudomys praeconis | Wherever found | E | 35 FR 18319; 12/2/1970.
Mouse, Shortridge's | Pseudomys shortridgei | Wherever found | E | 35 FR 18319; 12/2/1970.
Mouse, smoky | Pseudomys fumeus | Wherever found | E | 35 FR 18319; 12/2/1970.
Mouse, southeastern beach | Peromyscus polionotus niveiventris | Wherever found | T | 54 FR 20598; 5/12/1989.
Mouse, St. Andrew beach | Peromyscus polionotus peninsularis | Wherever found | E | 63 FR 70053; 12/18/1998, 50 CFR 17.95(a) CH.
Mouse, western | Pseudomys occidentalis | Wherever found | E | 35 FR 18319; 12/2/1970.
Muntjac, Fea's | Muntiacus feae | Wherever found | E | 44 FR 37124; 6/25/1979.
Native-cat, eastern | Dasyurus viverrinus | Wherever found | E | 38 FR 14678; 6/4/1973.
Numbat | Myrmecobius fasciatus | Wherever found | E | 35 FR 18319; 12/2/1970, 38 FR 14678; 6/4/1973.
Ocelot | Leopardus (=Felis) pardalis | Wherever found | E | 37 FR 6476; 3/30/1972, 47 FR 31670; 7/21/1982.
Orangutan | Pongo pygmaeus | Wherever found | E | 35 FR 8491; 6/2/1970.
Oryx, Arabian | Oryx leucoryx | Wherever found | E | 35 FR 8491; 6/2/1970.
Oryx, scimitar-horned | Oryx dammah | Wherever found | E | 70 FR 52319; 9/2/2005.
Otter, Cameroon clawless | Aonyx congicus (=congica) microdon | Wherever found | E | 35 FR 8491; 6/2/1970.
Otter, giant | Pteronura brasiliensis | Wherever found | E | 35 FR 8491; 6/2/1970.
Otter, long-tailed | Lontra (=Lutra) longicaudis (incl. platensis ) | Wherever found | E | 35 FR 8491; 6/2/1970, 41 FR 24062; 6/24/1976.
Otter, marine | Lontra (=Lutra) felina | Wherever found | E | 41 FR 24062; 6/24/1976.
Otter, northern sea [Southwest Alaska DPS] | Enhydra lutris kenyoni | Southwest Alaska, from Attu Island to Western Cook Inlet, including Bristol Bay, the Kodiak Archipelago, and the Barren Islands | T | 70 FR 46366; 8/9/2005, 50 CFR 17.40(p) 4d, 50 CFR 17.95(a) CH.
Otter, southern river | Lontra (=Lutra) provocax | Wherever found | E | 41 FR 24062; 6/14/1976.
Otter, southern sea | Enhydra lutris nereis | Wherever found | T | 42 FR 2965; 1/14/1977.
Panda, giant | Ailuropoda melanoleuca | Wherever found | E | 49 FR 2779; 1/23/1984.
Pangolin, Temnick's ground | Manis temmincki | Wherever found | E | 41 FR 24062; 6/14/1976.
Panther, Florida | Puma (=Felis) concolor coryi | Wherever found | E | 32 FR 4001; 3/11/1967.
Planigale, little | Planigale ingrami subtilissima | Wherever found | E | 35 FR 18319; 12/2/1970.
Planigale, southern | Planigale tenuirostris | Wherever found | E | 35 FR 18319; 12/2. 1970.
Pocket gopher, Olympia | Thomomys mazama pugetensis | Wherever found | T | 79 FR 19759; 4/9/2014, 50 CFR 17.40(a) 4d, 50 CFR 17.95(a) CH.
Pocket gopher, Roy Prairie | Thomomys mazama glacialis | Wherever found | T | 79 FR 19759; 4/9/2014, 50 CFR 17.40(a) 4d.
Pocket gopher, Tenino | Thomomys mazama tumuli | Wherever found | T | 79 FR 19759; 4/9/2014, 50 CFR 17.40(a) 4d, 50 CFR 17.95(a) CH.
Pocket gopher, Yelm | Thomomys mazama yelmensis | Wherever found | T | 79 FR 19759; 4/9/2014, 50 CFR 17.40(a) 4d, 50 CFR 17.95(a) CH.
Porcupine, thin-spined | Chaetomys subspinosus | Wherever found | E | 35 FR 8491; 6/2/1970.
Porpoise, Gulf of California harbor (cochito, vaquita) | Phocoena sinus | Wherever found | E | 50 FR 1056; 1/9/1985 N, 50 FR 1056; 1/9/1985.
Possum, Leadbeater's | Gymnobelideus leadbeateri | Wherever found | E | 51 FR 17977; 5/16/1986.
Possum, mountain pygmy | Burramys parvus | Wherever found | E | 35 FR 18319; 12/2/1970.
Possum, scaly-tailed | Wyulda squamicaudata | Wherever found | E | 35 FR 18319; 12/2/1970.
Prairie dog, Mexican | Cynomys mexicanus | Wherever found | E | 35 FR 8491; 6/2/1970.
Prairie dog, Utah | Cynomys parvidens | Wherever found | T | 38 FR 14678; 6/4/1973, 49 FR 22330; 5/29/1984, 50 CFR 17.40(g) 4d.
Pronghorn, peninsular | Antilocapra americana peninsularis | Wherever found | E | 40 FR 44149; 9/25/1975.
Pronghorn, Sonoran | Antilocapra americana sonoriensis | Wherever found, except where listed as an experimental population | E | 32 FR 4001; 3/11/1967, 35 FR 8491; 6/2/1970.
Pronghorn, Sonoran | Antilocapra americana sonoriensis | In Arizona, an area north of Interstate 8 and south of Interstate 10, bounded by the Colorado River on the west and Interstate 10 on the east; and an area south of Interstate 8, bounded by Highway 85 on the west, Interstates 10 and 19 on the east, and the U.S.-Mexico border on the south | XN | 76 FR 25593; 5/5/2011, 50 CFR 17.84(v) 10j.
Pudu | Pudu pudu | Wherever found | E | 41 FR 24062; 6/14/1976.
Puma (=mountain lion) | Puma (=Felis) concolor (all subsp. except coryi ) | U.S.A. (FL) | T(S/A) | 56 FR 40265; 8/14/1991, 50 CFR 17.40(h) 4d.
Puma, Costa Rican | Puma (=Felis) concolor costaricensis | Wherever found | E | 41 FR 24062; 6/14/1976.
Puma (=cougar), eastern | Puma (=Felis) concolor couguar | Wherever found | E | 38 FR 14678; 6/4/1973.
Quokka | Setonix brachyurus | Wherever found | E | 38 FR 14678; 6/4/1973.
Rabbit, Columbia Basin pygmy [Columbia Basin DPS] | Brachylagus idahoensis | U.S.A. (WA—Douglas, Grant, Lincoln, Adams, Benton Counties) | E | 68 FR 10388; 3/5/2003.
Rabbit, Lower Keys | Sylvilagus palustris hefneri | Wherever found | E | 55 FR 25588; 6/21/1990.
Rabbit, riparian brush | Sylvilagus bachmani riparius | Wherever found | E | 65 FR 8881; 2/23/2000.
Rabbit, Ryukyu | Pentalagus furnessi | Wherever found | E | 44 FR 37124; 6/25/1979.
Rabbit, volcano | Romerolagus diazi | Wherever found | E | 35 FR 8491; 6/2/1970.
Rat, false water | Xeromys myoides | Wherever found | E | 35 FR 18319; 12/2/1970.
Rat, stick-nest | Leporillus conditor | Wherever found | E | 38 FR 14678; 6/4/1970.
Rat-kangaroo, brush-tailed | Bettongia penicillata | Wherever found | E | 35 FR 18319; 12/2/1970.
Rat-kangaroo, desert (=plain) | Caloprymnus campestris | Wherever found | E | 35 FR 18319; 12/2/1970.
Rat-kangaroo, Gaimard's | Bettongia gaimardi | Wherever found | E | 38 FR 14678; 6/4/1970.
Rat-kangaroo, Lesuer's | Bettongia lesueur | Wherever found | E | 35 FR 18319; 12/2/1970.
Rat-kangaroo, Queensland | Bettongia tropica | Wherever found | E | 35 FR 18319; 12/2/1970.
Rhinoceros, black | Diceros bicornis | Wherever found | E | 45 FR 47352; 7/14/1980.
Rhinoceros, great Indian | Rhinoceros unicornis | Wherever found | E | 35 FR 18319; 12/2/1970.
Rhinoceros, Javan | Rhinoceros sondaicus | Wherever found | E | 35 FR 8491; 6/2/1970.
Rhinoceros, northern white | Ceratotherium simum cottoni | Wherever found | E | 35 FR 8491; 6/2/1970.
Rhinoceros, southern white | Ceratotherium simum simum | Wherever found | T(S/A) | 79 FR 28847; 5/20/2014.
Rhinoceros, Sumatran | Dicerorhinus sumatrensis | Wherever found | E | 35 FR 8491; 6/2/1970.
Rice rat [Lower FL Keys DPS] | Oryzomys palustris natator | Lower FL Keys (west of Seven Mile Bridge) | E | 56 FR 19809; 4/30/1990, 50 CFR 17.95(a) CH.
Saiga, Mongolian (antelope) | Saiga tatarica mongolica | Wherever found | E | 41 FR 24062; 6/14/1976.
Saki, southern bearded | Chiropotes satanas satanas | Wherever found | E | 51 FR 17977; 5/16/1986.
Saki, white-nosed | Chiropotes albinasus | Wherever found | E | 35 FR 8491; 6/2/1970.
Sea lion, Steller [Western DPS] | Eumetopias jubatus | Western DPS—see 50 CFR 224.101 | E | 55 FR 13488; 4/10/1990, 55 FR 50005; 12/4/1990, 62 FR 24345; 5/5/1997 N, 62 FR 30772; 6/5/1997, 50 CFR 226.202 CH, 50 CFR 224.103.
Seal, bearded [Beringia DPS] | Erignathus barbatus nauticus | Beringia DPS—see 50 CFR 223.102 | T | 77 FR 76739; 12/28/2012 N, 79 FR 42687; 7/23/2014.
Seal, bearded [Okhotsk DPS] | Erignathus barbatus nauticus | Okhotsk DPS—see 50 CFR 223.102 | T | 77 FR 76739; 12/28/2012 N, 79 FR 42687; 7/23/2014.
Seal, Guadalupe fur | Arctocephalus townsendi | Wherever found | T | 32 FR 4001; 3/11/1967, 35 FR 16047; 10/13/1970, 50 FR 51251; 12/16/1985, 55 FR 14051; 3/23/1999 N, 50 CFR 223.201 4d.
Seal, Hawaiian monk | Neomonachus schauinslandi (=Monachus schauinslandi) | Wherever found | E | 41 FR 51611; 11/23/1976, 55 FR 14051; 3/23/1999 N, 50 CFR 226.201 CH.
Seal, Mediterranean monk | Monachus monachus | Wherever found | E | 35 FR 8491; 6/2/1970, 55 FR 14051; 3/23/1999 N.
Seal, ringed (Arctic subspecies) | Phoca (=Pusa) hispida hispida | Wherever found | T | 77 FR 76705; 12/28/2012 N, 79 FR 42687; 7/23/2014.
Seal, ringed (Baltic subspecies) | Phoca (=Pusa) hispida botnica | Wherever found | T | 77 FR 76705; 12/28/2012 N, 79 FR 42687; 7/23/2014.
Seal, ringed (Ladoga subspecies) | Phoca (=Pusa) hispida ladogensis | Wherever found | E | 77 FR 76705; 12/28/2012 N, 79 FR 42687; 7/23/2014.
Seal, ringed (Okhotsk subspecies) | Phoca (=Pusa) hispida ochotensis | Wherever found | T | 77 FR 76705; 12/28/2012 N, 79 FR 42687; 7/23/2014.
Seal, ringed (Saimaa subspecies) | Phoca hispida saimensis | Wherever found | E | 58 FR 26920; 5/6/1993 N, 58 FR 40538; 7/28/1993.
Seal, spotted [Southern DPS] | Phoca largha | Southern DPS—see 50 CFR 223.102 | T | 75 FR 65239; 10/22/2010 N, 76 FR 20558; 4/13/2011, 79 FR 42687; 7/23/2014, 50 CFR 223.212 4d.
Seledang | Bos gaurus | Wherever found | E | 35 FR 8491; 6/2/1970.
Serow | Naemorhedus (=Capricornis) sumatraensis | Wherever found | E | 41 FR 26019; 6/24/1976.
Serval, Barbary | Leptailurus (=Felis) serval constantina | Wherever found | E | 35 FR 8491; 6/2/1970.
Shapo | Ovis vignei vignei | Wherever found | E | 41 FR 26019; 6/24/1976.
Sheep, Peninsular bighorn [Peninsular CA DPS] | Ovis canadensis nelsoni | U.S.A. (CA) Peninsular Ranges | E | 63 FR 13134; 3/18/1998, 50 CFR 17.95(a) CH.
Sheep, Sierra Nevada bighorn | Ovis canadensis sierrae | U.S.A. (CA)—Sierra Nevada | E | 64 FR 19300; 4/20/1999, 65 FR 20; 1/3/2000, 73 FR 45534; 8/5/2008, 50 CFR 17.95(a) CH.
Shou | Cervus elaphus wallichi | Wherever found | E | 35 FR 8491; 6/2/1970.
Shrew, Buena Vista Lake | Sorex ornatus relictus | Wherever found | E | 67 FR 10101; 3/6/2002, 50 CFR 17.95(a) CH.
Siamang | Symphalangus syndactylus | Wherever found | E | 41 FR 24062; 6/14/1976.
Sifakas | Propithecus spp. | Wherever found | E | 35 FR 18319; 12/2/1970.
Sloth, Brazilian three-toed | Bradypus torquatus | Wherever found | E | 35 FR 8491; 6/2/1970.
Solenodon, Cuban | Solenodon cubanus | Wherever found | E | 35 FR 8491; 6/2/1970.
Solenodon, Haitian | Solenodon paradoxus | Wherever found | E | 35 FR 8491; 6/2/1970.
Squirrel, Carolina northern flying | Glaucomys sabrinus coloratus | Wherever found | E | 50 FR 26999; 7/1/1985.
Squirrel, Mount Graham red | Tamiasciurus hudsonicus grahamensis | Wherever found | E | 52 FR 20994; 6/3/1987, 50 CFR 17.95(a) CH.
Squirrel, northern Idaho ground | Spermophilus brunneus brunneus | Wherever found | T | 65 FR 17780; 4/5/2000.
Stag, Barbary | Cervus elaphus barbarus | Wherever found | E | 35 FR 8491; 6/2/1970.
Stag, Kashmir | Cervus elaphus hanglu | Wherever found | E | 35 FR 8491; 6/2/1970.
Suni, Zanzibar | Neotragus moschatus moschatus | Wherever found | E | 44 FR 37124; 6/25/1979.
Tahr, Arabian | Hemitragus jayakari | Wherever found | E | 44 FR 37124; 6/25/1979.
Tamaraw | Bubalus mindorensis | Wherever found | E | 35 FR 18319; 12/2/1970.
Tamarin, golden-rumped | Leontopithecus spp. | Wherever found | E | 35 FR 8491; 6/2/1970.
Tamarin, pied | Saguinus bicolor | Wherever found | E | 41 FR 45990; 10/19/1976.
Tamarin, white-footed | Saguinus leucopus | Wherever found | T | 41 FR 45990; 10/19/1976, 50 CFR 17.40(c) 4d.
Tapir, Asian | Tapirus indicus | Wherever found | E | 41 FR 24062; 6/14/1976.
Tapir, Central American | Tapirus bairdii | Wherever found | E | 35 FR 8491; 6/2/1970.
Tapir, mountain | Tapirus pinchaque | Wherever found | E | 35 FR 8491; 6/2/1970.
Tapir, South American (=Brazilian) | Tapirus terrestris | Wherever found | E | 35 FR 8491; 6/2/1970.
Tarsier, Philippine | Tarsius syrichta | Wherever found | T | 41 FR 45990; 10/19/1976, 50 CFR 17.40(c) 4d.
Tiger | Panthera tigris | Wherever found | E | 35 FR 8491; 6/2/1970, 37 FR 6476; 3/30/1972.
Tiger, Tasmanian | Thylacinus cynocephalus | Wherever found | E | 35 FR 8491; 6/2/1970.
Uakari (all species) | Cacajao spp. | Wherever found | E | 35 FR 8491; 6/2/1970.
Urial | Ovis musimon ophion | Wherever found | E | 41 FR 24062; 6/14/1976.
Vicuna [Argentina, Bolivia, Chile and Peru] | Vicugna vicugna | Wherever found, except Ecudator | T | 35 FR 8491; 6/2/1970, 67 FR 37695; 5/30/2002, 50 CFR 17.40(m) 4d.
Vicuna [Ecuador DPS] | Vicugna vicugna | Ecuador | E | 35 FR 8491; 6/2/1970, 67 FR 37695; 5/30/2002.
Vole, Amargosa | Microtus californicus scirpensis | Wherever found | E | 49 FR 45160; 11/15/1984, 50 CFR 17.95(a) CH.
Vole, Florida salt marsh | Microtus pennsylvanicus dukecampbelli | Wherever found | E | 56 FR 1457; 1/14/1991.
Vole, Hualapai Mexican | Microtus mexicanus hualpaiensis | Wherever found | E | 52 FR 36776; 10/1/1987.
Wallaby, banded hare | Lagostrophus fasciatus | Wherever found | E | 35 FR 18319; 12/2/1970.
Wallaby, brindled nail-tailed | Onychogalea fraenata | Wherever found | E | 35 FR 18319; 12/2/1970.
Wallaby, crescent nail-tailed | Onychogalea lunata | Wherever found | E | 35 FR 18319; 12/2/1970.
Wallaby, Parma | Macropus parma | Wherever found | E | 35 FR 18319; 12/2/1970.
Wallaby, western hare | Lagorchestes hirsutus | Wherever found | E | 35 FR 18319; 12/2/1970.
Wallaby, yellow-footed rock | Petrogale xanthopus | Wherever found | E | 38 FR 14678; 6/4/1973.
Whale, beluga [Cook Inlet DPS] | Delphinapterus leucas | Cook Inlet DPS—see 50 CFR 224.101 | E | 73 FR 62919; 10/22/2008 N, 76 FR 20558; 4/13/2011, 79 FR 42687; 7/23/2014, 50 CFR 226.220 CH.
Whale, blue | Balaenoptera musculus | Wherever found | E | 35 FR 8491; 6/2/1970.
Whale, bowhead | Balaena mysticetus | Wherever found | E | 35 FR 8491; 6/2/1970.
Whale, false killer [Main Hawaiian Islands Insular DPS] | Pseudorca crassidens | Main Hawaiian Islands Insular DPS—see 50 CFR 224.101 | E | 77 FR 70915; 11/28/2012 N, 79 FR 42687; 7/23/2014.
Whale, finback | Balaenoptera physalus | Wherever found | E | 35 FR 8491; 6/2/1970.
Whale, gray [Western North Pacific DPS] | Eschrichtius robustus | Western North Pacific DPS—see 50 CFR 224.101 | E | 35 FR 8491; 6/2/1970, 59 FR 31094; 6/16/1994 N, 79 FR 42687; 7/23/2014.
Whale, humpback | Megaptera novaeangliae | Wherever found | E | 35 FR 8491; 6/2/1970, 50 CFR 224.103.
Whale, killer [Southern Resident DPS] | Orcinus orca | Southern Resident DPS—see 50 CFR 224.101 | E | 70 FR 69903; 11/18/2005 N, 72 FR 16284; 4/4/2007, 76 FR 20558; 4/13/2011, 79 FR 42687; 7/23/2014, 80 CFR 7380; 2/10/2015 N, 50 CFR 224.103, 50 CFR 226.206 CH.
Whale, North Atlantic right | Eubalaena glacialis | Wherever found | E | 35 FR 8491; 6/2/1970, 73 FR 12024; 3/6/2008 N, 76 FR 20558; 4/13/2011, 79 FR 42687; 7/23/2014, 50 CFR 224.103, 50 CFR 226.203 CH.
Whale, North Pacific right | Eubalaena japonica | Wherever found | E | 35 FR 8491; 6/2/1970, 73 FR 12024; 3/6/2008 N, 76 FR 20558; 4/13/2011, 79 FR 42687; 7/23/2014, 50 CFR 226.215 CH.
Whale, sei | Balaenoptera borealis | Wherever found | E | 35 FR 8491; 6/2/1970.
Whale, Southern right | Eubalaena australis | Wherever found | E | 35 FR 8491; 6/2/1970, 73 FR 12024; 3/6/2008 N, 76 FR 20558; 4/13/2011.
Whale, sperm | Physeter catodon (=macrocephalus) | Wherever found | E | 35 FR 8491; 6/2/1970.
Wolf, gray | Canis lupus | U.S.A.: All of AL, AR, CA, CO, CT, DE, FL, GA, IA, IN, IL, KS, KY, LA, MA, MD, ME, MI, MO, MS, NC, ND, NE, NH, NJ, NV, NY, OH, OK, PA, RI, SC, SD, TN, TX, VA, VT, WI, and WV; and portions of AZ, NM, OR, UT, and WA as follows: | E | 32 FR 4001; 3/11/1967, 38 FR 14678; 6/4/1973, 41 FR 17736; 4/28/1976, 41 FR 24062; 6/14/1976, 43 FR 9607; 3/9/1978, 80 FR 9218; 2/20/2015, 50 CFR 17.95(a) CH.
|  | (1) Northern AZ (that portion north of the centerline of Interstate Highway 40);
|  | (2) Northern NM (that portion north of the centerline of Interstate Highway 40);
|  | (3) Western OR (that portion of OR west of the centerline of Highway 395 and Highway 78 north of Burns Junction and that portion of OR west of the centerline of Highway 95 south of Burns Junction);
|  | (4) Most of Utah (that portion of UT south and west of the centerline of Highway 84 and that portion of UT south of Highway 80 from Echo to the UT/WY Stateline); and
|  | (5) Western WA (that portion of WA west of the centerline of Highway 97 and Highway 17 north of Mesa and that portion of WA west of the centerline of Highway 395 south of Mesa). Mexico.
Wolf, gray [MN DPS] | Canis lupus | U.S.A. (MN) | T | 43 FR 9607; 3/9/1978, 50 CFR 17.40(d) 4d, 50 CFR 17.95(a) CH.
Wolf, gray [Northern Rocky Mountain DPS] | Canis lupus | Northern Rocky Mountain DPS—U.S.A. (WY—see § 17.84(i) and (n)) | XN | 59 FR 60252; 11/22/1994, 59 FR 60266; 11/22/1994, 70 FR 1286; 1/16/2005, 73 FR 4720; 1/28/2008, 50 CFR 17.84(i) 10j, 50 CFR 17.84(n) 10j.
Wolf, maned | Chrysocyon brachyurus | Wherever found | E | 35 FR 18319; 12/2/1970.
Wolf, Mexican | Canis lupus baileyi | Wherever found, except where included in an experimental population as set forth in § 17.84(k) | E | 40 FR 17590; 4/21/1975, 80 FR 2488; 1/16/2015.
Wolf, Mexican | Canis lupus baileyi | U.S.A. (portions of AZ and NM)—see § 17.84(k) | XN | 63 FR 1752; 1/12/1998, 80 FR 2512; 1/16/2015, 50 CFR 17.84(k) 10j.
Wolf, red | Canis rufus | Wherever found, except where listed as an experimental population | E | 32 FR 4001; 3/11/1967, 51 FR 41790; 11/19/1986, 56 FR 56325; 11/4/1991, 60 FR 18941; 4/13/1995.
Wolf, red | Canis rufus | U.S.A. (portions of NC and TN—see § 17.84(c)(9)) | XN | 51 FR 41790; 11/19/1986, 56 FR 56325; 11/4/1991, 60 FR 18941; 4/13/1995, 50 CFR 17.84(c) 10j.
Wombat, Queensland hairy-nosed (incl. Barnard's) | Lasiorhinus krefftii (formerly L. barnardi and L. gillespiei ) | Wherever found | E | 35 FR 18319; 12/2/1970, 38 FR 14678; 6/4/1973.
Woodrat, Key Largo | Neotoma floridana smalli | Wherever found | E | 48 FR 43040; 9/21/1983, 49 FR 34504; 8/31/1984.
Woodrat, riparian (San Joaquin Valley) | Neotoma fuscipes riparia | Wherever found | E | 65 FR 8881; 2/23/2000.
Yak, wild | Bos mutus (=grunniens m.) | Wherever found | E | 35 FR 8491; 6/2/1970.
Zebra, Grevy's | Equus grevyi | Wherever found | T | 44 FR 49218; 8/21/1979.
Zebra, Hartmann's mountain | Equus zebra hartmannae | Wherever found | T | 44 FR 49218; 8/21/1979 46 FR 11665; 2/10/1981.
Zebra, mountain | Equus zebra zebra | Wherever found | E | 41 FR 24062; 6/14/1976 46 FR 11665; 2/10/1981.
Birds
Adjutant, greater | Leptoptilos dubius | Wherever found | E | 76 FR 50052; 8/11/2011.
Akekee (honeycreeper) | Loxops caeruleirostris | Wherever found | E | 75 FR 18960; 4/13/2010 50 CFR 17.95(b) CH.
Akepa, Hawaii | Loxops coccineus | Wherever found | E | 35 FR 16047; 10/13/1970.
Akepa, Maui | Loxops ochraceus | Wherever found | E | 35 FR 16047; 10/13/1970.
Akialoa, Kauai | Hemignathus stejnegeri | Wherever found | E | 32 FR 4001; 3/11/1967.
Akiapolaau | Hemignathus wilsoni | Wherever found | E | 32 FR 4001; 3/11/1967.
Akikiki (honeycreeper) | Oreomystis bairdi | Wherever found | E | 75 FR 18960; 4/13/2010 50 CFR 17.95(b) CH.
Albatross, Amsterdam | Diomedea amsterdamensis | Wherever found | E | 60 FR 2899; 1/12/1995.
Albatross, short-tailed | Phoebastria (=Diomedea) albatrus | Wherever found | E | 35 FR 8491; 6/2/1970, 65 FR 46643; 7/31/2000.
Alethe, Thyolo | Alethe choloensis | Wherever found | E | 60 FR 2899; 1/12/1995.
Antpitta, brown-banded | Grallaria milleri | Wherever found | E | 78 FR 64637; 10/29/2013.
Antwren, black-hooded | Formicivora erythronotos | Wherever found | E | 75 FR 81794; 12/28/2010.
Blackbird, yellow-shouldered | Agelaius xanthomus | Wherever found | E | 41 FR 51019; 11/19/1976, 50 CFR 17.95(b) CH.
Bobwhite, masked (quail) | Colinus virginianus ridgwayi | Wherever found | E | 32 FR 4001; 3/11/1967, 35 FR 8491; 6/2/1970.
Booby, Abbott's | Papasula (=Sula) abbotti | Wherever found | E | 41 FR 24062; 6/14/1976.
Bristlebird, western | Dasyornis longirostris (=brachypterus l.) | Wherever found | E | 35 FR 8491; 6/2/1970.
Bristlebird, western rufous | Dasyornis broadbenti littoralis | Wherever found | E | 41 FR 24062; 6/14/1976.
Bulbul, Mauritius olivaceous | Hypsipetes borbonicus olivaceus | Wherever found | E | 35 FR 8491; 6/2/1970.
Bullfinch, Sao Miguel (finch) | Pyrrhula pyrrhula murina | Wherever found | E | 35 FR 8491; 6/2/1970.
Bush-shrike, Ulugura | Malaconotus alius | Wherever found | T | 60 FR 2899; 1/12/1995.
Bushwren, New Zealand | Xenicus longipes | Wherever found | E | 35 FR 8491; 6/2/1970.
Bustard, great Indian | Ardeotis (=Choriotis) nigriceps | Wherever found | E | 35 FR 8491; 6/2/1970.
Cahow | Pterodroma cahow | Wherever found | E | 35 FR 8491; 6/2/1970.
Capercaillie, Cantabrian | Tetrao urogallus cantabricus | Wherever found | E | 76 FR 50052; 8/11/2011.
Caracara, crested, (Audubon's) [FL DPS] | Polyborus plancus audubonii | U.S.A. (FL) | T | 52 FR 25229; 7/6/1987.
Cinclodes, royal | Cinclodes aricomae | Wherever found | E | 77 FR 43434; 7/24/2012.
Cockatoo, Philippine | Cacatua haematuropygia | Wherever found | E | 79 FR 35870; 6/24/2014.
Cockatoo, salmon-crested | Cacatua moluccensis | Wherever found | T | 76 FR 30758; 5/26/2011 50 CFR 17.41(c) 4d.
Cockatoo, white | Cacatua alba | Wherever found | T | 79 FR 35870; 6/24/2014 50 CFR 17.41(c) 4d.
Cockatoo, yellow-crested | Cacatua sulphurea | Wherever found | E | 79 FR 35870; 6/24/2014.
Condor, Andean | Vultur gryphus | Wherever found | E | 35 FR 18319; 12/2/1970.
Condor, California | Gymnogyps californianus | U.S.A. only, except where listed as an experimental population | E | 32 FR 4001; 3/11/1967, 61 FR 54045; 10/16/1996, 50 CFR 17.95(b) CH.
Condor, California | Gymnogyps californianus | U.S.A. (specific portions of Arizona, Nevada, and Utah)—see § 17.84(j) | XN | 61 FR 54045; 10/16/1996, 50 CFR 17.84(j) 10j.
Coot, Hawaiian | Fulica americana alai | Wherever found | E | 35 FR 16047/10/13/1970.
Cotinga, banded | Cotinga maculata | Wherever found | E | 41 FR 24062; 6/14/1976.
Cotinga, white-winged | Xipholena atropurpurea | Wherever found | E | 41 FR 24062; 6/14/1976.
Courser, Jerdon's | Rhinoptilus bitorquatus | Wherever found | E | 76 FR 50052; 8/11/2011.
Crane, black-necked | Grus nigricollis | Wherever found | E | 41 FR 24062; 6/14/1976.
Crane, Cuba sandhill | Grus canadensis nesiotes | Wherever found | E | 41 FR 24062; 6/14/1976.
Crane, hooded | Grus monacha | Wherever found | E | 35 FR 18319; 12/2/1970.
Crane, Japanese | Grus japonensis | Wherever found | E | 35 FR 8491; 6/2/1970.
Crane, Mississippi sandhill | Grus canadensis pulla | Wherever found | E | 38 FR 14678; 6/4/1973, 50 CFR 17.95(b) CH.
Crane, Siberian white | Grus leucogeranus | Wherever found | E | 35 FR 18319; 12/2/1970.
Crane, white-naped | Grus vipio | Wherever found | E | 41 FR 24062; 6/14/1976.
Crane, whooping | Grus americana | Wherever found, except where listed as an experimental population | E | 32 FR 4001; 3/11/1967, 35 FR 8491; 3/9/1978 50 CFR 17.95(b) CH.
Crane, whooping | Grus americana | U.S.A. (AL, AR, CO, FL, GA, ID, IL, IN, IA, KY, LA, MI, MN, MS, MO, NC, NM, OH, SC, TN, UT, VA, WI, WV, western half of WY) | XN | 58 FR 5561; 1/22/1993, 62 FR 38932; 7/21/1997, 66 FR 33903; 6/26/2001, 76 FR 6066; 2/3/2011, 50 CFR 17.84(h) 10j.
Creeper, Hawaii | Oreomystis mana | Wherever found | E | 40 FR 44149; 9/25/1975.
Creeper, Molokai | Paroreomyza flammea | Wherever found | E | 35 FR 16047; 10/13/1970.
Creeper, Oahu | Paroreomyza maculata | Wherever found | E | 35 FR 16047; 10/13/1970.
Crow, Hawaiian | Corvus hawaiiensis | Wherever found | E | 32 FR 4001; 3/11/1967.
Crow, Mariana | Corvus kubaryi | Wherever found | E | 49 FR 33881; 8/27/1984, 50 CFR 17.95(b) CH.
Crow, white-necked | Corvus leucognaphalus | Wherever found | E | 56 FR 13598; 4/3/1991.
Cuckoo, yellow-billed [Western DPS] | Coccyzus americanus | Western DPS: U.S.A. (AZ, CA, CO (western), ID, MT (western), NM (western), NV, OR, TX (western), UT, WA, WY (western)); Canada (British Columbia (southwestern); Mexico (Baja California, Baja California Sur, Chihuahua, Durango (western), Sinaloa, Sonora) | T | 79 FR 59991; 10/3/2014.
Cuckoo-shrike, Mauritius | Coquus typicus | Wherever found | E | 35 FR 8491; 6/2/1970.
Cuckoo-shrike, Reunion | Coquus newtoni | Wherever found | E | 35 FR 8491; 6/2/1970.
Curassow, blue-billed | Crax alberti | Wherever found | E | 78 FR 64637; 10/29/2013.
Curassow, razor-billed | Mitu mitu mitu | Wherever found | E | 41 FR 24062; 6/14/1976.
Curassow, red-billed | Crax blumenbachii | Wherever found | E | 35 FR 18319; 12/2/1970.
Curassow, Trinidad white-headed | Pipile pipile pipile | Wherever found | E | 35 FR 8491; 6/2/1970.
Curlew, Eskimo | Numenius borealis | Wherever found | E | 32 FR 4001; 3/11/1967, 35 FR 8491; 6/2/1970.
Curlew, slender-billed | Numenius tenuirostris | Wherever found | E | 76 FR 50052; 8/11/2011.
Dove, cloven-feathered | Drepanoptila holosericea | Wherever found | E | 35 FR 8491; 6/2/1970.
Dove, Grenada gray-fronted | Leptotila rufaxilla wellsi | Wherever found | E | 35 FR 8491; 6/2/1970.
Duck, Hawaiian | Anas wyvilliana | Wherever found | E | 32 FR 4001; 3/11/1967.
Duck, Laysan | Anas laysanensis | Wherever found | E | 32 FR 4001; 3/11/1967.
Duck, pink-headed | Rhodonessa caryophyllacea | Wherever found | E | 41 FR 24062; 6/14/1976.
Duck, white-winged wood | Cairina scutulata | Wherever found | E | 35 FR 8491; 6/2/1970.
Eagle, Greenland white-tailed | Haliaeetus albicilla groenlandicus | Wherever found | E | 41 FR 24062; 6/14/1976.
Eagle, harpy | Harpia harpyja | Wherever found | E | 41 FR 24062; 6/14/1976.
Eagle, Madagascar sea | Haliaeetus vociferoides | Wherever found | E | 60 FR 2899; 1/12/1995.
Eagle, Madagascar serpent | Eutriorchis astur | Wherever found | E | 60 FR 2899; 1/12/1995.
Eagle, Philippine | Pithecophaga jefferyi | Wherever found | E | 35 FR 8491; 6/2/1970.
Eagle, Spanish imperial | Aquila heliaca adalberti | Wherever found | E | 35 FR 8491; 6/2/1970.
Egret, Chinese | Egretta eulophotes | Wherever found | E | 35 FR 8491; 6/2/1970.
Eider, spectacled | Somateria fischeri | Wherever found | T | 58 FR 27474; 5/10/1993, 50 CFR 17.95(b) CH.
Eider, Steller's [AK Breeding DPS] | Polysticta stelleri | U.S.A. (AK breeding population only) | T | 62 FR 31748; 6/11/1997, 50 CFR 17.95(b) CH.
Elepaio, Oahu | Chasiempis ibidis | Wherever found | E | 65 FR 20760; 4/18/2000, 50 CFR 17.95(b) CH.
Falcon, Eurasian peregrine | Falco peregrinus peregrinus | Wherever found | E | 41 FR 24062; 6/14/1976.
Falcon, northern aplomado | Falco femoralis septentrionalis | Wherever found, except where listed as an experimental population | E | 51 FR 6686; 2/25/1986.
Falcon, northern aplomado | Falco femoralis septentrionalis | U.S.A. (AZ, NM) | XN | 71 FR 42298; 7/26/2006, 50 CFR 17.84(p) 10j.
Finch, Laysan (honeycreeper) | Telespyza cantans | Wherever found | E | 32 FR 4001; 3/11/1967.
Finch, Nihoa (honeycreeper) | Telespyza ultima | Wherever found | E | 32 FR 4001; 3/11/1967.
Fire-eye, fringed-backed | Pyriglena atra | Wherever found | E | 75 FR 81794; 12/28/2010.
Flamingo, Andean | Phoenicoparrus andinus | Wherever found | E | 75 FR 50814; 8/17/2010.
Flycatcher, Euler's | Empidonax euleri johnstonei | Wherever found | E | 35 FR 8491; 6/2/1970.
Flycatcher, Seychelles paradise | Terpsiphone corvina | Wherever found | E | 35 FR 8491; 6/2/1970.
Flycatcher, southwestern willow | Empidonax traillii extimus | Wherever found | E | 60 FR 10695; 2/27/1995, 50 CFR 17.95(b) CH.
Flycatcher, Tahiti | Pomarea nigra | Wherever found | E | 35 FR 8491; 6/2/1970.
Fody, Mauritius | Foudia rubra | Wherever found | E | 60 FR 2899; 1/12/1995.
Fody, Rodrigues | Foudia flavicans | Wherever found | E | 60 FR 2899; 1/12/1995.
Fody, Seychelles (weaver-finch) | Foudia sechellarum | Wherever found | E | 35 FR 8491; 6/2/1970.
Francolin, Djibouti | Francolinus ochropectus | Wherever found | E | 60 FR 2899; 1/12/1995.
Frigatebird, Andrew's | Fregata andrewsi | Wherever found | E | 41 FR 24062; 6/14/1976.
Gallinule, Hawaiian common (Alae ula) | Gallinula chloropus (=galeata) sandvicensis | Wherever found | E | 32 FR 4001; 3/11/1967.
Gnatcatcher, coastal California | Polioptila californica californica | Wherever found | T | 58 FR 16742; 3/30/1993, 50 CFR 17.41(b) 4d, 50 CFR 17.95(b) CH.
Goose, Hawaiian | Branta (=Nesochen) sandvicensis | Wherever found | E | 32 FR 4001; 3/11/1967.
Goshawk, Christmas Island | Accipiter fasciatus natalis | Wherever found | E | 35 FR 8491; 6/2/1970.
Goshawk, Queen Charlotte [British Columbia DPS] | Accipiter gentilis laingi | British Columbia, Canada | T | 77 FR 45870; 8/1/2012.
Grackle, slender-billed | Quisicalus palustris | Wherever found | E | 35 FR 8491; 6/2/1970.
Grasswren, Eyrean (flycatcher) | Amytornis goyderi | Wherever found | E | 35 FR 8491; 6/2/1970.
Grebe, Alaotra | Tachybaptus rufoflavatus | Wherever found | E | 60 FR 2899; 1/12/1995.
Grebe, Atitlan | Podilymbus gigas | Wherever found | E | 35 FR 8491; 6/2/1970.
Grebe, Junín | Podiceps taczanowskii | Wherever found | E | 77 FR 43434; 7/24/2012.
Greenshank, Nordmann's | Tringa guttifer | Wherever found | E | 41 FR 24062; 6/14/1976.
Ground-cuckoo, southeastern rufous-vented | Neomorphus geoffroyi dulcis | Wherever found | E | 75 FR 81794; 12/28/2010.
Guan, cauca | Penelope perspicax | Wherever found | E | 78 FR 64637; 10/29/2013.
Guan, horned | Oreophasis derbianus | Wherever found | E | 35 FR 8491; 6/2/1970.
Guan, white-winged | Penelope albipennis | Wherever found | E | 55 FR 39858; 9/28/1990.
Guineafowl, white-breasted | Agelastes meleagrides | Wherever found | T | 60 FR 2899; 1/12/1995.
Gull, Audouin's | Larus audouinii | Wherever found | E | 35 FR 8491; 6/2/1970.
Gull, relict | Larus relictus | Wherever found | E | 41 FR 24062; 6/14/1976.
Hawk, Galapagos | Buteo galapagoensis | Wherever found | E | 35 FR 8491; 6/2/1970.
Hawk, Hawaiian | Buteo solitarius | Wherever found | E | 32 FR 4001; 3/11/1967.
Hawk, Puerto Rican broad-winged | Buteo platypterus brunnescens | Wherever found | E | 59 FR 46710; 9/9/1994.
Hawk, Puerto Rican sharp-shinned | Accipiter striatus venator | Wherever found | E | 59 FR 46710; 9/9/1994.
Hermit, hook-billed (hummingbird) | Ramphodon (=Glaucis) dohrnii | Wherever found | E | 41 FR 24062; 6/14/1976.
Hermit, Margaretta's | Phaethornis malaris margarettae | Wherever found | E | 75 FR 81794; 12/28/2010.
Honeycreeper, crested (Akohekohe) | Palmeria dolei | Wherever found | E | 32 FR 4001; 3/11/1967, 50 CFR 17.95(b) CH.
Honeyeater, helmeted | Lichenostomus melanops cassidix (=Meliphaga c.) | Wherever found | E | 35 FR 18319; 12/2/1970.
Hornbill, helmeted | Buceros (=Rhinoplax) vigil | Wherever found | E | 41 FR 24062; 6/14/1976.
Hummingbird, Honduran emerald | Amazilia luciae | Wherever found | E | 80 FR 45086; 7/29/2015.
Ibis, giant | Pseudibis gigantea | Wherever found | E | 73 FR 3146; 1/16/2008.
Ibis, Japanese crested | Nipponia nippon | Wherever found | E | 35 FR 8491; 6/2/1970.
Ibis, northern bald | Geronticus eremita | Wherever found | E | 55 FR 39858; 9/28/1990.
Kagu | Rhynochetos jubatus | Wherever found | E | 35 FR 8491; 6/2/1970.
Kakapo | Strigops habroptilus | Wherever found | E | 35 FR 8491; 6/2/1970.
Kestrel, Mauritius | Falco punctatus | Wherever found | E | 35 FR 8491; 6/2/1970.
Kestrel, Seychelles | Falco araea | Wherever found | E | 35 FR 8491; 6/2/1970.
Kingfisher, Guam Micronesian | Halcyon cinnamomina cinnamomina | Wherever found | E | 49 FR 33881; 8/27/1984, 69 FR 62943; 10/28/2004, 50 CFR 17.95(b) CH.
Kite, Cuba hook-billed | Chondrohierax uncinatus wilsonii | Wherever found | E | 35 FR 8491; 6/2/1970.
Kite, Grenada hook-billed | Chondrohierax uncinatus mirus | Wherever found | E | 35 FR 8491; 6/2/1970.
Kite, snail (Everglade) | Rostrhamus sociabilis plumbeus | U.S.A. (FL) | E | 32 FR 4001; 3/11/1967, 50 CFR 17.95(b) CH.
Knot, rufa red | Calidris canutus rufa | Wherever found | T | 79 FR 73705; 12/11/2014.
Kokako (wattlebird) | Callaeas cinerea | Wherever found | E | 35 FR 8491; 6/2/1970.
Lark, Raso | Alauda razae | Wherever found | E | 60 FR 2899; 1/12/1995.
Lark, streaked horned | Eremophila alpestris strigata | Wherever found | T | 78 FR 61451; 10/3/2013, 50 CFR 17.41(a) 4d, 50 CFR 17.95(b) CH.
Macaw, blue-throated | Ara glaucogularis | Wherever found | E | 78 FR 61208; 10/3/2013.
Macaw, glaucous | Anodorhynchus glaucus | Wherever found | E | 41 FR 24062; 6/14/1976.
Macaw, great green | Ara ambiguus | Wherever found | E | 80 FR 59975; 10/2/2015.
Macaw, indigo | Anodorhynchus leari | Wherever found | E | 41 FR 24062; 6/14/1976.
Macaw, little blue | Cyanopsitta spixii | Wherever found | E | 41 FR 24062; 6/14/1976.
Macaw, military | Ara militaris | Wherever found | E | 80 FR 59975; 10/2/2015.
Magpie-robin, Seychelles (thrush) | Copsychus sechellarum | Wherever found | E | 35 FR 8491; 6/2/1970.
Malimbe, Ibadan | Malimbus ibadanensis | Wherever found | E | 60 FR 2899; 1/12/1995.
Malkoha, red-faced (cuckoo) | Phaenicophaeus pyrrhocephalus | Wherever found | E | 35 FR 8491; 6/2/1970.
Megapode, Maleo | Macrocephalon maleo | Wherever found | E | 35 FR 8491; 6/2/1970.
Megapode, Micronesian (=La Perouse's) | Megapodius laperouse | Wherever found | E | 35 FR 8491; 6/2/1970.
Merganser, Brazilian | Mergus octosetaceus | Wherever found | E | 75 FR 81794; 12/28/2010.
Millerbird, Nihoa (old world warbler) | Acrocephalus familiaris kingi | Wherever found | E | 32 FR 4001; 3/11/1967.
Mockingbird, Socorro | Mimus Graysoni | Wherever found | E | 73 FR 3146; 1/16/2008.
Moorhen, Mariana common | Gallinula chloropus guami | Wherever found | E | 49 FR 33881; 8/27/1984.
Murrelet, marbled [CA, OR, WA DPS] | Brachyramphus marmoratus | U.S.A. (CA, OR, WA) | T | 57 FR 45337; Oct 1/1992, 50 CFR 17.95(b) CH.
Nightjar, Puerto Rican | Caprimulgus noctitherus | Wherever found | E | 38 FR 14678; 6/4/1973.
Nukupuu, Kauai | Hemignathus hanapepe | Wherever found | E | 32 FR 4001; 3/11/1967, 35 FR 16047; 10/13/1970.
Nukupuu, Maui | Hemignathus affinis | Wherever found | E | 35 FR 16047; 10/13/1970.
Nuthatch, Algerian | Sitta ledanti | Wherever found | E | 60 FR 2899; 1/12/1995.
`O`o, Kauai (honeyeater) | Moho braccatus | Wherever found | E | 32 FR 4001; 3/11/1967.
Ostrich, Arabian | Struthio camelus syriacus | Wherever found | E | 35 FR 8491; 6/2/1970.
Ostrich, West African | Struthio camelus spatzi | Wherever found | E | 35 FR 8491; 6/2/1970.
`O`u (honeycreeper) | Psittirostra psittacea | Wherever found | E | 32 FR 4001; 3/11/1967.
Owl, Anjouan scops | Otus rutilus capnodes | Wherever found | E | 35 FR 8491; 6/2/1970.
Owl, giant scops | Mimizuku (=Otus) gurneyi | Wherever found | E | 41 FR 24062; 6/14/1976.
Owl, Madagascar red | Tyto soumagnei | Wherever found | E | 55 FR 39858; 9/28/1990.
Owl, Mexican spotted | Strix occidentalis lucida | Wherever found | T | 58 FR 14248; 3/16/1993 50 CFR 17.95(b) CH.
Owl, northern spotted | Strix occidentalis caurina | Wherever found | T | 55 FR 26114; 6/26/1990, 50 CFR 17.95(b) CH.
Owl, Seychelles scops | Otus magicus (=insularis) insularis | Wherever found | E | 35 FR 8491; 6/2/1970.
Owlet, Morden's | Otus ireneae | Wherever found | E | 35 FR 8491; 6/2/1970.
Oystercatcher, Canarian black | Haematopus meadewaldoi | Wherever found | E | 60 FR 2899; 1/12/1995.
Palila (honeycreeper) | Loxioides bailleui | Wherever found | E | 32 FR 4001; 3/11/1967, 50 CFR 17.95(b) CH.
Paradise-flycatcher, caerulean | Eutrichomyias rowleyi | Wherever found | E | 73 FR 3146; 1/16/2008.
Parakeet, blue-throated (=ochre-marked) | Pyrrhura cruentata | Wherever found | E | 35 FR 8491; 6/2/1970.
Parakeet, Forbes' | Cyanoramphus auriceps forbesi | Wherever found | E | 35 FR 8491; 6/2/1970.
Parakeet, golden | Aratinga guarouba | Wherever found | E | 41 FR 24062; 6/14/1976.
Parakeet, golden-shouldered | Psephotus chrysopterygius | Wherever found | E | 35 FR 8491; 6/2/1970.
Parakeet, Mauritius | Psittacula echo | Wherever found | E | 35 FR 8491; 6/2/1970.
Parakeet, Norfolk Island | Cyanoramphus cookii (=novaezelandiae c.) | Wherever found | E | 55 FR 39858; 9/28/1990.
Parakeet, orange-bellied | Neophema chrysogaster | Wherever found | E | 35 FR 18319; 12/2/1970.
Parakeet, paradise | Psephotus pulcherrimus | Wherever found | E | 35 FR 18319; 12/2/1970.
Parakeet, scarlet-chested | Neophema splendida | Wherever found | E | 35 FR 18319; 12/2/1970.
Parakeet, turquoise | Neophema pulchella | Wherever found | E | 35 FR 8491; 6/2/1970.
Parrot, Bahaman or Cuban | Amazona leucocephala | Wherever found | E | 35 FR 8491; 6/2/1970, 41 FR 24062; 6/14/1976.
Parrot, ground | Pezoporus wallicus | Wherever found | E | 38 FR 14678; 6/4/1973.
Parrot, imperial | Amazona imperialis | Wherever found | E | 35 FR 8491; 6/2/1970.
Parrot, night (=Australian) | Geopsittacus occidentalis | Wherever found | E | 35 FR 8491; 6/2/1970.
Parrot, Puerto Rican | Amazona vittata | Wherever found | E | 32 FR 4001; 3/11/1967.
Parrot, red-browed | Amazona rhodocorytha | Wherever found | E | 35 FR 8491; 6/2/1970.
Parrot, red-capped | Pionopsitta pileata | Wherever found | E | 41 FR 24062; 6/14/1976.
Parrot, red-necked | Amazona arausiaca | Wherever found | E | 44 FR 37124; 6/25/1979.
Parrot, red-spectacled | Amazona pretrei pretrei | Wherever found | E | 41 FR 24062; 6/14/1976.
Parrot, red-tailed | Amazona brasiliensis | Wherever found | E | 55 FR 39858; 9/28/1990.
Parrot, Seychelles lesser vasa | Coracopsis nigra barklyi | Wherever found | E | 60 FR 2899; 1/12/1995.
Parrot, St. Vincent | Amazona guildingii | Wherever found | E | 35 FR 8491; 6/2/1970.
Parrot, St. Lucia | Amazona versicolor | Wherever found | E | 35 FR 8491; 6/2/1970.
Parrot, thick-billed | Rhynchopsitta pachyrhyncha | Mexico | E | 35 FR 8491; 6/2/1970.
Parrot, vinaceous-breasted | Amazona vinacea | Wherever found | E | 41 FR 24062; 6/14/1976.
Parrot, yellow-billed | Amazona collaria | Wherever found | T | 78 FR 15624; 3/12/2013, 50 CFR 17.41(c) 4d.
Parrotbill, Maui (Kiwikiu) | Pseudonestor xanthophrys | Wherever found | E | 32 FR 4001; 3/11/1967, 50 CFR 17.95(b) CH.
Penguin, African | Spheniscus demersus | Wherever found | E | 75 FR 59645; 9/28/2010.
Penguin, erect-crested | Eudyptes sclateri | Wherever found | T | 75 FR 45497; 8/3/2010.
Penguin, Fiordland crested | Eudyptes pachyrhynchus | Wherever found | T | 75 FR 45497; 8/3/2010.
Penguin, Galapagos | Spheniscus mendiculus | Wherever found | E | 35 FR 8491; 6/2/1970.
Penguin, Humboldt | Spheniscus humboldti | Wherever found | T | 75 FR 45497; 8/3/2010.
Penguin, southern rockhopper [New Zealand-Australia DPS] | Eudyptes chrysocome | New Zealand-Australia DPS, associated with the Campbell Plateau and Macquarie Island | T | 76 FR 9681; 2/22/2011.
Penguin, white-flippered | Eudyptula minor albosignata | Wherever found | T | 75 FR 45497; 8/3/2010.
Penguin, yellow-eyed | Megadyptes antipodes | Wherever found | T | 75 FR 45497; 8/3/2010.
Petrel, Chatham | Pterodroma axillaris | Wherever found | E | 74 FR 46914; 9/14/2009.
Petrel, Fiji | Pseudobulweria macgillivrayi | Wherever found | E | 74 FR 46914; 9/14/2009.
Petrel, Galapagos | Pterodroma phaeopygia | Wherever found | T | 75 FR 235; 1/5/2010.
Petrel, Hawaiian | Pterodroma sandwichensis | Wherever found | E | 32 FR 4001; 3/11/1967.
Petrel, Madeira | Pterodroma madeira | Wherever found | E | 60 FR 2899; 1/12/1995.
Petrel, magenta | Pterodroma magentae | Wherever found | E | 74 FR 46914; 9/14/2009.
Petrel, Mascarene black | Pterodroma aterrima | Wherever found | E | 60 FR 2899; 1/12/1995.
Pheasant, bar-tailed | Syrmaticus humaie | Wherever found | E | 35 FR 8491; 6/2/1970.
Pheasant, Blyth's tragopan | Tragopan blythii | Wherever found | E | 35 FR 8491; 6/2/1970.
Pheasant, brown eared | Crossoptilon mantchuricum | Wherever found | E | 35 FR 8491; 6/2/1970.
Pheasant, Cabot's tragopan | Tragopan caboti | Wherever found | E | 35 FR 8491; 6/2/1970.
Pheasant, cheer | Catreus wallichii | Wherever found | E | 55 FR 39858; 9/28/1990.
Pheasant, Chinese monal | Lophophorus lhuysii | Wherever found | E | 35 FR 8491; 6/2/1970.
Pheasant, Edward's | Lophura edwardsi | Wherever found | E | 35 FR 8491; 6/2/1970.
Pheasant, Elliot's | Syrmaticus ellioti | Wherever found | E | 41 FR 24062; 6/14/1976.
Pheasant, imperial | Lophura imperialis | Wherever found | E | 35 FR 8491; 6/2/1970.
Pheasant, Mikado | Syrmaticus mikado | Wherever found | E | 35 FR 8491; 6/2/1970.
Pheasant, Palawan peacock | Polyplectron emphanum | Wherever found | E | 35 FR 8491; 6/2/1970.
Pheasant, Sclater's monal | Lophophorus sclateri | Wherever found | E | 35 FR 8491; 6/2/1970.
Pheasant, Swinhoe's | Lophura swinhoii | Wherever found | E | 35 FR 8491; 6/2/1970.
Pheasant, western tragopan | Tragopan melanocephalus | Wherever found | E | 35 FR 8491; 6/2/1970.
Pheasant, white eared | Crossoptilon crossoptilon | Wherever found | E | 35 FR 18319; 12/2/1970.
Pigeon, Azores wood | Columba palumbus azorica | Wherever found | E | 35 FR 8491; 6/2/1970.
Pigeon, Chatham Island | Hemiphaga novaeseelandiae chathamensis | Wherever found | E | 35 FR 8491; 6/2/1970.
Pigeon, Marquesan imperial | Ducula galeata | Wherever found | E | 76 FR 50052; 8/11/2011.
Pigeon, Mindoro imperial (=zone-tailed) | Ducula mindorensis | Wherever found | E | 41 FR 24062; 6/14/1976.
Pigeon, pink | Columba mayeri | Wherever found | E | 60 FR 2899; 1/12/1995.
Pigeon, Puerto Rican plain | Columba inornata wetmorei | Wherever found | E | 35 FR 16047; 10/13/1970.
Pigeon, white-tailed laurel | Columba junoniae | Wherever found | T | 60 FR 2899; 1/12/1995.
Piping-guan, black-fronted | Pipile jacutinga | Wherever found | E | 41 FR 24062; 6/14/1976.
Pitta, Gurney's | Pitta gurneyi | Wherever found | E | 73 FR 3146; 1/16/2008.
Pitta, Koch's | Pitta kochi | Wherever found | E | 41 FR 24062; 6/14/1976.
Plantcutter, Peruvian | Phytotoma raimondii | Wherever found | E | 77 FR 43434; 7/24/2012.
Plover, New Zealand shore | Thinornis novaeseelandiae | Wherever found | E | 35 FR 8491; 6/2/1970.
Plover, piping [Great Lakes watershed DPS] | Charadrius melodus | Great Lakes, watershed in States of IL, IN, MI, MN, NY, OH, PA, and WI and Canada (Ont.) | E | 50 FR 50726; 12/11/1985, 50 CFR 17.95(b) CH.
Plover, piping [Atlantic Coast and Northern Great Plains populations] | Charadrius melodus | Wherever found, except those areas where listed as endangered | T | 50 FR 50726; 12/11/1985, 50 CFR 17.95(b) CH.
Plover, western snowy [Pacific Coast population DPS] | Charadrius alexandrinus nivosus | Pacific Coast population DPS—U.S.A. (CA, OR, WA), Mexico (within 50 miles of Pacific coast) | T | 58 FR 12864; 3/5/1993, 50 CFR 17.95(b) CH.
Pochard, Madagascar | Aythya innotata | Wherever found | E | 60 FR 2899; 1/12/1995.
Po`ouli (honeycreeper) | Melamprosops phaeosoma | Wherever found | E | 40 FR 44149; 9/25/1975.
Prairie-chicken, Attwater's greater | Tympanuchus cupido attwateri | Wherever found | E | 32 FR 4001; 3/11/1967.
Puffleg, black-breasted | Eriocnemis nigrivestis | Wherever found | E | 75 FR 43844; 7/27/2010.
Quail, Merriam's Montezuma | Cyrtonyx montezumae merriami | Wherever found | E | 41 FR 24062; 6/14/1976.
Quetzel, resplendent | Pharomachrus mocinno | Wherever found | E | 41 FR 24062; 6/14/1976.
Rail, Aukland Island | Rallus pectoralis muelleri | Wherever found | E | 35 FR 8491; 6/2/1970.
Rail, California clapper | Rallus longirostris obsoletus | Wherever found | E | 35 FR 16047; 10/13/1970.
Rail, Guam | Rallus owstoni | Wherever found, except where listed as an experimental population | E | 49 FR 14354; 4/11/1984, 49 FR 33881; 8/27/1984, 54 FR 43966; 10/30/1989.
Rail, Guam | Rallus owstoni | Rota | XN | 54 FR 43966; 10/30/1989, 50 CFR 17.84(f) 10j.
Rail, Junín | Laterallus tuerosi | Wherever found | E | 77 FR 43434; 7/24/2012.
Rail, light-footed clapper | Rallus longirostris levipes | U.S.A. only | E | 34 FR 5034; 3/8/1969, 35 FR 16047; 10/13/1970.
Rail, Lord Howe wood | Gallirallus (=Tricholimnas) sylvestris | Wherever found | E | 41 FR 24062; 6/14/1976.
Rail, Yuma clapper | Rallus longirostris yumanensis | U.S.A. only | E | 32 FR 4001; 3/11/1967.
Rhea, lesser (incl. Darwin's) | Rhea (=Pterocnemia) pennata | Wherever found | E | 35 FR 8491; 6/2/1970.
Robin, Chatham Island | Petroica traversi | Wherever found | E | 35 FR 8491; 6/2/1970.
Robin, dappled mountain | Arcanator orostruthus | Wherever found | T | 60 FR 2899; 1/12/1995.
Robin, scarlet-breasted (flycatcher) | Petroica multicolor multicolor | Wherever found | E | 35 FR 8491; 6/2/1970.
Rockfowl, grey-necked | Picathartes oreas | Wherever found | E | 35 FR 8491; 6/2/1970.
Rockfowl, white-necked | Picathartes gymnocephalus | Wherever found | E | 35 FR 8491; 6/2/1970.
Roller, long-tailed ground | Uratelornis chimaera | Wherever found | E | 35 FR 8491; 6/2/1970.
Sage-grouse, Gunnison | Centrocercus minimus | Wherever found | T | 79 FR 69191; 11/20/2014, 50 CFR 17.95(b) CH.
Scrub-bird, noisy | Atrichornis clamosus | Wherever found | E | 35 FR 8491; 6/2/1970.
Scrub-jay, Florida | Aphelocoma coerulescens | Wherever found | T | 52 FR 20715; 6/3/1987.
Shama, Cebu black (thrush) | Copsychus niger cebuensis | Wherever found | E | 35 FR 8491; 6/2/1970.
Shearwater, Heinroth's | Puffinus heinrothi | Wherever found | T | 75 FR 235; 1/5/2010.
Shearwater, Newell's Townsend's | Puffinus auricularis newelli | Wherever found | T | 40 FR 44149; 9/25/1975.
Shrike, San Clemente loggerhead | Lanius ludovicianus mearnsi | Wherever found | E | 42 FR 40682; 8/11/1977.
Siskin, red | Carduelis cucullata | Wherever found | E | 41 FR 24062; 6/14/1976.
Sparrow, Cape Sable seaside | Ammodramus maritimus mirabilis | Wherever found | E | 32 FR 4001; 3/11/1967, 50 CFR 17.95(b) CH.
Sparrow, Florida grasshopper | Ammodramus savannarum floridanus | Wherever found | E | 51 FR 27492; 7/31/1986.
Sparrow, San Clemente sage | Amphispiza belli clementeae | Wherever found | T | 42 FR 40682; 8/11/1977.
Sparrowhawk, Anjouan Island | Accipiter francesii pusillus | Wherever found | E | 35 FR 8491; 6/2/1970.
Starling, Ponape mountain | Aplonis pelzelni | Wherever found | E | 35 FR 8491; 6/2/1970.
Starling, Rothschild's (myna) | Leucopsar rothschildi | Wherever found | E | 35 FR 8491; 6/2/1970.
Stilt, black | Himantopus novaezelandiae | Wherever found | E | 73 FR 3146; 1/16/2008.
Stilt, Hawaiian | Himantopus mexicanus (=himantopus) knudseni | Wherever found | E | 35 FR 16047; 10/13/1970.
Stork, oriental white | Ciconia boyciana (=ciconia b.) | Wherever found | E | 35 FR 8491; 6/2/1970.
Stork, wood [Southeast U.S. DPS] | Mycteria americana | U.S.A. (AL, FL, GA, MS, NC, SC) | T | 49 FR 7332; 2/28/1984, 79 FR 37077; 6/30/2014.
Sunbird, Marungu | Nectarinia prigoginei | Wherever found | E | 60 FR 2899; 1/12/1995.
Swiftlet, Mariana gray | Aerodramus vanikorensis bartschi | Wherever found | E | 49 FR 33881; 8/27/1984.
Tanager, cherry-throated | Nemosia rourei | Wherever found | E | 75 FR 81794; 12/28/2010.
Teal, Campbell Island flightless | Anas aucklandica nesiotis | Wherever found | E | 41 FR 24062; 6/14/1976.
Tern, California least | Sterna antillarum browni | Wherever found | E | 35 FR 16047; 10/13/1970, 35 FR 8491; 6/2/1970.
Tern, least [Interior DPS] | Sterna antillarum | U.S.A. (AR, CO, IA, IL, IN, KS, KY, LA—Miss. R. and tribs. N of Baton Rouge, MS—Miss. R., MO, MT, ND, NE, NM, OK, SD, TN, TX—except within 50 miles of coast) | E | 50 FR 21784; 5/28/1985.
Tern, roseate [Northeast U.S. nesting population DPS] | Sterna dougallii dougallii | U.S.A. (Atlantic Coast south to NC), Canada (Newf., N.S, Que.), Bermuda | E | 52 FR 42064; 11/2/1987.
Tern, roseate [Western Hemisphere DPS] | Sterna dougallii dougallii | Western Hemisphere and adjacent oceans, incl. U.S.A. (FL, PR, VI), where not listed as endangered | T | 52 FR 42064; 11/2/1987.
Thicketbird, long-legged | Trichocichla rufa | Wherever found | E | 73 FR 3146; 1/16/2008.
Thrasher, white-breasted | Ramphocinclus brachyurus | Wherever found | E | 35 FR 8491; 6/2/1970.
Thrush, large Kauai | Myadestes myadestinus | Wherever found | E | 35 FR 16047; 10/13/1970.
Thrush, Molokai | Myadestes lanaiensis rutha | Wherever found | E | 35 FR 16047; 10/13/1970.
Thrush, New Zealand (wattlebird) | Turnagra capensis | Wherever found | E | 35 FR 8491; 6/2/1970.
Thrush, small Kauai | Myadestes palmeri | Wherever found | E | 32 FR 4001; 3/11/1967.
Thrush, St. Lucia forest | Cichlherminia lherminieri sanctaeluciae | Wherever found | E | 75 FR 50814; 8/17/2010.
Thrush, Taita | Turdus olivaceous helleri | Wherever found | E | 60 FR 2899; 1/12/1995.
Tinamou, solitary | Tinamus solitarius | Wherever found | E | 41 FR 24062; 6/14/1976.
Tit-spinetail, white-browed | Leptasthenura xenothorax | Wherever found | E | 77 FR 43434; 7/24/2012.
Tit-tyrant, ash-breasted | Anairetes alpinus | Wherever found | E | 77 FR 43434; 7/24/2012.
Tody-tyrant, Kaempfer's | Hemitriccus kaempferi | Wherever found | E | 75 FR 81794; 12/28/2010.
Towhee, Inyo California | Pipilo crissalis eremophilus | Wherever found | T | 52 FR 28780; 8/3/1987, 50 CFR 17.95(b) CH.
Tree-finch, medium | Camarhynchus pauper | Wherever found | E | 75 FR 43853; 7/27/2010.
Trembler, Martinique (thrasher) | Cinclocerthia ruficauda gutturalis | Wherever found | E | 35 FR 8491; 6/2/1970.
Turaco, Bannerman's | Tauraco bannermani | Wherever found | E | 60 FR 2899; 1/12/1995.
Turtle-dove, Seychelles | Streptopelia picturata rostrata | Wherever found | E | 60 FR 2899; 1/12/1995.
Vanga, Pollen's | Xenopirostris polleni | Wherever found | T | 60 FR 2899; 1/12/1995.
Vanga, Van Dam's | Xenopirostris damii | Wherever found | T | 60 FR 2899; 1/12/1995.
Vireo, black-capped | Vireo atricapillus | Wherever found | E | 52 FR 37420; 10/6/1987.
Vireo, least Bell's | Vireo bellii pusillus | Wherever found | E | 51 FR 16474; 5/2/1986, 50 CFR 17.95(b) CH.
Wanderer, plain (collared-hemipode) | Pedionomous torquatus | Wherever found | E | 38 FR 14678; 6/4/1973.
Warbler, Aldabra (old world warbler) | Nesillas aldabranus | Wherever found | E | 60 FR 2899; 1/12/1995.
Warbler (wood), Bachman's | Vermivora bachmanii | Wherever found | E | 32 FR 4001; 3/11/1967, 35 FR 8491; 6/2/1970.
Warbler (wood), Barbados yellow | Dendroica petechia petechia | Wherever found | E | 35 FR 8491; 6/2/1970.
Warbler, elfin-woods | Setophaga angelae | Wherever found | T | 81 FR 40534; 6/22/2016, 50 CFR 17.41(e) 4d.
Warbler (wood), golden-cheeked | Dendroica chrysoparia | Wherever found | E | 55 FR 18844; 5/4/1990, 55 FR 53153; 12/27/1990.
Warbler (wood), Kirtland's | Dendroica kirtlandii | Wherever found | E | 32 FR 4001; 3/11/1967, 35 FR 8491; 6/2/1970.
Warbler, Eiao Marquesas reed- | Acrocephalus percernis aquilonis | Wherever found | E | 76 FR 50052; 8/11/2011.
Warbler, nightingale reed, (old world warbler) | Acrocephalus luscinia | Wherever found | E | 35 FR 8491; 6/2/1970, 35 FR 18319; 12/2/1970.
Warbler, Rodrigues (old world warbler) | Bebrornis rodericanus | Wherever found | E | 35 FR 8491; 6/2/1970.
Warbler (wood), Semper's | Leucopeza semperi | Wherever found | E | 35 FR 8491; 6/2/1970.
Warbler, Seychelles (old world warbler) | Bebrornis sechellensis | Wherever found | E | 35 FR 8491; 6/2/1970.
Wattle-eye, banded | Platysteira laticincta | Wherever found | E | 60 FR 2899; 1/12/1995.
Weaver, Clarke's | Ploceus golandi | Wherever found | E | 60 FR 2899; 1/12/1995.
Whipbird, western | Psophodes nigrogularis | Wherever found | E | 35 FR 8491; 6/2/1970.
White-eye, bridled | Zosterops conspicillatus conspicillatus | Wherever found | E | 49 FR 33881; 8/27/1984.
White-eye, Norfolk Island | Zosterops albogularis | Wherever found | E | 41 FR 24062; 6/14/1976.
White-eye, Ponape greater | Rukia longirostra | Wherever found | E | 35 FR 8491; 6/2/1970.
White-eye, Rota bridled | Zosterops rotensis | Wherever found | E | 69 FR 3022; 1/22/2004, 50 CFR 17.95(b) CH.
White-eye, Seychelles | Zosterops modesta | Wherever found | E | 35 FR 8491; 6/2/1970.
Woodpecker, imperial | Campephilus imperialis | Wherever found | E | 35 FR 8491; 6/2/1970.
Woodpecker, ivory-billed | Campephilus principalis | Wherever found | E | 32 FR 4001; 3/11/1967, 35 FR 8491; 6/2/1970.
Woodpecker, red-cockaded | Picoides borealis | Wherever found | E | 35 FR 16047; 10/13/1970.
Woodpecker, Tristam's | Dryocopus javensis richardsi | Wherever found | E | 35 FR 8491; 6/2/1970.
Wood-quail, gorgeted | Odontophorus strophium | Wherever found | E | 78 FR 64637; 10/29/2013.
Woodstar, Chilean | Eulidia yarrellii | Wherever found | E | 75 FR 50814; 8/17/2010.
Woodstar, Esmeraldas | Chaetocercus berlepschi | Wherever found | E | 78 FR 64637; 10/29/2013.
Wren, Guadeloupe house | Troglodytes aedon guadeloupensis | Wherever found | E | 35 FR 8491; 6/2/1970.
Wren, St. Lucia house | Troglodytes aedon mesoleucus | Wherever found | E | 35 FR 8491; 6/2/1970.
Reptiles
Alligator, American | Alligator mississippiensis | Wherever found | T(S/A) | 32 FR 4001; 3/11/1967, 40 FR 44412; 9/26/1975, 42 FR 2071; 1/10/1977, 44 FR 37130; 6/25/1979, 44 FR 59080; 10/12/1979, 46 FR 40664; 8/10/1981, 48 FR 46332; 10/12/1983, 50 FR 25672; 6/20/1985, 52 FR 21059; 6/4/1987, 50 CFR 17.42(a) 4d.
Alligator, Chinese | Alligator sinensis | Wherever found | E | 41 FR 24062; 6/14/1976.
Anole, Culebra Island giant | Anolis roosevelti | Wherever found | E | 42 FR 37371; 7/21/1977, 50 CFR 17.95(c) CH.
Boa, Jamaican | Epicrates subflavus | Wherever found | E | 35 FR 8491; 6/2/1970.
Boa, Mona | Epicrates monensis monensis | Wherever found | T | 43 FR 4618; 2/3/1978, 50 CFR 17.95(c) CH.
Boa, Puerto Rican | Epicrates inornatus | Wherever found | E | 35 FR 16047; 10/13/1970.
Boa, Round Island (unnamed) | Bolyeria multocarinata | Wherever found | E | 45 FR 18009; 3/20/1980.
Boa, Round Island (unnamed) | Casarea dussumieri | Wherever found | E | 45 FR 18009; 3/20/1980.
Boa, Virgin Islands tree | Epicrates monensis granti | Wherever found | E | 35 FR 16047; 10/13/1970, 44 FR 70677; 12/7/1979.
Caiman, Apaporis River | Caiman crocodilus apaporiensis | Wherever found | E | 41 FR 24062; 6/14/1976.
Caiman, black | Melanosuchus niger | Wherever found | E | 41 FR 24062; 6/14/1976.
Caiman, broad-snouted [Bolivia, Brazil, Paraguay, Uruguay DPS] | Caiman latirostris | Bolivia, Brazil, Paraguay, Uruguay | E | 41 FR 24062; 6/14/1976.
Caiman, broad-snouted [Argentina DPS] | Caiman latirostris | Argentina | T | 78 FR 38162; 6/25/2013, 50 CFR 17.42(c) 4d.
Caiman, brown | Caiman crocodilus fuscus (includes Caiman crocodilus chiapasius ) | Wherever found | T(S/A) | 65 FR 25867; 5/4/2000, 50 CFR 17.42(c) 4d.
Caiman, common | Caiman crocodilus crocodilus | Wherever found | T(S/A) | 65 FR 25867; 5/4/2000, 50 CFR 17.42(c) 4d.
Caiman, yacare | Caiman yacare | Wherever found | T | 35 FR 8491; 6/2/1970, 65 FR 25867; 5/4/2000, 50 CFR 17.42(c) 4d.
Chuckwalla, San Esteban Island | Sauromalus varius | Wherever found | E | 45 FR 18009; 3/20/1980.
Crocodile, African dwarf | Osteolaemus tetraspis tetraspis | Wherever found | E | 41 FR 24062; 6/14/1976.
Crocodile, African slender-snouted | Crocodylus cataphractus | Wherever found | E | 37 FR 6476; 3/30/1972.
Crocodile, American [Non-U.S. populations] | Crocodylus acutus | Wherever found, except in U.S.A. (FL) | E | 40 FR 44149; 9/25/1975, 44 FR 75074; 12/18/1979 72 FR 13027; 3/20/2007.
Crocodile, American [FL DPS] | Crocodylus acutus | U.S.A. (FL) | T | 40 FR 44149; 9/25/1975, 72 FR 13027; 3/20/2007, 50 CFR 17.95(c) CH.
Crocodile, Ceylon mugger | Crocodylus palustris kimbula | Wherever found | E | 41 FR 24062; 6/14/1976.
Crocodile, Congo dwarf | Osteolaemus tetraspis osborni | Wherever found | E | 41 FR 24062; 6/14/1976.
Crocodile, Cuban | Crocodylus rhombifer | Wherever found | E | 35 FR 8491; 6/2/1970.
Crocodile, mugger | Crocodylus palustris palustris | Wherever found | E | 41 FR 24062; 6/14/1976.
Crocodile, Nile | Crocodylus niloticus | Wherever found | T | 35 FR 8491; 6/2/1970, 52 FR 23148; 6/17/1987, 53 FR 38451; 9/30/1988, 58 FR 49870; 9/23/1993, 61 FR 32356; 6/24/1996, 50 CFR 17.42(c) 4d.
Crocodile, Orinoco | Crocodylus intermedius | Wherever found | E | 35 FR 8491; 6/2/1970.
Crocodile, Philippine | Crocodylus novaeguineae mindorensis | Wherever found | E | 41 FR 24062; 6/14/1976.
Crocodile, saltwater [All populations except Papua New Guinea and Australia] | Crocodylus porosus | Wherever found, except Papua New Guinea and Australia | E | 44 FR 75074; 12/18/1979, 61 FR 32356;6/24/1996.
Crocodile, saltwater [Australia DPS] | Crocodylus porosus | Australia | T | 44 FR 75074; 12/18/1979, 61 FR 32356; 6/24/1996, 50 CFR 17.42(c) 4d.
Crocodile, Siamese | Crocodylus siamensis | Wherever found | E | 41 FR 24062; 6/4/1976.
Gartersnake, narrow-headed | Thamnophis rufipunctatus | Wherever found | T | 79 FR 38677; 7/8/2014.
Gartersnake, northern Mexican | Thamnophis eques megalops | Wherever found | T | 79 FR 38677; 7/8/2014, 50 CFR 17.42(g) 4d.
Gavial | Gavialis gangeticus | Wherever found | E | 35 FR 8491; 6/2/1970.
Gecko, day | Phelsuma edwardnewtoni | Wherever found | E | 35 FR 8491; 6/2/1970.
Gecko, Monito | Sphaerodactylus micropithecus | Wherever found | E | 47 FR 46090; 10/15/1982, 50 CFR 17.95(c) CH.
Gecko, Round Island day | Phelsuma guentheri | Wherever found | E | 35 FR 8491; 6/2/1970.
Gecko, Serpent Island | Cyrtodactylus serpensinsula | Wherever found | T | 48 FR 28460; 6/22/1983.
Iguana, Acklins ground | Cyclura rileyi nuchalis | Wherever found | T | 48 FR 28460; 6/22/1983.
Iguana, Allen's Cay | Cyclura cychlura inornata | Wherever found | T | 48 FR 28460; 6/22/1983.
Iguana, Andros Island ground | Cyclura cychlura cychlura | Wherever found | T | 48 FR 28460; 6/22/1983.
Iguana, Anegada ground | Cyclura pinguis | Wherever found | E | 35 FR 8491; 6/2/1970.
Iguana, Barrington land | Conolophus pallidus | Wherever found | E | 35 FR 8491; 6/2/1970.
Iguana, Cayman Brac ground | Cyclura nubila caymanensis | Wherever found | T | 48 FR 28460; 6/22/1983.
Iguana, Cuban ground | Cyclura nubila nubila | Wherever found (exluding population introduced in Puerto Rico) | T | 48 FR 28460; 6/22/1983.
Iguana, Exuma Island | Cyclura cychlura figginsi | Wherever found | T | 48 FR 28460; 6/22/1983.
Iguana, Fiji banded | Brachylophus fasciatus | Wherever found | E | 45 FR 18009; 3/20/1980.
Iguana, Fiji crested | Brachylophus vitiensis | Wherever found | E | 45 FR 18009; 3/20/1980.
Iguana, Grand Cayman ground | Cyclura nubila lewisi | Wherever found | E | 48 FR 28460; 6/22/1983.
Iguana, Jamaican | Cyclura collei | Wherever found | E | 48 FR 28460; 6/22/1983.
Iguana, Mayaguana | Cyclura carinata bartschi | Wherever found | T | 48 FR 28460; 6/22/1983.
Iguana, Mona ground | Cyclura stejnegeri | Wherever found | T | 43 FR 4618; 2/3/1978, 50 CFR 17.95(c) CH.
Iguana, Turks and Caicos | Cyclura carinata carinata | Wherever found | T | 48 FR 28460; 6/22/1983.
Iguana, Watling Island ground | Cyclura rileyi rileyi | Wherever found | E | 48 FR 28460; 6/22/1983.
Iguana, White Cay ground | Cyclura rileyi cristata | Wherever found | T | 48 FR 28460; 6/22/1983.
Lizard, blunt-nosed leopard | Gambelia silus | Wherever found | E | 32 FR 4001; 3/11/1967.
Lizard, Coachella Valley fringe-toed | Uma inornata | Wherever found | T | 45 FR 63812; 9/25/1980, 50 CFR 17.95(c) CH.
Lizard, Hierro giant | Gallotia simonyi simonyi | Wherever found | E | 49 FR 7394; 2/29/1984.
Lizard, Ibiza wall | Podarcis pityusensis | Wherever found | T | 49 FR 7394; 2/29/1984.
Lizard, Maria Island ground | Cnemidophorus vanzoi | Wherever found | E | 56 FR 49469; 9/30/1991.
Lizard, St. Croix ground | Ameiva polops | Wherever found | E | 42 FR 28543; 6/3/1977, 50 CFR 17.95(c) CH.
Monitor, desert | Varanus griseus | Wherever found | E | 41 FR 24062; 6/14/1976.
Monitor, Indian (=Bengal) | Varanus bengalensis | Wherever found | E | 41 FR 24062; 6/14/1976.
Monitor, Komodo Island | Varanus komodoensis | Wherever found | E | 41 FR 24062; 6/14/1976.
Monitor, yellow | Varanus flavescens | Wherever found | E | 41 FR 24062; 6/14/1976.
Pinesnake, black | Pituophis melanoleucus lodingi | Wherever found | T | 80 FR 60467; 10/6/2015, 50 CFR 17.42(h) 4d.
Python, Indian | Python molurus molurus | Wherever found | E | 41 FR 24062; 6/14/1976.
Rattlesnake, Aruba Island | Crotalus unicolor | Wherever found | T | 48 FR 28460; 6/22/1983.
Rattlesnake, New Mexican ridge-nosed | Crotalus willardi obscurus | Wherever found | T | 43 FR 34476; 8/4/1978, 50 CFR 17.95(c) CH.
Sea turtle, green [Central North Pacific DPS] | Chelonia mydas | Green sea turtles originating from the Central North Pacific Ocean, bounded by the following coordinates: 41° N., 169° E. in the northwest; 41° N., 143° W. in the northeast; 9° N., 125° W. in the southeast; and 9° N., 175° W. in the southwest Pacific coast of Mexico | T | 81 FR 20057; 4/6/2016 J, 50 CFR 223.205, 50 CFR 223.206, 50 CFR 223.207.
Sea turtle, green [Central South Pacific DPS] | Chelonia mydas | Green sea turtles originating from the Central South Pacific Ocean, bounded by the following coordinates: 9° N., 175° W. in the northwest; 9° N., 125° W. in the northeast; 40° S., 96° W. in the southeast; 40° S., 176° E. in the southwest; and 13° S., 171° E. in the west | E | 81 FR 20057; 4/6/2016 J, 50 CFR 224.104.
Sea turtle, green [Central West Pacific DPS] | Chelonia mydas | Green sea turtles originating from the Central West Pacific Ocean, bounded by the following coordinates: 41° N., 146° E. in the northwest; 41° N., 169° E. in the northeast; 9° N., 175° W. in the east; 13° S., 171° E. in the southeast; along the northern coast of the island of New Guinea; and 4.5° N., 129° E. in the west | E | 81 FR 20057; 4/6/2016 J, 50 CFR 224.104.
Sea turtle, green [East Indian—West Pacific DPS] | Chelonia mydas | Green sea turtles originating from the Eastern Indian and Western Pacific Oceans, bounded by the following lines and coordinates: 41° N. Lat. in the north, 41° N., 146° E. in the northeast; 4.5° N., 129° E. in the southeast; along the southern coast of the island of New Guinea; along the western coast of Australia (west of 142° E. Long.); 40° S. Lat. in the south; and 84° E. Long. in the east | T | 81 FR 20057; 4/6/2016 J, 50 CFR 17.42(b) 4d, 50 CFR 223.205, 50 CFR 223.206, 50 CFR 223.207.
Sea turtle, green [East Pacific DPS] | Chelonia mydas | Green sea turtles originating from the East Pacific Ocean, bounded by the following lines and coordinates: 41° N., 143° W. in the northwest; 41° N. Lat. in the north; along the western coasts of the Americas; 40° S. Lat. in the south; and 40° S., 96° W. in the southwest | T | 81 FR 20057; 4/6/2016 J, 50 CFR 17.42(b) 4d, 50 CFR 223.205, 50 CFR 223.206, 50 CFR 223.207.
Sea turtle, green [Mediterranean DPS] | Chelonia mydas | Green sea turtles originating from the Mediterranean Sea, bounded by 5.5° W. Long. in the west | E | 81 FR 20057; 4/6/2016 J, 50 CFR 224.104.
Sea turtle, green [North Atlantic DPS] | Chelonia mydas | Green sea turtles originating from the North Atlantic Ocean, bounded by the following lines and coordinates: 48° N. Lat. in the north, along the western coasts of Europe and Africa (west of 5.5° W. Long.); north of 19° N. Lat. in the east; bounded by 19° N., 65.1° W. to 14° N., 65.1° W. then 14° N., 77° W. in the south and west; and along the eastern coasts of the Americas (north of 7.5° N., 77° W.) | T | 81 FR 20057; 4/6/2016 J, 50 CFR 17.42(b) 4d, 50 CFR 223.205, 50 CFR 223.206, 50 CFR 223.207.
Sea turtle, green [North Indian DPS] | Chelonia mydas | Green sea turtles originating from the North Indian Ocean, bounded by: Africa and Asia in the west and north; 84° E. Long. in the east; and the equator in the south | T | 81 FR 20057; 4/6/2016 J, 50 CFR 17.42(b) 4d, 50 CFR 223.205, 50 CFR 223.206, 50 CFR 223.207.
Sea turtle, green [South Atlantic DPS] | Chelonia mydas | Green sea turtles originating from the South Atlantic Ocean, bounded by the following lines and coordinates: along the northern and eastern coasts of South America (east of 7.5° N., 77° W.); 14° N., 77° W. to 14° N., 65.1° W. to 19° N., 65.1° W. in the north and west; 19° N. Lat. in the northeast; 40° S., 19° E. in the southeast; and 40° S. Lat. in the south | T | 81 FR 20057; 4/6/2016 J, 50 CFR 17.42(b) 4d, 50 CFR 223.205, 50 CFR 223.206, 50 CFR 223.207.
Sea turtle, green [Southwest Indian DPS] | Chelonia mydas | Green sea turtles originating from the Southwest Indian Ocean, bounded by the following lines: the equator to the north; 84° E. Long. to the east; 40° S. Lat. to the south; and 19° E. Long (and along the eastern coast of Africa) in the west | T | 81 FR 20057; 4/6/2016 J, 50 CFR 17.42(b) 4d, 50 CFR 223.205, 50 CFR 223.206, 50 CFR 223.207.
Sea turtle, green [Southwest Pacific DPS] | Chelonia mydas | Green sea turtles originating from the Southwest Pacific Ocean, bounded by the following lines and coordinates: along the southern coast of the island of New Guinea and the Torres Strait (east of 142° E Long.); 13° S., 171° E. in the northeast; 40° S., 176° E. in the southeast; and 40° S., 142° E. in the southwest | T | 81 FR 20057; 4/6/2016 J, 50 CFR 17.42(b) 4d, 50 CFR 223.205, 50 CFR 223.206, 50 CFR 223.207.
Sea turtle, hawksbill | Eretmochelys imbricata | Wherever found | E | 35 FR 8491; 6/2/1970 J, 50 CFR 224.104 4d, 50 CFR 17.95(c) CH, 50 CFR 226.209 CH.
Sea turtle, Kemp's ridley | Lepidochelys kempii | Wherever found | E | 35 FR 18319; 12/2/1970 J, 50 CFR 224.104 4d.
Sea turtle, leatherback | Dermochelys coriacea | Wherever found | E | 35 FR 8491; 6/2/1970 J, 50 CFR 224.104 4d, 50 CFR 17.95(c) CH, 50 CFR 226.207 CH.
Sea turtle, loggerhead [Mediterranean Sea DPS] | Caretta caretta | Mediterranean Sea DPS—Loggerhead sea turtles originating from the Mediterranean Sea east of 5°36′ W. Long | E | 76 FR 58868; 9/22/2011 J, 50 CFR 224.104 4d.
Sea turtle, loggerhead [North Indian Ocean DPS] | Caretta caretta | North Indian Ocean DPS—Loggerhead sea turtles originating from the North Indian Ocean north of the equator and south of 30° N. Lat | E | 76 FR 58868; 9/22/2011 J, 50 CFR 224.104 4d.
Sea turtle, loggerhead [North Pacific Ocean DPS] | Caretta caretta | North Pacific Ocean DPS—Loggerhead sea turtles originating from the North Pacific north of the equator and south of 60° N. Lat | E | 76 FR 58868; 9/22/2011 J, 50 CFR 224.104 4d.
Sea turtle, loggerhead [Northeast Atlantic Ocean DPS] | Caretta caretta | Northeast Atlantic Ocean DPS—Loggerhead sea turtles originating from the Northeast Atlantic Ocean north of the equator, south of 60° N. Lat., and east of 40° W. Long., except in the vicinity of the Strait of Gibraltar where the eastern boundary is 5°36′ W. Long | E | 76 FR 58868; 9/22/2011 J, 50 CFR 224.104 4d.
Sea turtle, loggerhead [Northwest Atlantic Ocean DPS] | Caretta caretta | Northwest Atlantic Ocean DPS—Loggerhead sea turtles originating from the Northwest Atlantic Ocean north of the equator, south of 60° N. Lat., and west of 40° W. Long. | T | 76 FR 58868; 9/22/2011 J, 50 CFR 223.205, 50 CFR 223.206, 50 CFR 223.207, 50 CFR 17.95(c) CH, 50 CFR 226.223 CH.
Sea turtle, loggerhead [South Atlantic Ocean DPS] | Caretta caretta | South Atlantic Ocean DPS—Loggerhead sea turtles originating from the South Atlantic Ocean south of the equator, north of 60° S. Lat., west of 20° E. Long., and east of 67° W. Long | T | 76 FR 58868; 9/22/2011 J, 50 CFR 223.205, 50 CFR 223.206, 50 CFR 223.207.
Sea turtle, loggerhead [South Pacific Ocean DPS] | Caretta caretta | South Pacific Ocean DPS—Loggerhead sea turtles originating from the South Pacific south of the equator, north of 60° S. Lat., west of 67° W. Long., and east of 141° E. Long | E | 76 FR 58868; 9/22/2011 J, 50 CFR 224.104 4d.
Sea turtle, loggerhead [Southeast Indo-Pacific Ocean DPS] | Caretta caretta | Southeast Indo-Pacific Ocean DPS—Loggerhead sea turtles originating from the Southeast Indian Ocean south of the equator, north of 60° S. Lat., and east of 80° E. Long.; South Pacific Ocean south of the equator, north of 60° S. Lat., and west of 141° E. Long | T | 76 FR 58868; 9/22/2011 J, 50 CFR 223.205, 50 CFR 223.206, 50 CFR 223.207.
Sea turtle, loggerhead [Southwest Indian Ocean DPS] | Caretta caretta | Southwest Indian Ocean DPS—Loggerhead sea turtles originating from the Southwest Indian Ocean north of the equator, south of 30° N. Lat., east of 20° E. Long., and west of 80° E. Long | T | 76 FR 58868; 9/22/2011 J, 50 CFR 223.205, 50 CFR 223.206, 50 CFR 223.207.
Sea turtle, olive ridley [Pacific coast of Mexico breeding DPS] | Lepidochelys olivacea | Breeding colony populations on Pacific coast of Mexico | E | 43 FR 32800; 7/28/1978 J, 50 CFR 224.104 4d.
Sea turtle, olive ridley | Lepidochelys olivacea | Wherever found except when listed as endangered under 50 CFR 224.101 | T | 43 FR 32800; 7/28/1978 J, 50 CFR 17.42(b) 4d, 50 CFR 223.205, 50 CFR 223.206, 50 CFR 223.207.
Skink, blue-tail mole | Eumeces egregius lividus | Wherever found | T | 52 FR 42658; 11/6/1987, 50 CFR 17.42(b) 4d.
Skink, Round Island | Leiolopisma telfairi | Wherever found | T | 48 FR 28460; 6/22/1983.
Skink, sand | Neoseps reynoldsi | Wherever found | T | 52 FR 42658; 11/6/1987, 50 CFR 17.42(b) 4d.
Skink, Slevin's (Gualiik halumtanu, Gholuuf) | Emoia slevini | Wherever found | E | 80 FR 59423; 10/1/2015.
Snake, Atlantic salt marsh | Nerodia clarkii taeniata | Wherever found | T | 42 FR 60743; 11/29/1977.
Snake, copperbelly water [Northern DPS] | Nerodia erythrogaster neglecta | U.S.A. (IN north of 40° N. Lat., MI, OH) | T | 62 FR 4183; 1/29/1997.
Snake, eastern indigo | Drymarchon corais couperi | Wherever found | T | 43 FR 4026; 1/31/1978.
Snake, giant garter | Thamnophis gigas | Wherever found | T | 58 FR 54053; 10/20/1993.
Snake, Maria Island | Liophus ornatus | Wherever found | E | 56 FR 49469; 9/30/1991.
Snake, San Francisco garter | Thamnophis sirtalis tetrataenia | Wherever found | E | 32 FR 4001; 3/11/1967.
Tartaruga | Podocnemis expansa | Wherever found | E | 35 FR 8491; 6/2/1970.
Terrapin, river | Batagur baska | Wherever found | E | 35 FR 8491; 6/2/1970.
Tomistoma | Tomistoma schlegelii | Wherever found | E | 41 FR 24062; 6/14/1976.
Tortoise, angulated | Geochelone yniphora | Wherever found | E | 41 FR 24062; 6/14/1976.
Tortoise, Bolson | Gopherus flavomarginatus | Wherever found | E | 44 FR 23062; 4/17/1979.
Tortoise, desert [Mojave DPS] | Gopherus agassizii | Wherever found, except AZ south and east of Colorado R., and Mexico | T | 45 FR 55654; 8/20/1980, 54 FR 32326; 8/4/1989, 55 FR 12178; 4/2/1990, 50 CFR 17.95(c) CH.
Tortoise, desert | Gopherus agassizii | AZ south and east of Colorado R., and Mexico, when found outside of Mexico or said range in AZ | T(S/A) | 55 FR 12178; 4/2/1990, 50 CFR 17.42(e) 4d.
Tortoise, Galapagos | Geochelone nigra (=elephantopus) | Wherever found | E | 35 FR 8491; 6/2/1970.
Tortoise, gopher [West of Mobile and Tombigbee Rivers DPS] | Gopherus polyphemus | Wherever found west of Mobile and Tombigbee Rivers in AL, MS, and LA | T | 52 FR 25376; 7/7/1987.
Tortoise, Madagascar radiated | Geochelone radiata | Wherever found | E | 35 FR 8491; 6/2/1970.
Tracaja | Podocnemis unifilis | Wherever found | E | 35 FR 8491; 6/2/1970.
Tuatara | Sphenodon punctatus | Wherever found | E | 35 FR 8491; 6/2/1970, 65 FR 16053; 3/24/2000.
Tuatara, Brother's Island | Sphenodon guntheri | Wherever found | E | 35 FR 8491; 6/2/1970, 65 FR 16053; 3/24/2000.
Turtle, Alabama redbellied | Pseudemys alabamensis | Wherever found | E | 52 FR 22939; 6/16/1987.
Turtle, aquatic box | Terrapene coahuila | Wherever found | E | 38 FR 14678; 6/4/1973.
Turtle, black softshell | Trionyx nigricans | Wherever found | E | 41 FR 24062; 6/14/1976.
Turtle, bog (=Muhlenberg) [Northen DPS] | Clemmys muhlenbergii | Wherever found, except GA, NC, SC, TN, VA | T | 62 FR 59605; 11/4/1997.
Turtle, bog (=Muhlenberg) | Clemmys muhlenbergii | U.S.A. (GA, NC, SC, TN, VA) | T(S/A) | 62 FR 59605; 11/4/1997, 50 CFR 17.42(f) 4d.
Turtle, Brazilian sideneck | Phrynops hogei | Wherever found | E | 56 FR 49469; 9/30/1991.
Turtle, Burmese peacock | Morenia ocellata | Wherever found | E | 41 FR 24062; 6/14/1976.
Turtle, Cat Island | Trachemys terrapen | Cat Island in the Bahamas | E | 56 FR 49469; 9/30/1991.
Turtle, Central American river | Dermatemys mawii | Wherever found | E | 48 FR 28460; 6/22/1983.
Turtle, Cuatro Cienegas softshell | Trionyx ater | Wherever found | E | 41 FR 24062; 6/14/1976.
Turtle, flattened musk [Black Warrior River DPS] | Sternotherus depressus | Black Warrior R. system upstream from Bankhead Dam | T | 52 FR 22418; 6/11/1987.
Turtle, geometric | Psammobates geometricus | Wherever found | E | 41 FR 24062; 6/14/1976.
Turtle, Inagua Island | Trachemys stejnegeri malonei | Wherever found | E | 56 FR 49469; 9/30/1991.
Turtle, Indian sawback | Kachuga tecta tecta | Wherever found | E | 41 FR 24062; 6/14/1976.
Turtle, Indian softshell | Trionyx gangeticus | Wherever found | E | 41 FR 24062; 6/14/1976.
Turtle, peacock softshell | Trionyx hurum | Wherever found | E | 41 FR 24062; 6/14/1976.
Turtle, Plymouth redbelly | Pseudemys rubriventris bangsi | Wherever found | E | 45 FR 21828; 4/2/1980, 50 CFR 17.95(c) CH.
Turtle, ringed map | Graptemys oculifera | Wherever found | T | 51 FR 45907; 12/23/1986.
Turtle, short-necked or western swamp | Pseudemydura umbrina | Wherever found | E | 35 FR 8491; 6/2/1970.
Turtle, South American red-lined | Trachemys scripta callirostris | Wherever found | E | 56 FR 49469; 9/30/1991.
Turtle, spotted pond | Geoclemys hamiltonii | Wherever found | E | 41 FR 24062; 6/14/1976.
Turtle, three-keeled Asian | Melanochelys tricarinata | Wherever found | E | 41 FR 24062; 6/14/1976.
Turtle, yellow-blotched map | Graptemys flavimaculata | Wherever found | T | 56 FR 1459; 1/14/1991.
Viper, Lar Valley | Vipera latifii | Wherever found | E | 48 FR 28460; 6/22/1983.
Whipsnake, Alameda (=striped racer) | Masticophis lateralis euryxanthus | Wherever found | T | 62 FR 64306; 12/5/1997 50 CFR 17.95(c) CH.
Amphibians
Coqui, golden | Eleutherodactylus jasperi | Wherever found | T | 42 FR 58756; 11/11/1977, 50 CFR 17.95(d) CH.
Coqui, llanero | Eleutherodactylus juanariveroi | Wherever found | E | 77 FR 60777; 10/4/2012, 50 CFR 17.95(d) CH.
Frog, California red-legged | Rana draytonii | Wherever found | T | 61 FR 25813; 5/23/1996, 50 CFR 17.43(b) 4d, 50 CFR 17.95(d) CH.
Frog, Chiricahua leopard | Rana chiricahuensis | Wherever found | T | 67 FR 40790; 6/13/2002, 50 CFR 17.43(b) 4d.
Frog, dusky gopher | Rana sevosa (= Lithobates sevosus) | Wherever found | E | 66 FR 63002; 12/4/2001, 50 CFR 17.95(d) CH.
Frog, Goliath | Conraua goliath | Wherever found | T | 59 FR 63261; 12/8/1994.
Frog, Israel painted | Discoglossus nigriventer | Wherever found | E | 35 FR 8491; 6/2/1970.
Frog, mountain yellow-legged [Northern California DPS] | Rana muscosa | Northern California DPS—U.S.A., northern California | E | 79 FR 24255; 4/29/2014.
Frog, mountain yellow-legged [Southern California DPS] | Rana muscosa | Southern California DPS—U.S.A., southern California | E | 67 FR 44382; 7/2/2002, 50 CFR 17.95(d) CH.
Frog, Oregon spotted | Rana pretiosa | Wherever found | T | 79 FR 51657; 8/29/2014, 50 CFR 17.95(d) CH.
Frog, Panamanian golden | Atelopus varius zeteki | Wherever found | E | 41 FR 24062; 6/14/1976.
Frog, Sierra Nevada yellow-legged | Rana sierrae | Wherever found | E | 79 FR 24255; 4/29/2014.
Frog, Stephen Island | Leiopelma hamiltoni | Wherever found | E | 35 FR 8491; 6/2/1970.
Guajón | Eleutherodactylus cooki | Wherever found | T | 62 FR 31757; 6/11/1997, 50 CFR 17.95(d) CH.
Hellbender, Ozark | Cryptobranchus alleganiensis bishopi | Wherever found | E | 76 FR 61956; 10/6/2011.
Salamander, Austin blind | Eurycea waterlooensis | Wherever found | E | 78 FR 51277; 8/20/2013 50 CFR 17.95(d) CH.
Salamander, Barton Springs | Eurycea sosorum | Wherever found | E | 62 FR 23377; 4/30/1997.
Salamander, California tiger [Santa Barbara County DPS] | Ambystoma californiense | Santa Barbara County DPS—U.S.A. (CA-Santa Barbara County) | E | 65 FR 3109; 1/19/2000, 65 FR 57242; 9/21/2000, 50 CFR 17.95(d) CH.
Salamander, California tiger [Central California DPS] | Ambystoma californiense | Central California DPS—U.S.A. (CA-Central California) | T | 69 FR 47248; 8/4/2004, 50 CFR 17.43(c) 4d, 50 CFR 17.95(d) CH.
Salamander, California tiger [Sonoma County DPS] | Ambystoma californiense | Sonoma County DPS—U.S.A. (CA-Sonoma County) | E | 67 FR 47739; 7/22/2002, 68 FR 13520; 3/19/2003, 50 CFR 17.95(d) CH.
Salamander, Cheat Mountain | Plethodon nettingi | Wherever found | T | 54 FR 34464; 8/18/1989.
Salamander, Chinese giant | Andrias davidianus (=davidianus d.) | Wherever found | E | 41 FR 24062; 6/14/1976.
Salamander, desert slender | Batrachoseps aridus | Wherever found | E | 38 FR 14678; 6/4/1973.
Salamander, frosted flatwoods | Ambystoma cingulatum | Wherever found | T | 64 FR 15691; 4/1/1999, 50 CFR 17.95(d) CH.
Salamander, Georgetown | Eurycea naufragia | Wherever found | T | 79 FR 20107; 4/11/2014, 50 CFR 17.43(e) 4d.
Salamander, Japanese giant | Andrias japonicus (=davidianus j.) | Wherever found | E | 41 FR 24062; 6/14/1976.
Salamander, Jemez Mountains | Plethodon neomexicanus | Wherever found | E | 78 FR 55599; 9/10/2013, 50 CFR 17.95(d) CH.
Salamander, Jollyville Plateau | Eurycea tonkawae | Wherever found | T | 78 FR 51277; 8/20/2013, 50 CFR 17.95(d) CH.
Salamander, Red Hills | Phaeognathus hubrichti | Wherever found | T | 41 FR 53032; 12/3/1976.
Salamander, reticulated flatwoods | Ambystoma bishopi | Wherever found | E | 74 FR 6700; 2/10/2009, 50 CFR 17.95(d) CH.
Salamander, Salado | Eurycea chisholmensis | Wherever found | T | 79 FR 20107; 4/11/2014.
Salamander, San Marcos | Eurycea nana | Wherever found | T | 45 FR 47355; 7/14/1980, 50 CFR 17.43(a) 4d, 50 CFR 17.95(d) CH.
Salamander, Santa Cruz long-toed | Ambystoma macrodactylum croceum | Wherever found | E | 32 FR 4001; 3/11/1967.
Salamander, Shenandoah | Plethodon shenandoah | Wherever found | E | 54 FR 34464; 8/18/1989.
Salamander, Sonoran tiger | Ambystoma tigrinum stebbinsi | Wherever found | E | 62 FR 665; 1/6/1997.
Salamander, Texas blind | Typhlomolge rathbuni | Wherever found | E | 32 FR 4001; 3/11/1967.
Toad, arroyo (=arroyo southwestern) | Anaxyrus californicus | Wherever found | E | 59 FR 64859; 12/16/1994, 50 CFR 17.95(d) CH.
Toad, Cameroon | Bufo superciliaris | Wherever found | E | 41 FR 24062; 6/14/1976.
Toad, Houston | Bufo houstonensis | Wherever found | E | 35 FR 16047; 10/13/1970, 50 CFR 17.95(d) CH.
Toad, Monte Verde golden | Bufo periglenes | Wherever found | E | 41 FR 24062; 6/14/1976.
Toad, Puerto Rican crested | Peltophryne lemur | Wherever found | T | 52 FR 28828; 8/4/1987.
Toad, Wyoming | Bufo hemiophrys baxteri | Wherever found | E | 49 FR 1992; 1/17/1984.
Toad, Yosemite | Anaxyrus canorus | Wherever found | T | 79 FR 24255; 4/29/2014.
Toads, African viviparous | Nectophrynoides spp. | Wherever found | E | 41 FR 24062; 6/14/1976.
Fishes
Ala Balik (trout) | Salmo platycephalus | Wherever found | E | 35 FR 8491; 6/2/1970.
Ayumodoki (loach) | Hymenophysa curta | Wherever found | E | 35 FR 8491; 6/2/1970.
Blindcat, Mexican (catfish) | Prietella phreatophila | Wherever found | E | 35 FR 8491; 6/2/1970.
Bocaccio [Puget Sound-Georgia Basin DPS] | Sebastes paucispinis | Puget Sound-Georgia Basin DPS—see 50 CFR 224.101 | E | 75 FR 22276; 4/28/2010 N, 76 FR 20558; 4/13/2011, 79 FR 42687; 7/23/2014, 50 CFR 226.224 CH.
Bonytongue, Asian | Scleropages formosus | Wherever found | E | 41 FR 24062; 6/14/1976.
Catfish (Thailand) | Pangasius sanitwongsei | Wherever found | E | 35 FR 8491; 6/2/1970.
Catfish, Thailand giant | Pangasianodon gigas | Wherever found | E | 35 FR 8491; 6/2/1970.
Catfish, Yaqui | Ictalurus pricei | Wherever found | T | 49 FR 34490; 8/31/1984, 50 CFR 17.44(h) 4d, 50 CFR 17.95(e) CH.
Cavefish, Alabama | Speoplatyrhinus poulsoni | Wherever found | E | 42 FR 45526; 9/9/1977, 53 FR 37968; 9/28/1988, 50 CFR 17.95(e) CH.
Cavefish, Ozark | Amblyopsis rosae | Wherever found | T | 49 FR 43965; 11/1/1984.
Chub, bonytail | Gila elegans | Wherever found | E | 45 FR 27710; 4/23/1980, 50 CFR 17.95(e) CH.
Chub, Borax Lake | Gila boraxobius | Wherever found | E | 45 FR 35821; 5/28/1980, 47 FR 43957; 10/5/1982, 50 CFR 17.95(e) CH.
Chub, Chihuahua | Gila nigrescens | Wherever found | T | 48 FR 46053; 10/11/1983, 50 CFR 17.44(g) 4d.
Chub, Gila | Gila intermedia | Wherever found | E | 70 FR 66664; 11/2/2005, 50 CFR 17.95(e) CH.
Chub, humpback | Gila cypha | Wherever found | E | 32 FR 4001; 3/11/1967, 50 CFR 17.95(e) CH.
Chub, Hutton tui | Gila bicolor ssp. | Wherever found | T | 50 FR 12302; 3/28/1985, 50 CFR 17.44(j) 4d.
Chub, Mohave tui | Gila bicolor mohavensis | Wherever found | E | 35 FR 16047; 10/13/1970.
Chub, Owens tui | Gila bicolor snyderi | Wherever found | E | 50 FR 31592; 8/5/1985, 50 CFR 17.95(e) CH.
Chub, Pahranagat roundtail | Gila robusta jordani | Wherever found | E | 35 FR 16047; 10/13/1970.
Chub, slender | Erimystax cahni | Wherever found, except where listed as an experimental population | T | 42 FR 45526; 9/9/1977, 50 CFR 17.44(c) 4d, 50 CFR 17.95(e) CH.
Chub, slender | Erimystax cahni | U.S.A. (TN—specified portions of the French Broad and Holston Rivers; see § 17.84(s)(1)(i)) | XN | 72 FR 52434; 9/13/2007, 50 CFR 17.84(sr) 10j.
Chub, Sonora | Gila ditaenia | Wherever found | T | 51 FR 16042; 4/30/1986, 50 CFR 17.44(o) 4d, 50 CFR 17.95(e) CH.
Chub, spotfin | Erimonax monachus | Wherever found, except where listed as an experimental population | T | 42 FR 45526; 9/9/1977, 50 CFR 17.44(c) 4d, 50 CFR 17.95(e) CH.
Chub, spotfin | Erimonax monachus | U.S.A. (TN—specified portions of the Tellico River; see § 17.84(m)(1)(i)) | XN | 67 FR 52420; 8/12/2002, 50 CFR 17.84(m) 10j.
Chub, spotfin | Erimonax monachus | U.S.A. (AL, TN—specified portions of Shoal Creek; see § 17.84(m)(1)(ii)) | XN | 70 FR 1286; 1/6/2005, 50 CFR 17.84(m) 10j.
Chub, spotfin | Erimonax monachus | U.S.A. (TN—specified portions of the French Broad and Holston Rivers; see § 17.84(m)(1)(iii)) | XN | 72 FR 52434; 9/13/2007, 50 CFR 17.84(m) 10j.
Chub, Virgin River | Gila robusta semidnuda | Wherever found | E | 54 FR 35305; 8/24/1989, 50 CFR 17.95(e) CH.
Chub, Yaqui | Gila purpurea | Wherever found | E | 49 FR 34490; 8/31/1984, 50 CFR 17.95(e) CH.
Cicek (minnow) | Acanthorutilus handlirschi | Wherever found | E | 35 FR 8491; 6/2/1970.
Cui-ui | Chasmistes cujus | Wherever found | E | 32 FR 4001; 3/11/1967.
Dace, Ash Meadows speckled | Rhinichthys osculus nevadensis | Wherever found | E | 47 FR 19995; 5/10/1982, 48 FR 608; 1/5/1983, 48 FR 40178; 9/2/1983, 50 CFR 17.95(e) CH.
Dace, blackside | Phoxinus (=Chrosomus), cumberlandensis | Wherever found | T | 52 FR 22580; 6/12/1987.
Dace, Clover Valley speckled | Rhinichthys osculus oligoporus | Wherever found | E | 54 FR 41448; 10/10/1989.
Dace, desert | Eremichthys acros | Wherever found | T | 32 FR 4001; 3/11/1967, 35 FR 16047; 10/13/1970, 50 FR 50304; 12/10/1985, 50 CFR 17.44(m) 4d, 50 CFR 17.95(e) CH.
Dace, Foskett speckled | Rhinichthys osculus ssp. | Wherever found | T | 50 FR 12302; 3/28/1985, 50 CFR 17.44(j) 4d.
Dace, Independence Valley speckled | Rhinichthys osculus lethoporus | Wherever found | E | 54 FR 41448; 10/10//1989, 54 FR 47861; 11/17/1989.
Dace, Kendall Warm Springs | Rhinichthys osculus thermalis | Wherever found | E | 35 FR 16047; 10/13/1970.
Dace, laurel | Chrosomus saylori | Wherever found | E | 76 FR 48722; 8/9/2011, 50 CFR 17.95(e) CH.
Dace, Moapa | Moapa coriacea | Wherever found | E | 32 FR 4001; 3/11/1967.
Darter, amber | Percina antesella | Wherever found | E | 50 FR 31597; 8/5/1985, 50 CFR 17.95(e) CH.
Darter, bayou | Etheostoma rubrum | Wherever found | T | 40 FR 44149; 9/25/1975, 50 CFR 17.44(b) 4d.
Darter, bluemask | Etheostoma akatulo | Wherever found | E | 58 FR 68480; 12/27/1993.
Darter, boulder | Etheostoma wapiti | Wherever found, except where listed as an experimental population | E | 53 FR 33996; 9/1/1988.
Darter, boulder | Etheostoma wapiti | Shoal Creek (from Shoal Creek mile 41.7 (66.7 km)) at the mouth of Long Branch, Lawrence County, TN, downstream to the backwaters of Wilson Reservoir (Shoal Creek mile 14 (22 km)) at Goose Shoals, Lauderdale County, AL, including the lower 5 miles (8 km) of all tributaries that enter this reach | XN | 70 FR 1286; 1/6/2005, 50 CFR 17.84(o) 10j.
Darter, Cherokee | Etheostoma scotti | Wherever found | T | 59 FR 65505; 12/20/1994.
Darter, Cumberland | Etheostoma susanae | Wherever found | E | 76 FR 48722; 8/9/2011, 50 CFR 17.95(e) CH.
Darter, diamond | Crystallaria cincotta | Wherever found | E | 78 FR 45074; 7/26/2013, 50 CFR 17.95(e) CH.
Darter, duskytail | Etheostoma percnurum | Wherever found, except where listed as an experimental population | E | 58 FR 25758; 4/27/1993.
Darter, duskytail | Etheostoma percnurum | U.S.A. (TN—specified portions of the Tellico River; see § 17.84(p)(1)(i)) | XN | 67 FR 52420; 8/12/2002, 50 CFR 17.84(q) 10j.
Darter, duskytail | Etheostoma percnurum | U.S.A. (TN—specified portions of the French Broad and Holston Rivers; see § 17.84(q)(1)(ii)) | XN | 72 FR 52434; 9/13/2007, 50 CFR 17.84(q) 10j.
Darter, Etowah | Etheostoma etowahae | Wherever found | E | 59 FR 65505; 12/20/1994.
Darter, fountain | Etheostoma fonticola | Wherever found | E | 35 FR 16047; 10/13/1970, 50 CFR 17.95(e) CH.
Darter, goldline | Percina aurolineata | Wherever found | T | 57 FR 14786; 4/22/1992.
Darter, leopard | Percina pantherina | Wherever found | T | 43 FR 3711; 1/27/1978, 50 CFR 17.44(d) 4d, 50 CFR 17.95(e) CH.
Darter, Maryland | Etheostoma sellare | Wherever found | E | 32 FR 4001; 3/11/1967, 50 CFR 17.95(e) CH.
Darter, Niangua | Etheostoma nianguae | Wherever found | T | 50 FR 24649; 6/12/1985, 50 CFR 17.44(k) 4d, 50 CFR 17.95(e) CH.
Darter, Okaloosa | Etheostoma okaloosae | Wherever found | T | 38 FR 14678; 6/4/1973, 76 FR 18087; 4/1/2011, 50 CFR 17.44(bb) 4d.
Darter, relict | Etheostoma chienense | Wherever found | E | 58 FR 68480; 12/27/1993.
Darter, rush | Etheostoma phytophilum | Wherever found | E | 76 FR 48722; 8/9/2011, 50 CFR 17.95(e) CH.
Darter, slackwater | Etheostoma boschungi | Wherever found | T | 42 FR 45526; 9/9/1977, 50 CFR 17.44(c) 4d, 50 CFR 17.95(e) CH.
Darter, snail | Percina tanasi | Wherever found | T | 40 FR 47505; 10/9/1975, 49 FR 27510; 7/5/1984.
Darter, vermilion | Etheostoma chermocki | Wherever found | E | 66 FR 59367; 11/28/2001, 50 CFR 17.95(e) CH.
Darter, watercress | Etheostoma nuchale | Wherever found | E | 35 FR 16047; 10/13/1970.
Darter, yellowcheek | Etheostoma moorei | Wherever found | E | 76 FR 48722; 8/9/2011, 50 CFR 17.95(e) CH.
Eulachon [Southern DPS] | Thaleichthys pacificus | Southern DPS—see 50 CFR 223.102 | T | 75 FR 13012; 3/18/2010 N, 76 FR 20558; 4/13/2011, 79 FR 42687; 7/23/2014, 50 CFR 226.222 CH.
Gambusia, Big Bend | Gambusia gaigei | Wherever found | E | 32 FR 4001; 3/11/1967.
Gambusia, Clear Creek | Gambusia heterochir | Wherever found | E | 32 FR 4001; 3/11/1967.
Gambusia, Pecos | Gambusia nobilis | Wherever found | E | 35 FR 16047; 10/13/1970.
Gambusia, San Marcos | Gambusia georgei | Wherever found | E | 45 FR 47355; 7/14/1980, 50 CFR 17.95(e) CH.
Goby, tidewater | Eucyclogobius newberryi | Wherever found | E | 59 FR 5494; 2/4/1994, 50 CFR 17.95(e) CH.
Logperch, Conasauga | Percina jenkinsi | Wherever found | E | 50 FR 31597; 8/5/1985, 50 CFR 17.95(e) CH.
Logperch, Roanoke | Percina rex | Wherever found | E | 54 FR 34468; 8/18/1989.
Madtom, Chucky | Noturus crypticus | Wherever found | E | 76 FR 48722; 8/9/2011, 50 CFR 17.95(e) CH.
Madtom, Neosho | Noturus placidus | Wherever found | T | 55 FR 21148; 5/22/1990.
Madtom, pygmy | Noturus stanauli | Wherever found, except where listed as an experimental population | E | 58 FR 25758; 4/27/1993.
Madtom, pygmy | Noturus stanauli | U.S.A. (TN—specified portions of the French Broad and Holston Rivers; see § 17.84(t)(1)(i)) | XN | 72 FR 52434; 9/13/2007, 50 CFR 17.84(t) 10j.
Madtom, Scioto | Noturus trautmani | Wherever found | E | 40 FR 44149; 9/25/1975.
Madtom, smoky | Noturus baileyi | Wherever found, except where listed as an experimental population | E | 49 FR 43065; 10/26/1984, 50 CFR 17.95(e) CH.
Madtom, smoky | Noturus baileyi | U.S.A. (TN—specified portions of the Tellico River; see § 17.84(r)(1)(i)) | XN | 67 FR 52420; 8/12/2002, 50 CFR 17.84(r) 10j.
Madtom, yellowfin | Noturus flavipinnis | Wherever found, except where listed as an experimental population | T | 42 FR 45526; 9/9/1977, 50 CFR 17.44(c) 4d, 50 CFR 17.95(e) CH.
Madtom, yellowfin | Noturus flavipinnis | U.S.A. (TN, VA—specified portions of the Holston River and watershed; see § 17.84(e)(1)(i)) | XN | 53 FR 29335; 8/4/1988, 50 CFR 17.84(e) 10j.
Madtom, yellowfin | Noturus flavipinnis | U.S.A. (TN—specified portions of the Tellico River; see § 17.84(e)(1)(ii)) | XN | 67 FR 52420; 8/12/2002, 50 CFR 17.84(e) 10j.
Madtom, yellowfin | Noturus flavipinnis | U.S.A. (TN—specified portions of the French Broad and Holston Rivers; see § 17.84(e)(1)(iii)) | XN | 72 FR 52434; 9/13/2007, 50 CFR 17.84(e) 10j.
Minnow, Devils River | Dionda diaboli | Wherever found | T | 64 FR 56596; 10/20/1999, 50 CFR 17.95(e) CH.
Minnow, loach | Rhinichthys cobitis | Wherever found | E | 51 FR 39468; 10/28/1986, 77 FR 10810; 2/23/2012, 50 CFR 17.95(e) CH.
Minnow, Rio Grande silvery | Hybognathus amarus | Wherever found, except where listed as an experimental population | E | 59 FR 36988; 7/20/1994, 50 CFR 17.95(e) CH.
Minnow, Rio Grande silvery | Hybognathus amarus | Rio Grande, from Little Box Canyon (approximately 10.4 river miles downstream of Fort Quitman, TX) to Amistad Dam; and on the Pecos River, from its confluence with Independence Creek to its confluence with the Rio Grande | XN | 73 FR 74357; 12/8/2008, 50 CFR 17.84(u) 10j.
Nekogigi (catfish) | Coreobagrus ichikawai | Wherever found | E | 35 FR 8491; 6/2/1970.
Pikeminnow, Colorado | Ptychocheilus lucius | Wherever found, except where listed as an experimental population | E | 32 FR 4001; 3/11/1967, 50 FR 30188; 7/24/1985, 50 CFR 17.95(e) CH.
Pikeminnow, Colorado | Ptychocheilus lucius | Salt and Verde R. drainages, AZ | XN | 50 FR 30188; 7/24/1985, 50 CFR 17.84(b) 10j.
Poolfish, Pahrump | Empetrichthys latos | Wherever found | E | 32 FR 4001; 3/11/1967.
Pupfish, Ash Meadows Amargosa | Cyprinodon nevadensis mionectes | Wherever found | E | 47 FR 19995; 5/10/1982, 48 FR 608; 1/5/1983, 48 FR 40178; 9/2/1983, 50 CFR 17.95(e) CH.
Pupfish, Comanche Springs | Cyprinodon elegans | Wherever found | E | 32 FR 4001; 3/11/1967.
Pupfish, desert | Cyprinodon macularius | Wherever found | E | 51 FR 10842; 3/31/1986, 50 CFR 17.95(e) CH.
Pupfish, Devils Hole | Cyprinodon diabolis | Wherever found | E | 32 FR 4001; 3/11/1967.
Pupfish, Leon Springs | Cyprinodon bovinus | Wherever found | E | 45 FR 54678; 8/15/1980, 50 CFR 17.95(e) CH.
Pupfish, Owens | Cyprinodon radiosus | Wherever found | E | 32 FR 4001; 3/11/1967.
Pupfish, Warm Springs | Cyprinodon nevadensis pectoralis | Wherever found | E | 35 FR 16047; 10/13/1970.
Rockfish, canary [Puget Sound-Georgia Basin DPS] | Sebastes pinniger | Puget Sound-Georgia Basin DPS—see 50 CFR 223.102 | T | 75 FR 22276; 4/28/2010 N, 76 FR 20558; 4/13/2011, 79 FR 42687; 7/23/2014.
Rockfish, yelloweye [Puget Sound-Georgia Basin DPS] | Sebastes ruberrimus | Puget Sound-Georgia Basin DPS—see 50 CFR 223.102 | T | 75 FR 22276; 4/28/2010 N, 76 FR 20558; 4/13/2011, 79 FR 42687; 7/23/2014.
Salmon, Atlantic [Gulf of Maine DPS] | Salmo salar | Gulf of Maine DPS—see 50 CFR 224.101 | E | 65 FR 69459; 11/17/2000 J, 74 FR 29344; 6/19/2009 J, 76 FR 20558; 4/13/2011, 79 FR 42687; 7/23/2014, 50 CFR 226.217 CH.
Salmon, Chinook [California Coastal ESU] | Oncorhynchus tshawytscha | California Coastal ESU—see 50 CFR 223.102 | T | 64 FR 50394; 9/16/1999 N, 64 FR 72960; 12/29/1999, 70 FR 37160, 6/28/2005 N, 76 FR 20558; 4/13/2011, 79 FR 42687; 7/23/2014, 50 CFR 223.203 4d, 50 CFR 226.211 CH.
Salmon, Chinook [Central Valley spring-run ESU] | Oncorhynchus tshawytscha | Central Valley spring-run ESU—see 50 CFR 223.102 | T | 64 FR 50394; 9/16/1999 N, 64 FR 72960; 12/29/1999, 70 FR 37160, 6/28/2005 N, 76 FR 20558; 4/13/2011, 79 FR 42687; 7/23/2014, 50 CFR 223.203 4d, 50 CFR 226.211 CH.
Salmon, Chinook [Central Valley spring-run ESU—XN] | Oncorhynchus tshawytscha | Central Valley spring-run ESU-XN—see 50 CFR 223.102 | XN | 78 FR 79622; 12/31/2013 N, 79 FR 42687; 7/23/2014, 50 CFR 223.301 10j.
Salmon, Chinook [Lower Columbia River ESU] | Oncorhynchus tshawytscha | Lower Columbia River ESU—see 50 CFR 223.102 | T | 64 FR 14308; 3/24/1999 N, 64 FR 41835; 8/2/1999, 70 FR 37160, 6/28/2005 N, 76 FR 20558; 4/13/2011, 79 FR 42687; 7/23/2014, 50 CFR 223.203 4d, 50 CFR 226.212 CH.
Salmon, Chinook [Puget Sound ESU] | Oncorhynchus tshawytscha | Puget Sound ESU—see 50 CFR 223.102 | T | 64 FR 14308; 3/24/1999 N, 64 FR 41835; 8/2/1999, 70 FR 37160, 6/28/2005 N, 76 FR 20558; 4/13/2011, 79 FR 42687; 7/23/2014, 50 CFR 223.203 4d, 50 CFR 226.212 CH.
Salmon, Chinook [Sacramento River winter-run ESU] | Oncorhynchus tshawytscha | Sacramento River winter-run ESU—see 50 CFR 224.101 | E | 55 FR 12191; 4/2/1990 N, 55 FR 12831; 4/6/1990, 55 FR 46515; 11/4/1990 N, 55 FR 49623; 11/30/1990, 59 FR 440; 1/4/1994 N, 59 FR 13836; 3/23/1994, 70 FR 37160; 6/28/2005 N, 76 FR 20558; 4/13/2011, 79 FR 42687; 7/23/2014, 50 CFR 226.204 CH.
Salmon, Chinook [Snake River fall-run ESU] | Oncorhynchus tshawytscha | Snake River fall-run ESU—see 50 CFR 223.102 | T | 57 FR 14653; 4/22/1992 N, 58 FR 49880; 9/23/1993, 59 FR 42529; 8/18/1994 N, 59 FR 54840; 11/2/1994, 70 FR 37160, 6/28/2005 N, 76 FR 20558; 4/13/2011, 79 FR 42687; 7/23/2014, 50 CFR 223.203 4d, 50 CFR 226.205 CH.
Salmon, Chinook [Snake River spring/summer-run ESU] | Oncorhynchus tshawytscha | Snake River spring/summer-run ESU—see 50 CFR 223.102 | T | 57 FR 14653; 4/22/1992 N, 58 FR 49880; 9/23/1993, 59 FR 42529; 8/18/1994 N, 59 FR 54840; 11/2/1994, 70 FR 37160, 6/28/2005 N, 76 FR 20558; 4/13/2011, 79 FR 42687; 7/23/2014, 50 CFR 223.203 4d, 50 CFR 226.205 CH.
Salmon, Chinook [Upper Columbia River spring-run ESU] | Oncorhynchus tshawytscha | Upper Columbia River spring-run ESU—see 50 CFR 224.101 | E | 64 FR 14308; 3/24/1999 N, 64 FR 41835; 8/2/1999, 70 FR 37160; 6/28/2005 N, 76 FR 20558; 4/13/2011, 79 FR 42687; 7/23/2014, 50 CFR 226.212 CH.
Salmon, Chinook [Upper Columbia River spring-run ESU-XN] | Oncorhynchus tshawytscha | Upper Columbia River spring-run ESU-XN—see 50 CFR 223.102 | XN | 79 FR 40004, 7/11/2014 N, 79 FR 52576; 9/4/2014, 50 CFR 223.301 10j.
Salmon, Chinook [Upper Willamette River ESU] | Oncorhynchus tshawytscha | Upper Willamette River ESU—see 50 CFR 223.102 | T | 64 FR 14308; 3/24/1999 N, 64 FR 41835; 8/2/1999, 76 FR 20558; 4/13/2011, 79 FR 42687; 7/23/2014, 50 CFR 223.203 4d, 50 CFR 226.212 CH.
Salmon, chum [Columbia River ESU] | Oncorhynchus keta | Columbia River ESU—see 50 CFR 223.102 | T | 64 FR 14508; 3/25/1999 N, 64 FR 41835; 8/2/1999, 70 FR 37160; 6/28/2005 N, 76 FR 20558; 4/13/2011, 79 FR 42687; 7/23/2014, 50 CFR 223.203 4d, 50 CFR 226.212 CH.
Salmon, chum [Hood Canal summer-run ESU] | Oncorhynchus keta | Hood Canal summer-run ESU—see 50 CFR 223.102 | T | 64 FR 14508; 3/25/1999 N, 64 FR 41835; 8/2/1999, 70 FR 37160; 6/28/2005 N, 76 FR 20558; 4/13/2011, 79 FR 42687; 7/23/2014, 50 CFR 223.203 4d, 50 CFR 226.212 CH.
Salmon, coho [Central California Coast ESU] | Oncorhynchus kisutch | Central California Coast ESU—see 50 CFR 224.101 | E | 61 FR 56138; 10/31/1996 N, 61 FR 59028; 11/20/1996, 70 FR 37160; 6/28/2005 N, 77 FR 19552; 4/2/2012 N, 76 FR 20558; 4/13/2011, 79 FR 42687; 7/23/2014, 50 CFR 226.210 CH.
Salmon, coho [Lower Columbia River ESU] | Oncorhynchus kisutch | Lower Columbia River ESU—see 50 CFR 223.102 | T | 70 FR 37160; 6/28/2005 N, 76 FR 20558; 4/13/2011, 79 FR 42687; 7/23/2014, 50 CFR 223.203 4d.
Salmon, coho [Oregon Coast ESU] | Oncorhynchus kisutch | Oregon Coast ESU—see 50 CFR 223.102 | T | 75 FR 29489; 5/26/2010 N, 76 FR 20558; 4/13/2011, 76 FR 35755; 6/20/2011 N, 79 FR 42687; 7/23/2014, 50 CFR 223.203 4d, 50 CFR 226.212 CH.
Salmon, coho [Southern Oregon-Northern California Coast ESU] | Oncorhynchus kisutch | Southern Oregon—Northern California Coast ESU—see 50 CFR 223.102 | T | 62 FR 24588; 5/6/1997 N, 62 FR 33038; 6/18/1997, 70 FR 37160; 6/28/2005 N, 76 FR 20558; 4/13/2011, 79 FR 42687; 7/23/2014, 50 CFR 223.203 4d, 50 CFR 226.210 CH.
Salmon, sockeye [Ozette Lake ESU] | Oncorhynchus nerka | Ozette Lake ESU—see 50 CFR 223.102 | T | 64 FR 14528; 3/25/1999 N, 64 FR 41835; 8/2/1999, 70 FR 37160; 6/28/2005 N, 76 FR 20558; 4/13/2011, 79 FR 42687; 7/23/2014, 50 CFR 223.203 4d, 50 CFR 226.212 CH.
Salmon, sockeye [Snake River ESU] | Oncorhynchus nerka | Snake River ESU—see 50 CFR 224.101 | E | 56 FR 58619; 11/20/1991 N, 57 FR 212; 1/3/1992, 70 FR 37160; 6/28/2005 N, 76 FR 20558; 4/13/2011, 79 FR 42687; 7/23/2014, 50 CFR 226.205 CH.
Sawfish, dwarf | Pristis clavata | Wherever found | E | 79 FR 73978; 12/12/2014 N, 79 FR 3914; 1/26/2015.
Sawfish, green | Pristis zijsron | Wherever found | E | 79 FR 73978; 12/12/2014 N, 79 FR 3914; 1/26/2015.
Sawfish, largetooth | Pristis pristis (formerly Pristis perotteti, Pristis pristis, and Pristis microdon) | Wherever found | E | 76 FR 40822; 9/12/2011 N, 79 FR 42687; 7/23/2014, 79 FR 73978; 12/12/2014 N, 79 FR 3914; 1/26/2015.
Sawfish, narrow | Anoxypristis cuspidata | Wherever found | E | 79 FR 73978; 12/12/2014 N, 79 FR 3914; 1/26/2015.
Sawfish, smalltooth [Non-U.S. DPS] | Pristis pectinata | Non-U.S. DPS—Smalltooth sawfish originating from non-U.S. waters | E | 79 FR 73978; 12/12/2014 N, 79 FR 3914; 1/26/2015.
Sawfish, smalltooth [U.S. DPS] | Pristis pectinata | U.S. DPS—Smalltooth sawfish originating from U.S. waters | E | 68 FR 15674; 4/1/2003 N, 70 FR 69464; 11/16/2005, 76 FR 20558; 4/13/2011, 79 FR 42687; 7/23/2014, 50 CFR 226.218 CH.
Sculpin, grotto | Cottus specus | Wherever found | E | 78 FR 58938; 9/25/2013, 50 CFR 17.95(e) CH.
Sculpin, pygmy | Cottus pygmaeus | Wherever found | T | 54 FR 39846; 9/28/1989, 50 CFR 17.44(u) 4d.
Shark, scalloped hammerhead [Central & SW Atlantic DPS] | Sphyrna lewini | Central & SW Atlantic DPS—see 50 CFR 223.102 | T | 79 FR 38214; 7/3/2014 N, 79 FR 52576; 9/4/2014.
Shark, scalloped hammerhead [Eastern Atlantic DPS] | Sphyrna lewini | Eastern Atlantic DPS—see 50 CFR 224.101 | E | 79 FR 38214; 7/3/2014 N, 79 FR 52576; 9/4/2014.
Shark, scalloped hammerhead [Eastern Pacific DPS] | Sphyrna lewini | Eastern Pacific DPS—see 50 CFR 224.101 | E | 79 FR 38214; 7/3/2014 N, 79 FR 52576; 9/4/2014.
Shark, scalloped hammerhead [Indo-West Pacific DPS] | Sphyrna lewini | Indo-West Pacific DPS—see 50 CFR 223.102 | T | 79 FR 38214; 7/3/2014 N, 79 FR 52576; 9/4/2014.
Shiner, Arkansas River [Arkansas River Basin DPS] | Notropis girardi | Arkansas River Basin (AR, KS, NM, OK, TX) | T | 63 FR 64772; 11/23/1998, 50 CFR 17.95(e) CH.
Shiner, beautiful | Cyprinella formosa | Wherever found | T | 49 FR 34490; 8/31/1984, 50 CFR 17.44(h) 4d, 50 CFR 17.95(e) CH.
Shiner, blue | Cyprinella caerulea | Wherever found | T | 57 FR 14786; 4/22/1992.
Shiner, Cahaba | Notropis cahabae | Wherever found | E | 55 FR 42961; 10/25/1990.
Shiner, Cape Fear | Notropis mekistocholas | Wherever found | E | 52 FR 36034; 9/25/1987, 50 CFR 17.95(e) CH.
Shiner, palezone | Notropis albizonatus. | Wherever found | E | 58 FR 25758; 4/27/1993.
Shiner, Pecos bluntnose | Notropis simus pecosensis | Wherever found | T | 52 FR 5295; 2/20/1987, 50 CFR 17.44(r) 4d, 50 CFR 17.95(e) CH.
Shiner, sharpnose | Notropis oxyrhynchus | Wherever found | E | 79 FR 45273; 8/4/2014, 50 CFR 17.95(e) CH.
Shiner, smalleye | Notropis buccula | Wherever found | E | 79 FR 45273; 8/4/2014, 50 CFR 17.95(e) CH.
Shiner, Topeka | Notropis topeka | Wherever found, except where listed as an experimental population | E | 63 FR 69008; 12/15/1998, 50 CFR 17.95(e) CH.
Shiner, Topeka | Notropis topeka | U.S.A. (MO—specified portions of Little Creek, Big Muddy Creek, and Spring Creek watersheds in Adair, Gentry, Harrison, Putnam, Sullivan, and Worth Counties; see § 17.84(d)(1)(i)) | XN | 78 FR 42702; 7/17/2013, 50 CFR 17.84(d) 10j.
Silverside, Waccamaw | Menidia extensa | Wherever found | T | 52 FR 11277; 4/8/1987, 50 CFR 17.44(s) 4d, 50 CFR 17.95(e) CH.
Smelt, delta | Hypomesus transpacificus | Wherever found | T | 58 FR 12854; 3/5/1993, 50 CFR 17.95(e) CH.
Spikedace | Meda fulgida | Wherever found | E | 51 FR 23769; 7/1/1986, 77 FR 10810; 2/23/2012, 50 CFR 17.95(e) CH.
Spinedace, Big Spring | Lepidomeda mollispinis pratensis | Wherever found | T | 50 FR 12298; 3/28/1985, 50 CFR 17.44(i) 4d, 50 CFR 17.95(e) CH.
Spinedace, Little Colorado | Lepidomeda vittata | Wherever found | T | 32 FR 4001; 3/11/1967, 35 FR 16047; 10/13/1970, 52 FR 35034; 9/16/1987, 50 CFR 17.44(t) 4d, 50 CFR 17.95(e) CH.
Spinedace, White River | Lepidomeda albivallis | Wherever found | E | 50 FR 37194; 9/12/1985, 50 CFR 17.95(e) CH.
Springfish, Hiko White River | Crenichthys baileyi grandis | Wherever found | E | 50 FR 39123; 9/27/1985, 50 CFR 17.95(e) CH.
Springfish, Railroad Valley | Crenichthys nevadae | Wherever found | T | 51 FR 10857; 3/31/1986, 50 CFR 17.44(n) 4d, 50 CFR 17.95(e) CH.
Springfish, White River | Crenichthys baileyi baileyi | Wherever found | E | 50 FR 39123; 9/27/1985, 50 CFR 17.95(e) CH.
Steelhead [California Central Valley DPS] | Oncorhynchus mykiss | California Central Valley DPS—see 50 CFR 223.102 | T | 63 FR 13347; 3/19/1998 N, 63 FR 32996; 6/17/1998, 71 FR 834; 1/5/2006 N, 76 FR 20558; 4/13/2011, 79 FR 42687; 7/23/2014, 50 CFR 223.203 4d, 50 CFR 226.211 CH.
Steelhead [Central California Coast DPS] | Oncorhynchus mykiss | Central California Coast DPS—see 50 CFR 223.102 | T | 62 FR 43937; 8/18/1997 N, 63 FR 32996; 6/17/1998, 71 FR 834; 1/5/2006 N, 76 FR 20558; 4/13/2011, 79 FR 42687; 7/23/2014, 50 CFR 223.203 4d, 50 CFR 226.211 CH.
Steelhead [Lower Columbia River DPS] | Oncorhynchus mykiss | Lower Columbia River DPS—see 50 CFR 223.102 | T | 63 FR 13347; 3/19/1998 N, 63 FR 32996; 6/17/1998, 76 FR 20558; 4/13/2011, 79 FR 42687; 7/23/2014, 50 CFR 223.203 4d, 50 CFR 226.212 CH.
Steelhead [Middle Columbia River DPS] | Oncorhynchus mykiss | Middle Columbia River DPS—see 50 CFR 223.102 | T | 64 FR 14517; 3/25/1999 N, 64 FR 41835; 8/2/1999, 71 FR 834; 1/5/2006 N, 76 FR 20558; 4/13/2011, 79 FR 42687; 7/23/2014, 50 CFR 223.203 4d, 50 CFR 226.212 CH.
Steelhead [Middle Columbia River DPS—XN] | Oncorhynchus mykiss | Middle Columbia River DPS—XN—see 50 CFR 223.102 | XN | 78 FR 2893, 1/15/2013 N, 79 FR 42687; 7/23/2014, 50 CFR 223.301 10j.
Steelhead [Northern California DPS] | Oncorhynchus mykiss | Northern California DPS—see 50 CFR 223.102 | T | 65 FR 36075; 6/7/2000 N, 65 FR 54177; 9/7/2000, 71 FR 834; 1/5/2006 N, 76 FR 20558; 4/13/2011, 79 FR 42687; 7/23/2014, 50 CFR 223.203 4d, 50 CFR 226.211 CH.
Steelhead [Puget Sound DPS] | Oncorhynchus mykiss | Puget Sound DPS—see 50 CFR 223.102 | T | 72 FR 26722; 5/11/2007 N, 76 FR 20558; 4/13/2011, 79 FR 42687; 7/23/2014, 50 CFR 223.203 4d.
Steelhead [Snake River Basin DPS] | Oncorhynchus mykiss | Snake River Basin DPS—see 50 CFR 223.102 | T | 62 FR 43937; 8/18/1997 N, 63 FR 32996; 6/17/1998, 71 FR 834; 1/5/2006 N, 76 FR 20558; 4/13/2011, 79 FR 42687; 7/23/2014, 50 CFR 223.203 4d, 50 CFR 226.212 CH.
Steelhead [South Central California Coast DPS] | Oncorhynchus mykiss | South-Central California Coast DPS—see 50 CFR 223.102 | T | 62 FR 43937; 8/18/1997 N, 63 FR 32996; 6/17/1998, 71 FR 834; 1/5/2006 N, 76 FR 20558; 4/13/2011, 79 FR 42687; 7/23/2014, 50 CFR 223.203 4d, 50 CFR 226.211 CH.
Steelhead [Southern California DPS] | Oncorhynchus mykiss | Southern California DPS—see 50 CFR 224.101 | E | 62 FR 43937; 8/18/1997 N, 63 FR 32996; 6/17/1998, 71 FR 834; 1/5/2006 N, 76 FR 20558; 4/13/2011, 79 FR 42687; 7/23/2014, 50 CFR 226.211 CH.
Steelhead [Upper Columbia River DPS] | Oncorhynchus mykiss | Upper Columbia River DPS—see 50 CFR 223.102 | T | 62 FR 43937; 8/18/1997 N, 63 FR 32996; 6/17/1998, 71 FR 834; 1/5/2006 N, 76 FR 20558; 4/13/2011, 79 FR 42687; 7/23/2014, 50 CFR 223.203 4d, 50 CFR 226.212 CH.
Steelhead [Upper Willamette River DPS] | Oncorhynchus mykiss | Upper Willamette River DPS—see 50 CFR 223.102 | T | 64 FR 14517; 3/25/1999 N, 64 FR 41835; 8/2/1999, 71 FR 834; 1/5/2006 N, 76 FR 20558; 4/13/2011, 79 FR 42687; 7/23/2014, 50 CFR 223.203 4d, 50 CFR 226.212 CH.
Stickleback, unarmored threespine | Gasterosteus aculeatus williamsoni | Wherever found | E | 35 FR 16047; 10/13/1970.
Sturgeon, Adriatic | Acipenser naccarii | Wherever found | E | 79 FR 31222; 6/2/2014 N, 79 FR 52576; 9/4/2014.
Sturgeon, Alabama | Scaphirhynchus suttkusi | Wherever found | E | 65 FR 26438; 5/5/2000, 50 CFR 17.95(e) CH.
Sturgeon, Atlantic (Atlantic subspecies)[Carolina DPS] | Acipenser oxyrinchus oxyrinchus | Carolina DPS—see 50 CFR 224.101 | E | 77 FR 5914; 2/6/2012 N, 79 FR 42687; 7/23/2014.
Sturgeon, Atlantic (Atlantic subspecies)[Chesapeake Bay DPS] | Acipenser oxyrinchus oxyrinchus | Chesapeake Bay DPS—see 50 CFR 224.101 | E | 77 FR 5880; 2/6/2012 N, 79 FR 42687; 7/23/2014.
Sturgeon, Atlantic (Atlantic subspecies)[Gulf of Maine DPS] | Acipenser oxyrinchus oxyrinchus | Gulf of Maine DPS—see 50 CFR 223.102 | T | 77 FR 5880; 2/6/2012 N, 79 FR 42687; 7/23/2014, 50 CFR 223.211 4d.
Sturgeon, Atlantic (Atlantic subspecies)[New York Bight DPS] | Acipenser oxyrinchus oxyrinchus | New York Bight DPS—see 50 CFR 224.101 | E | 77 FR 5880; 2/6/2012 N, 79 FR 42687; 7/23/2014.
Sturgeon, Atlantic (Atlantic subspecies)[South Atlantic DPS] | Acipenser oxyrinchus oxyrinchus | South Atlantic DPS—see 50 CFR 224.101 | E | 77 FR 5914; 2/6/2012 N, 79 FR 42687; 7/23/2014.
Sturgeon, Atlantic (Gulf subspecies) | Acipenser oxyrinchus desotoi | Wherever found | T | 56 FR 49653; 9/30/1991 N, 56 FR 49658; 9/30/1991, 50 CFR 17.44 4d, 50 CFR 17.95(e) CH, 50 CFR 226.214 CH.
Sturgeon, beluga | Huso huso | Wherever found | T | 69 FR 18499; 4/8/2004, 50 CFR 17.44(y) 4d.
Sturgeon, Chinese | Acipenser sinensis | Wherever found | E | 79 FR 31222; 6/2/2014 N, 79 FR 52576; 9/4/2014.
Sturgeon, European | Acipenser sturio | Wherever found | E | 79 FR 31222; 6/2/2014 N, 79 FR 52576; 9/4/2014.
Sturgeon, green [Southern DPS] | Acipenser medirostris | Southern DPS—see 50 CFR 223.102 | T | 71 FR 26835; 5/9/2006, 76 FR 20558; 4/13/2011, 79 FR 42687; 7/23/2014, 50 CFR 223.210 4d, 50 CFR 226.219 CH.
Sturgeon, Kaluga | Huso dauricus | Wherever found | E | 79 FR 31222; 6/2/2014 N, 79 FR 52576; 9/4/2014.
Sturgeon, pallid | Scaphirhynchus albus | Wherever found | E | 55 FR 36641; 9/6/1990.
Sturgeon, Sakhalin | Acipenser mikadoi | Wherever found | E | 79 FR 31222; 6/2/2014 N, 79 FR 52576; 9/4/2014.
Sturgeon, shortnose | Acipenser brevirostrum | Wherever found | E | 32 FR 4001; 3/11/1967.
Sturgeon, shovelnose | Scaphirhynchus platorynchus | Wherever found | T (S/A) | 75 FR 53598; 9/1/2010, 50 CFR 17.44(aa) 4d.
Sturgeon, white [Kootenai River DPS] | Acipenser transmontanus | Kootenai River DPS—U.S.A. (ID, MT), Canada (BC), (Kootenai R. system) | E | 59 FR 45989; 9/6/1994, 50 CFR 17.95(e) CH.
Sucker, June | Chasmistes liorus | Wherever found | E | 51 FR 10851; 3/31/1986, 50 CFR 17.95(e) CH.
Sucker, Lost River | Deltistes luxatus | Wherever found | E | 53 FR 27130; 7/18/1988, 50 CFR 17.95(e) CH.
Sucker, razorback | Xyrauchen texanus | Wherever found | E | 56 FR 54957; 10/23/1991, 50 CFR 17.95(e) CH.
Sucker, Santa Ana [Three CA river basins DPS] | Catostomus santaanae | Los Angeles River basin, San Gabriel River basin, Santa Ana River basin | T | 65 FR 19686; 4/12/2000, 50 CFR 17.95(e) CH.
Sucker, shortnose | Chasmistes brevirostris | Wherever found | E | 53 FR 27130; 7/18/1988, 50 CFR 17.95(e) CH.
Sucker, Warner | Catostomus warnerensis | Wherever found | T | 50 FR 39117; 9/27/1985, 50 CFR 17.44(l) 4d, 50 CFR 17.95(e) CH.
Sucker, Zuni bluehead | Catostomus discobolus yarrowi | Wherever found | E | 79 FR 43131; 7/24/2014, 50 CFR 17.95(e) CH.
Sunfish, spring pygmy | Elassoma alabamae | Wherever found | T | 78 FR 60766; 10/2/2013.
Tango, Miyako (Tokyo bitterling) | Tanakia tanago | Wherever found | E | 35 FR 8491; 6/2/1970.
Temoleh, Ikan (minnow) | Probarbus jullieni | Wherever found | E | 41 FR 24062; 6/14/1976.
Topminnow, Gila (incl. Yaqui) | Poeciliopsis occidentalis | U.S.A. only | E | 32 FR 4001; 3/11/1967.
Totoaba (seatrout or weakfish) | Cynoscion macdonaldi | Wherever found | E | 44 FR 29478; 5/21/1979.
Trout, Apache | Oncorhynchus apache | Wherever found | T | 32 FR 4001; 3/11/1967, 40 FR 29863; 7/16/1975, 50 CFR 17.44(a) 4d.
Trout, bull [Lower 48 States DPS] | Salvelinus confluentus | U.S.A., coterminous (lower 48 states), except where listed as an experimental population | T | 63 FR 31647; 6/10/1998, 63 FR 42757; 8/11/1998, 64 FR 17110; 4/8/1999, 64 FR 58910; 11/1/1999, 50 CFR 17.44(w) 4d, 50 CFR 17.44(x) 4d, 50 CFR 17.95(e) CH.
Trout, bull | Salvelinus confluentus | Clackamas River subbasin and the mainstem Willamette River, from Willamette Falls to its points of confluence with the Columbia River, including Multnomah Channel | XN | 76 FR 35979; 6/21/2011, 50 CFR 17.84(v) 10j.
Trout, Gila | Oncorhynchus gilae | Wherever found | T | 32 FR 4001; 3/11/1967, 71 FR 40657; 7/18/2006, 50 CFR 17.44(z) 4d.
Trout, greenback cutthroat | Oncorhynchus clarkii stomias | Wherever found | T | 32 FR 4001; 3/11/1967, 43 FR 16343; 4/18/1978, 50 CFR 17.44(f) 4d.
Trout, Lahontan cutthroat | Oncorhynchus clarkii henshawi | Wherever found | T | 35 FR 16047; 10/13/1970, 40 FR 29863; 7/16/1975, 50 CFR 17.44(a) 4d.
Trout, Little Kern golden | Oncorhynchus aguabonita whitei | Wherever found | T | 43 FR 15427; 4/13/1978, 50 CFR 17.44(e) 4d, 50 CFR 17.95(e) CH.
Trout, Paiute cutthroat | Oncorhynchus clarkii seleniris | Wherever found | T | 32 FR 4001; 3/11/1967, 40 FR 29863; 7/16/1975, 50 CFR 17.44(a) 4d.
Woundfin | Plagopterus argentissimus | Wherever found, except where listed as an experimental population | E | 35 FR 16047; 10/13/1970, 50 FR 30188; 7/24/1985, 50 CFR 17.95(e) CH.
Woundfin | Plagopterus argentissimus | Gila R. drainage, AZ, NM | XN | 50 FR 30188; 7/24/1985, 50 CFR 17.84(b) 10j.
Clams
Acornshell, southern | Epioblasma othcaloogensis | Wherever found | E | 58 FR 14330; 3/17/1993, 50 CFR 17.95(f) CH.
Bankclimber, purple | Elliptoideus sloatianus | Wherever found | T | 63 FR 12664; 3/16/1998, 50 CFR 17.95(f) CH.
Bean, Choctaw | Villosa choctawensis | Wherever found | E | 77 FR 61663; 10/10/2012, 50 CFR 17.95(f) CH.
Bean, Cumberland | Villosa trabalis | Wherever found, except where listed as an experimental population | E | 41 FR 24062; 6/14/1976.
Bean, Cumberland | Villosa trabalis | U.S.A. (AL—specified portions of the Tennessee River; see § 17.85(a)(1)) | XN | 66 FR 32250; 6/14/2001, 50 CFR 17.85(a) 10j.
Bean, Cumberland | Villosa trabalis | U.S.A. (TN—specified portions of the French Broad and Holston Rivers; see § 17.85(b)(1)) | XN | 72 FR 52434; 9/13/2007, 50 CFR 17.85(b) 10j.
Bean, Purple | Villosa perpurpurea | Wherever found | E | 62 FR 1647; 1/10/1997, 50 CFR 17.95(f) CH.
Blossom, green | Epioblasma torulosa gubernaculum | Wherever found | E | 41 FR 24062; 6/14/1976.
Blossom, tubercled | Epioblasma torulosa torulosa | Wherever found, except where listed as an experimental population | E | 41 FR 24062; 6/14/1976.
Blossom, tubercled | Epioblasma torulosa torulosa | U.S.A. (AL—specified portions of the Tennessee River; see § 17.85(a)(1)) | XN | 66 FR 32250; 6/14/2001, 50 CFR 17.85(a) 10j.
Blossom, turgid | Epioblasma turgidula | Wherever found, except where listed as an experimental population | E | 41 FR 24062; 6/14/1976.
Blossom, turgid | Epioblasma turgidula | U.S.A. (AL—specified portions of the Tennessee River; see § 17.85(a)(1)) | XN | 66 FR 32250; 6/14/2001, 50 CFR 17.85(a) 10j.
Blossom, yellow | Epioblasma florentina florentina | Wherever found, except where listed as an experimental population | E | 41 FR 24062; 6/14/1976.
Blossom, yellow | Epioblasma florentina florentina | U.S.A. (AL—specified portions of the Tennessee River; see § 17.85(a)(1)) | XN | 66 FR 32250; 6/14/2001, 50 CFR 17.85(a) 10j.
Purple cat's paw (pearlymussel) | Epioblasma obliquata obliquata | Wherever found, except where listed as an experimental population | E | 55 FR 28209; 7/10/1990.
Purple cat's paw (pearlymussel) | Epioblasma obliquata obliquata | U.S.A. (AL—specified portions of the Tennessee River; see § 17.85(a)(1)) | XN | 66 FR 32250; 6/14/2001, 50 CFR 17.85(a) 10j.
Catspaw, white (pearlymussel) | Epioblasma obliquata perobliqua | Wherever found | E | 41 FR 24062; 6/14/1976.
Clubshell | Pleurobema clava | Wherever found, except where listed as an experimental population | E | 58 FR 5638; 1/22/1993.
Clubshell | Pleurobema clava | U.S.A. (AL—specified portions of the Tennessee River; see § 17.85(a)(1)) | XN | 66 FR 32250; 6/14/2001, 50 CFR 17.85(a) 10j.
Clubshell, black | Pleurobema curtum | Wherever found | E | 52 FR 11162; 4/7/1987.
Clubshell, ovate | Pleurobema perovatum | Wherever found | E | 58 FR 14330; 3/17/1993, 50 CFR 17.95(f) CH.
Clubshell, southern | Pleurobema decisum | Wherever found | E | 58 FR 14330; 3/17/1993, 50 CFR 17.95(f) CH.
Combshell, Cumberlandian | Epioblasma brevidens | Wherever found, except where listed as an experimental population | E | 62 FR 1647; 1/10/1997, 50 CFR 17.95(f) CH.
Combshell, Cumberlandian | Epioblasma brevidens | U.S.A. (AL—specified portions of the Tennessee River; see § 17.85(a)(1)) | XN | 66 FR 32250; 6/14/2001, 50 CFR 17.85(a) 10j.
Combshell, Cumberlandian | Epioblasma brevidens | U.S.A. (TN—specified portions of the French Broad and Holston Rivers; see § 17.85(b)(1) | XN | 72 FR 52434; 9/13/2007, 50 CFR 17.85(b) 10j.
Combshell, southern | Epioblasma (=Dysnomia) penita | Wherever found | E | 52 FR 11162; 4/7/1987.
Combshell, upland | Epioblasma metastriata | Wherever found | E | 77 FR 61663; 10/10/2012, 50 CFR 17.95(f) CH.
Ebonyshell, round | Fusconaia rotulata | Wherever found | E | 58 FR 14330; 3/17/1993, 50 CFR 17.95(f) CH.
Elktoe, Appalachian | Alasmidonta raveneliana | Wherever found | E | 59 FR 60324; 11/23/1994, 50 CFR 17.95(f) CH.
Elktoe, Cumberland | Alasmidonta atropurpurea | Wherever found | E | 62 FR 1647; 1/10/1997, 50 CFR 17.95(f) CH.
Fanshell | Cyprogenia stegaria | Wherever found, except where listed as an experimental population | E | 55 FR 25591; 6/21/1990.
Fanshell | Cyprogenia stegaria | U.S.A. (TN—specified portions of the French Broad and Holston Rivers; see § 17.85(b)(1)) | XN | 72 FR 52434; 9/13/2007, 50 CFR 17.85(b) 10j.
Fatmucket, Arkansas | Lampsilis powelli | Wherever found | T | 55 FR 12797; 4/5/1990.
Heelsplitter, inflated | Potamilus inflatus | Wherever found | T | 55 FR 39868; 9/28/1990.
Heelsplitter, Carolina | Lasmigona decorata | Wherever found | E | 58 FR 34926; 6/30/1993, 50 CFR 17.95(f) CH.
Higgins eye (pearlymussel) | Lampsilis higginsii | Wherever found | E | 41 FR 24062; 6/14/1976.
Kidneyshell, fluted | Ptychobranchus subtentus | Wherever found | E | 78 FR 59269; 9/26/2013, 50 CFR 17.95(f) CH.
Kidneyshell, southern | Ptychobranchus jonesi | Wherever found | E | 77 FR 61663; 10/10/2012, 50 CFR 17.95(f) CH.
Kidneyshell, triangular | Ptychobranchus greenii | Wherever found | E | 58 FR 14330; 3/17/1993, 50 CFR 17.95(f) CH.
Lampmussel, Alabama | Lampsilis virescens | Wherever found, except where listed as an experimental population | E | 41 FR 24062; 6/14/1976.
Lampmussel, Alabama | Lampsilis virescens | U.S.A. (AL—specified portions of the Tennessee River; see § 17.85(a)(1)) | XN | 66 FR 32250; 6/14/2001, 50 CFR 17.85(a) 10j.
Lilliput, pale | Toxolasma cylindrellus | Wherever found | E | 41 FR 24062; 6/14/1976.
Mapleleaf, winged (mussel) | Quadrula fragosa | Wherever found, except where listed as an experimental population | E | 56 FR 28345; 6/20/1991.
Mapleleaf, winged (mussel) | Quadrula fragosa | U.S.A. (AL—specified portions of the Tennessee River; see § 17.85(a)(1)) | XN | 66 FR 32250; 6/14/2001, 50 CFR 17.85(a) 10j.
Moccasinshell, Alabama | Medionidus acutissimus | Wherever found | T | 58 FR 14330; 3/17/1993, 50 CFR 17.95(f) CH.
Moccasinshell, Coosa | Medionidus parvulus | Wherever found | E | 58 FR 14330; 3/17/1993, 50 CFR 17.95(f) CH.
Moccasinshell, Gulf | Medionidus penicillatus | Wherever found | E | 63 FR 12664; 3/16/1998, 50 CFR 17.95(f) CH.
Moccasinshell, Ochlockonee | Medionidus simpsonianus | Wherever found | E | 63 FR 12664; 3/16/1998, 50 CFR 17.95(f) CH.
Monkeyface, Appalachian (pearlymussel) | Quadrula sparsa | Wherever found, except where listed as an experimental population | E | 41 FR 24062; 6/14/1976.
Monkeyface, Appalachian (pearlymussel) | Quadrula sparsa | U.S.A. (TN—specified portions of the French Broad and Holston Rivers; see § 17.85(b)(1)) | XN | 72 FR 52434; 9/13/2007, 50 CFR 17.85(b) 10j.
Monkeyface, Cumberland | Quadrula intermedia | Wherever found, except where listed as an experimental population | E | 41 FR 24062; 6/14/1976.
Monkeyface, Cumberland | Quadrula intermedia | U.S.A. (AL—specified portions of the Tennessee River; see § 17.85(a)(1)) | XN | 66 FR 32250; 6/14/2001, 50 CFR 17.85(a) 10j.
Monkeyface, Cumberland | Quadrula intermedia | U.S.A. (TN—specified portions of the French Broad and Holston Rivers; see § 17.85(b)(1)) | XN | 72 FR 52434; 9/13/2007, 50 CFR 17.85(b) 10j.
Mucket, Neosho | Lampsilis rafinesqueana | Wherever found | E | 78 FR 57076; 9/17/2013, 50 CFR 17.95(f) CH.
Mucket, orangenacre | Lampsilis perovalis | Wherever found | T | 58 FR 14330; 3/17/1993, 50 CFR 17.95(f) CH.
Mucket, pink (pearlymussel) | Lampsilis abrupta | Wherever found | E | 41 FR 24062; 6/14/1976.
Mussel, oyster | Epioblasma capsaeformis | Wherever found, except where listed as an experimental population | E | 62 FR 1647; 1/10/1997, 50 CFR 17.95(f) CH.
Mussel, oyster | Epioblasma capsaeformis | U.S.A. (AL—specified portions of the Tennessee River; see § 17.85(a)(1)) | XN | 66 FR 32250; 6/14/2001, 50 CFR 17.85(a) 10j.
Mussel, oyster | Epioblasma capsaeformis | U.S.A. (TN—specified portions of the French Broad and Holston Rivers; see § 17.85(b)(1)) | XN | 72 FR 52434; 9/13/2007, 50 CFR 17.85(b) 10j.
Mussel, rayed bean | Villosa fabalis | Wherever found | E | 77 FR 8632; 2/14/2012.
Mussel, scaleshell | Leptodea leptodon | Wherever found | E | 66 FR 51322; 10/9/2001.
Pearlshell, Alabama | Margaritifera marrianae | Wherever found | E | 77 FR 61663; 10/10/2012, 50 CFR 17.95(f) CH.
Pearlshell, Louisiana | Margaritifera hembeli | Wherever found | T | 53 FR 3567; 2/5/1988, 58 FR 49935; 9/24/1993.
Pearlymussel, birdwing | Lemiox rimosus | Wherever found, except where listed as an experimental population | E | 41 FR 24062; 6/14/1976.
Pearlymussel, birdwing | Lemiox rimosus | U.S.A. (AL—specified portions of the Tennessee River; see § 17.85(a)(1)) | XN | 66 FR 32250; 6/14/2001, 50 CFR 17.85(a) 10j.
Pearlymussel, birdwing | Lemiox rimosus | U.S.A. (TN—specified portions of the French Broad and Holston Rivers; see § 17.85(b)(1)) | XN | 72 FR 52434; 9/13/2007, 50 CFR 17.85(b) 10j.
Pearlymussel, cracking | Hemistena lata | Wherever found, except where listed as an experimental population | E | 54 FR 39850; 9/28/1989.
Pearlymussel, cracking | Hemistena lata | U.S.A. (AL—specified portions of the Tennessee River; see § 17.85(a)(1)) | XN | 66 FR 32250; 6/14/2001, 50 CFR 17.85(a) 10j.
Pearlymussel, cracking | Hemistena lata | U.S.A. (TN—specified portions of the French Broad and Holston Rivers; see § 17.85(b)(1)) | XN | 72 FR 52434; 9/13/2007, 50 CFR 17.85(b) 10j.
Pearlymussel, Curtis | Epioblasma florentina curtisii | Wherever found | E | 41 FR 24062; 6/14/1976.
Pearlymussel, dromedary | Dromus dromas | Wherever found, except where listed as an experimental population | E | 41 FR 24062; 6/14/1976.
Pearlymussel, dromedary | Dromus dromas | U.S.A. (AL—specified portions of the Tennessee River; see § 17.85(a)(1)) | XN | 66 FR 32250; 6/14/2001, 50 CFR 17.85(a) 10j.
Pearlymussel, dromedary | Dromus dromas | U.S.A. (TN—specified portions of the French Broad and Holston Rivers; see § 17.85(b)(1)) | XN | 72 FR 52434; 9/13/2007, 50 CFR 17.85(b) 10j.
Pearlymussel, littlewing | Pegias fabula | Wherever found | E | 53 FR 45861; 11/14/1988.
Pearlymussel, Nicklin's | Megalonaias nicklineana | Wherever found | E | 41 FR 24062; 6/14/1976.
Pearlymussel, slabside | Pleuronaia dolabelloides | Wherever found | E | 78 FR 59269; 9/26/2013, 50 CFR 17.95(f) CH.
Pearlymussel, Tampico | Cyrtonaias tampicoensis tecomatensis | Wherever found | E | 41 FR 24062; 6/14/1976.
Pigtoe, Cumberland | Pleurobema gibberum | Wherever found | E | 56 FR 21084; 5/7/1991.
Pigtoe, dark | Pleurobema furvum | Wherever found | E | 58 FR 14330; 3/17/1993, 50 CFR 17.95(f) CH.
Pigtoe, finerayed | Fusconaia cuneolus | Wherever found, except where listed as an experimental population | E | 41 FR 24062; 6/14/1976.
Pigtoe, finerayed | Fusconaia cuneolus | U.S.A. (AL—specified portions of the Tennessee River; see § 17.85(a)(1)) | XN | 66 FR 32250; 6/14/2001, 50 CFR 17.85(a) 10j.
Pigtoe, finerayed | Fusconaia cuneolus | U.S.A. (TN—specified portions of the French Broad and Holston Rivers; see § 17.85(b)(1)) | XN | 72 FR 52434; 9/13/2007, 50 CFR 17.85(b) 10j.
Pigtoe, flat | Pleurobema marshalli | Wherever found | E | 52 FR 11162; 4/7/1987.
Pigtoe, fuzzy | Pleurobema strodeanum | Wherever found | T | 77 FR 61663; 10/10/2012, 50 CFR 17.95(f) CH.
Pigtoe, Georgia | Pleurobema hanleyianum | Wherever found | E | 75 FR 67512; 11/2/2010, 50 CFR 17.95(f) CH.
Pigtoe, heavy | Pleurobema taitianum | Wherever found | E | 52 FR 11162; 4/7/1987.
Pigtoe, narrow | Fusconaia escambia | Wherever found | T | 77 FR 61663; 10/10/2012, 50 CFR 17.95(f) CH.
Pigtoe, oval | Pleurobema pyriforme | Wherever found | E | 63 FR 12664; 3/16/1998, 50 CFR 17.95(f) CH.
Pigtoe, rough | Pleurobema plenum | Wherever found, except where listed as an experimental population | E | 41 FR 24062; 6/14/1976.
Pigtoe, rough | Pleurobema plenum | U.S.A. (TN—specified portions of the French Broad and Holston Rivers; see § 17.85(b)(1)) | XN | 72 FR 52434; 9/13/2007, 50 CFR 17.85(b) 10j.
Pigtoe, shiny | Fusconaia cor | Wherever found, except where listed as an experimental population | E | 41 FR 24062; 6/14/1976.
Pigtoe, shiny | Fusconaia cor | U.S.A. (AL—specified portions of the Tennessee River; see § 17.85(a)(1)) | XN | 66 FR 32250; 6/14/2001, 50 CFR 17.85(a) 10j.
Pigtoe, shiny | Fusconaia cor | U.S.A. (TN—specified portions of the French Broad and Holston Rivers; see § 17.85(b)(1)) | XN | 72 FR 52434; 9/13/2007, 50 CFR 17.85(b) 10j.
Pigtoe, southern | Pleurobema georgianum | Wherever found | E | 58 FR 14330; 3/17/1993, 50 CFR 17.95(f) CH.
Pigtoe, tapered | Fusconaia burkei | Wherever found | T | 77 FR 61663; 10/10/2012, 50 CFR 17.95(f) CH.
Pimpleback, orangefoot | Plethobasus cooperianus | Wherever found, except where listed as an experimental population | E | 41 FR 24062; 6/14/1976.
Pimpleback, orangefoot | Plethobasus cooperianus | U.S.A. (TN—specified portions of the French Broad and Holston Rivers; see § 17.85(b)(1)) | XN | 72 FR 52434; 9/13/2007, 50 CFR 17.85(b) 10j.
Pink, ring | Obovaria retusa | Wherever found, except where listed as an experimental population | E | 54 FR 40109; 9/29/1989.
Pink, ring | Obovaria retusa | U.S.A. (TN—specified portions of the French Broad and Holston Rivers; see § 17.85(b)(1)) | XN | 72 FR 52434; 9/13/2007, 50 CFR 17.85(b) 10j.
Pocketbook, fat | Potamilus capax | Wherever found | E | 41 FR 24062; 6/14/1976.
Pocketbook, finelined | Lampsilis altilis | Wherever found | T | 58 FR 14330; 3/17/1993, 50 CFR 17.95(f) CH.
Rock-pocketbook, Ouachita | Arkansia wheeleri | Wherever found | E | 56 FR 54950; 10/23/1991.
Pocketbook, shinyrayed | Lampsilis subangulata | Wherever found | E | 63 FR 12664; 3/16/1998, 50 CFR 17.95(f) CH.
Pocketbook, speckled | Lampsilis streckeri | Wherever found | E | 54 FR 8339; 2/28/1989.
Rabbitsfoot | Quadrula cylindrica cylindrica | Wherever found | T | 78 FR 57076; 9/17/2013, 50 CFR 17.95(f) CH.
Rabbitsfoot, rough | Quadrula cylindrica strigillata | Wherever found | E | 62 FR 1647; 1/10/1997, 50 CFR 17.95(f) CH.
Riffleshell, northern | Epioblasma torulosa rangiana | Wherever found | E | 58 FR 5638; 1/22/1993.
Riffleshell, tan | Epioblasma florentina walkeri (=E. walkeri) | Wherever found | E | 42 FR 42351; 8/23/1977.
Sandshell, southern | Hamiota australis | Wherever found | T | 77 FR 61663; 10/10/2012, 50 CFR 17.95(f) CH.
Sheepnose | Plethobasus cyphyus | Wherever found | E | 77 FR 14914;3/13/2012.
Slabshell, Chipola | Elliptio chipolaensis | Wherever found | T | 63 FR 12664; 3/16/1998, 50 CFR 17.95(f) CH.
Snuffbox (mussel) | Epioblasma triquetra | Wherever found | E | 77 FR 8632; 2/14/2012.
Spectaclecase | Cumberlandia monodonta | Wherever found | E | 77 FR 14914; 3/13/2012.
Spinymussel, Altamaha | Elliptio spinosa | Wherever found | E | 76 FR 62928; 10/11/2011, 50 CFR 17.95(f) CH.
Spinymussel, James | Pleurobema collina | Wherever found | E | 53 FR 27689; 7/22/1988.
Spinymussel, Tar River | Elliptio steinstansana | Wherever found | E | 50 FR 26572; 6/27/1985.
Stirrupshell | Quadrula stapes | Wherever found | E | 52 FR 11162; 4/7/1987.
Threeridge, fat | Amblema neislerii | Wherever found | E | 63 FR 12664; 3/16/1998, 50 CFR 17.95(f) CH.
Wartyback, white | Plethobasus cicatricosus | Wherever found, except where listed as an experimental population | E | 41 FR 24062; 6/14/1976.
Wartyback, white | Plethobasus cicatricosus | U.S.A. (TN—specified portions of the French Broad and Holston Rivers; see § 17.85(b)(1)) | XN | 72 FR 52434; 9/13/2007, 50 CFR 17.85(b) 10j.
Wedgemussel, dwarf | Alasmidonta heterodon | Wherever found | E | 55 FR 9447; 3/14/1990.
Snails
Abalone, Black | Haliotis cracherodii | Wherever found | E | 74 FR 1937; 1/14/2009 N, 76 FR 20558; 4/13/2011, 79 FR 42687; 7/23/2014, 50 CFR 226.221 CH.
Abalone, white | Haliotis sorenseni | Wherever found | E | 66 FR 29054; 5/29/2001 N, 70 FR 69464; 11/16/2005.
Ambersnail, Kanab | Oxyloma haydeni kanabensis | Wherever found | E | 56 FR 37668; 8/8/1991, 57 FR 13657; 4/17/1992, 57 FR 44340; 9/25/1992.
Campeloma, slender | Campeloma decampi | Wherever found | E | 65 FR 10033; 2/25/2000.
Cavesnail, Tumbling Creek | Antrobia culveri | Wherever found | E | 67 FR 52879; 8/14/2002, 50 CFR 17.95(f) CH.
Elimia, lacy | Elimia crenatella | Wherever found | T | 63 FR 57610; 10/28/1998.
Hornsnail, rough | Pleurocera foremani | Wherever found | E | 75 FR 67512; 11/2/2010, 50 CFR 17.95(f) CH.
Limpet, Banbury Springs | Lanx sp. | Wherever found | E | 57 FR 59244; 12/14/1992.
Lioplax, cylindrical | Lioplax cyclostomaformis | Wherever found | E | 63 FR 57610; 10/28/1998.
Marstonia, armored (snail) | Pyrgulopsis (=Marstonia) pachyta | Wherever found | E | 65 FR 10033; 2/25/2000.
Marstonia, royal | Pyrgulopsis ogmorhaphe | Wherever found | E | 59 FR 17994; 4/15/1994.
Pebblesnail, flat | Lepyrium showalteri | Wherever found | E | 63 FR 57610; 10/28/1998.
Pecos assiminea | Assiminea pecos | Wherever found | E | 76 FR 33036; 6/7/2011, 50 CFR 17.95(f) CH.
Riversnail, Anthony's | Athearnia anthonyi | Wherever found, except where listed as an experimental population | E | 59 FR 17994; 4/15/1994.
Riversnail, Anthony's | Athearnia anthonyi | U.S.A. (AL—specified portions of the Tennessee River; see § 17.85(a)(1)) | XN | 66 FR 32250; 6/14/2001, 50 CFR 17.85(a) 10j.
Riversnail, Anthony's | Athearnia anthonyi | U.S.A. (TN—specified portions of the French Broad and Holston Rivers; see § 17.85(b)(1)) | XN | 72 FR 52434; 9/13/2007, 50 CFR 17.85(b) 10j.
Rocksnail, interrupted | Leptoxis foremani | Wherever found | E | 75 FR 67512; 11/2/2010, 50 CFR 17.95(f) CH.
Rocksnail, painted | Leptoxis taeniata | Wherever found | T | 63 FR 57610; 10/28/1998.
Rocksnail, plicate | Leptoxis plicata | Wherever found | E | 63 FR 57610; 10/28/1998.
Rocksnail, round | Leptoxis ampla | Wherever found | T | 63 FR 57610; 10/28/1998.
Snail, Bliss Rapids | Taylorconcha serpenticola | Wherever found | T | 57 FR 59244; 12/14/1992.
Snail, Chittenango ovate amber | Succinea chittenangoensis | Wherever found | T | 43 FR 28932; 7/3/1978.
Snail, flat-spired three-toothed | Triodopsis platysayoides | Wherever found | T | 43 FR 28932; 7/3/1978.
Snail, fragile tree (Akaleha dogas, Denden) | Samoana fragilis | Wherever found | E | 80 FR 59423; 10/1/2015.
Snail, Guam tree (Akaleha, Denden) | Partula radiolata | Wherever found | E | 80 FR 59423; 10/1/2015.
Snail, humped tree (Akaleha, Denden) | Partula gibba | Wherever found | E | 80 FR 59423; 10/1/2015.
Snail, Iowa Pleistocene | Discus macclintocki | Wherever found | E | 43 FR 28932; 7/3/1978.
Snail, Lanai tree | Partulina semicarinata | Wherever found | E | 78 FR 32013; 5/28/2013.
Snail, Lanai tree | Partulina variabilis | Wherever found | E | 78 FR 32013; 5/28/2013.
Snail, Langford's tree (Akaleha, Denden) | Partula langfordi | Wherever found | E | 80 FR 59423; 10/1/2015.
Snail, Manus Island tree | Papustyla pulcherrima | Wherever found | E | 35 FR 8491; 6/2/1970.
Snail, Morro shoulderband (=Banded dune) | Helminthoglypta walkeriana | Wherever found | E | 59 FR 64613; 12/15/1994, 50 CFR 17.95(f) CH.
Snail, Newcomb's | Erinna newcombi | Wherever found | T | 65 FR 4162; 1/26/2000, 50 CFR 17.95(f) CH.
Snail, Newcomb's tree | Newcombia cumingi | Wherever found | E | 78 FR 32013; 5/28/2013, 50 CFR 17.95(f) CH.
Snail, noonday | Mesodon clarki nantahala | Wherever found | T | 43 FR 28932; 7/3/1978.
Snail, painted snake coiled forest | Anguispira picta | Wherever found | T | 43 FR 28932; 7/3/1978.
Snail, Snake River physa | Physa natricina | Wherever found | E | 57 FR 59244; 12/14/1992.
Snail, Stock Island tree | Orthalicus reses (not incl. nesodryas ) | Wherever found | T | 43 FR 28932; 7/3/1978.
Snail, tulotoma | Tulotoma magnifica | Wherever found | T | 56 FR 797; 1/9/1991, 76 FR 31866; 6/2/2011.
Snail, Virginia fringed mountain | Polygyriscus virginianus | Wherever found | E | 43 FR 28932; 7/3/1978.
Snails, Oahu tree | Achatinella spp. | Wherever found | E | 46 FR 3178; 1/13/1981, 46 FR 40025; 8/6/1981.
Springsnail, Alamosa | Tryonia alamosae | Wherever found | E | 56 FR 49646; 9/30/1991.
Springsnail, Bruneau Hot | Pyrgulopsis bruneauensis | Wherever found | E | 58 FR 5938; 1/25/1993.
Springsnail, Chupadera | Pyrgulopsis chupaderae | Wherever found | E | 77 FR 41088; 7/12/2012, 50 CFR 17.95(f) CH.
Springsnail, Koster's | Juturnia kosteria | Wherever found | E | 76 FR 33036; 6/7/2011, 50 CFR 17.95(f) CH.
Springsnail, Phantom | Pyrgulopsis texana | Wherever found | E | 78 FR 41227; 7/9/2013, 50 CFR 17.95(f) CH.
Springsnail, Roswell | Pyrgulopsis roswellensis | Wherever found | E | 76 FR 33036; 6/7/2011, 50 CFR 17.95(f) CH.
Springsnail, San Bernardino | Pyrgulopsis bernardina | Wherever found | T | 77 FR 23060; 4/17/2012, 50 CFR 17.95(f) CH.
Springsnail, Socorro | Pyrgulopsis neomexicana | Wherever found | E | 56 FR 49646; 9/30/1991.
Springsnail, Three Forks | Pyrgulopsis trivialis | Wherever found | E | 77 FR 23060; 4/17/2012, 50 CFR 17.95(f) CH.
Tryonia, Diamond | Pseudotryonia adamantina | Wherever found | E | 78 FR 41227; 7/9/2013, 50 CFR 17.95(f) CH.
Tryonia, Gonzales | Tryonia circumstriata | Wherever found | E | 78 FR 41227; 7/9/2013, 50 CFR 17.95(f) CH.
Tryonia, Phantom | Tryonia cheatumi | Wherever found | E | 78 FR 41227; 7/9/2013, 50 CFR 17.95(f) CH.
Insects
Beetle, American burying | Nicrophorus americanus | Entire, except where listed as an experimental population | E | 54 FR 29652; 7/13/1989.
Beetle, American burying | Nicrophorus americanus | In southwestern Missouri, the counties of Cedar, St. Clair, Bates, and Vernon | XN | 77 FR 16712; 3/22/2012, 50 CFR 17.85(c) 10j.
Beetle, Casey's June | Dinacoma caseyi | Wherever found | E | 76 FR 58954; 9/22/2011, 50 CFR 17.95(i) CH.
Beetle, Coffin Cave mold | Batrisodes texanus | Wherever found | E | 53 FR 36029; 9/16/1988, 58 FR 43818; 8/18/1993.
Beetle, Comal Springs dryopid | Stygoparnus comalensis | Wherever found | E | 62 FR 66295; 12/18/1997, 50 CFR 17.95(i) CH.
Beetle, Comal Springs riffle | Heterelmis comalensis | Wherever found | E | 62 FR 66295; 12/18/1997, 50 CFR 17.95(i) CH.
Beetle, delta green ground | Elaphrus viridis | Wherever found | T | 45 FR 52807; 8/8/1980, 50 CFR 17.95(i) CH.
Beetle, Helotes mold | Batrisodes venyivi | Wherever found | E | 70 FR 69854; 11/17/2005, 50 CFR 17.95(i) CH.
Beetle, Hungerford's crawling water | Brychius hungerfordi | Wherever found | E | 59 FR 10580; 3/7/1994.
Beetle, Kretschmarr Cave mold | Texamaurops reddelli | Wherever found | E | 53 FR 36029; 9/16/1988, 58 FR 43818; 8/18/1993.
Beetle, Mount Hermon June | Polyphylla barbata | Wherever found | E | 62 FR 3616; 1/24/1997.
Beetle, (no common name) | Rhadine exilis | Wherever found | E | 70 FR 69854; 11/17/2005, 50 CFR 17.95(i) CH.
Beetle, (no common name) | Rhadine infernalis | Wherever found | E | 70 FR 69854; 11/17/2005, 50 CFR 17.95(i) CH.
Beetle, Northeastern beach tiger | Cicindela dorsalis dorsalis | Wherever found | T | 55 FR 32088; 8/7/1990.
Beetle, Ohlone tiger | Cicindela ohlone | Wherever found | E | 66 FR 50340; 8/3/2001.
Beetle, Puritan tiger | Cicindela puritana | Wherever found | T | 55 FR 32088; 8/7/1990.
Beetle, Salt Creek tiger | Cicindela nevadica lincolniana | Wherever found | E | 70 FR 58335; 10/6/2005, 50 CFR 17.95(i) CH.
Beetle, Tooth Cave ground | Rhadine persephone | Wherever found | E | 53 FR 36029; 9/16/1988.
Beetle, valley elderberry longhorn | Desmocerus californicus dimorphus | Wherever found | T | 45 FR 52803; 8/8/1980, 50 CFR 17.95(i) CH.
Butterfly, Bartram's scrub-hairstreak | Strymon acis bartrami | Wherever found | E | 79 FR 47221; 8/12/2014, 50 CFR 17.95(i) CH.
Butterfly, bay checkerspot | Euphydryas editha bayensis | Wherever found | T | 52 FR 35366; 9/18/1987, 50 CFR 17.95(i) CH.
Butterfly, Behren's silverspot | Speyeria zerene behrensii | Wherever found | E | 62 FR 64306; 12/5/1997.
Butterfly, callippe silverspot | Speyeria callippe callippe | Wherever found | E | 62 FR 64306; 12/5/1997.
Butterfly, cassius blue | Leptotes cassius theonus | Coastal south and central FL | T (S/A) | 77 FR 20948; 4/6/2012.
Butterfly, ceraunus blue | Hemiargus ceraunus antibubastus | Coastal south and central FL | T (S/A) | 77 FR 20948; 4/6/2012.
Butterfly, Corsican swallowtail | Papilio hospiton | Wherever found | E | 58 FR 4356; 1/14/1993.
Butterfly, El Segundo blue | Euphilotes battoides allyni | Wherever found | E | 41 FR 22041; 6/14/1976.
Butterfly, Fender's blue | Icaricia icarioides fenderi | Wherever found | E | 65 FR 3875; 1/25/2000, 50 CFR 17.95(i) CH.
Butterfly, Florida leafwing | Anaea troglodyta floridalis | Wherever found | E | 79 FR 47221; 8/12/2014, 50 CFR 17.95(i) CH.
Butterfly, Homerus swallowtail | Papilio homerus | Wherever found | E | 58 FR 4356; 1/14/1993.
Butterfly, Karner blue | Lycaeides melissa samuelis | Wherever found | E | 57 FR 59236; 12/14/1992.
Butterfly, Lange's metalmark | Apodemia mormo langei | Wherever found | E | 41 FR 22041; 6/14/1976.
Butterfly, lotis blue | Lycaeides argyrognomon lotis | Wherever found | E | 41 FR 22041; 6/14/1976.
Butterfly, Luzon peacock swallowtail | Papilio chikae | Wherever found | E | 58 FR 4356; 1/14/1993.
Butterfly, Mariana eight-spot (Ababbang, Libweibwogh) | Hypolimnas octocula marianensis | Wherever found | E | 80 FR 59423; 10/1/2015.
Butterfly, Mariana wandering (Ababbang, Libweibwogh) | Vagrans egistina | Wherever found | E | 80 FR 59423; 10/1/2015.
Butterfly, Miami blue | Cyclargus thomasi bethunebakeri | Wherever found | E | 77 FR 20948; 4/6/2012.
Butterfly, mission blue | Icaricia icarioides missionensis | Wherever found | E | 41 FR 22041; 6/14/1976.
Butterfly, Mitchell's satyr | Neonympha mitchellii mitchellii | Wherever found | E | 56 FR 28825; 6/25/1991, 57 FR 21564; 5/20/1992.
Butterfly, Mount Charleston blue | Icaricia (Plebejus) shasta charlestonensis | Wherever found | E | 78 FR 57749; 9/19/2013, 50 CFR 17.95(i) CH.
Butterfly, Myrtle's silverspot | Speyeria zerene myrtleae | Wherever found | E | 57 FR 27848; 6/22/1992.
Butterfly, nickerbean blue | Cyclargus ammon | Coastal south and central FL | T (S/A) | 77 FR 20948; 4/6/2012, 50 CFR 17.47(a) 4d.
Butterfly, Oregon silverspot | Speyeria zerene hippolyta | Wherever found | T | 45 FR 44935; 7/2/1980, 50 CFR 17.95(i) CH.
Butterfly, Palos Verdes blue | Glaucopsyche lygdamus palosverdesensis | Wherever found | E | 45 FR 44935; 7/2/1980, 50 CFR 17.95(i) CH.
Butterfly, Queen Alexandra's birdwing | Troides alexandrae | Wherever found | E | 54 FR 38950; 9/21/1989.
Butterfly, Quino checkerspot | Euphydryas editha quino | Wherever found | E | 62 FR 2313; 1/16/1997, 50 CFR 17.95(i) CH.
Butterfly, Saint Francis' satyr | Neonympha mitchellii francisci | Wherever found | E | 59 FR 18324; 4/18/1994, 60 FR 5264; 1/26/1995.
Butterfly, San Bruno elfin | Callophrys mossii bayensis | Wherever found | E | 41 FR 22041; 6/14/1976.
Butterfly, Schaus swallowtail | Heraclides aristodemus ponceanus | Wherever found | E | 41 FR 17736; 4/28/1976, 49 FR 34501; 8/31/1984.
Butterfly, Smith's blue | Euphilotes enoptes smithi | Wherever found | E | 41 FR 22041; 6/14/1976.
Butterfly, Taylor's checkerspot | Euphydryas editha taylori | Wherever found | E | 78 FR 61451; 10/3/2013, 50 CFR 17.95(i) CH.
Butterfly, Uncompahgre fritillary | Boloria acrocnema | Wherever found | E | 56 FR 28712; 6/24/1991.
Damselfly, blackline Hawaiian | Megalagrion nigrohamatum nigrolineatum | Wherever found | E | 77 FR 57647; 9/18/2012, 50 CFR 17.95(i) CH.
Damselfly, crimson Hawaiian | Megalagrion leptodemas | Wherever found | E | 77 FR 57647; 9/18/2012, 50 CFR 17.95(i) CH.
Damselfly, flying earwig Hawaiian | Megalagrion nesiotes | Wherever found | E | 52 FR 21481; 6/5/1987, 50 CFR 17.95(i) CH.
Damselfly, oceanic Hawaiian | Megalagrion oceanicum | Wherever found | E | 77 FR 57647; 9/18/2012, 50 CFR 17.95(i) CH.
Damselfly, Pacific Hawaiian | Megalagrion pacificum | Wherever found | E | 52 FR 21481; 6/5/1987, 50 CFR 17.95(i) CH.
Damselfly, Rota blue (Dulalas Luta, Dulalas Luuta) | Ischnura luta | Wherever found | E | 80 FR 59423; 10/1/2015.
Dragonfly, Hine's emerald | Somatochlora hineana | Wherever found | E | 60 FR 5267; 1/26/1995, 50 CFR 17.95(i) CH.
Fly, Delhi Sands flower-loving | Rhaphiomidas terminatus abdominalis | Wherever found | E | 58 FR 49881; 9/23/1993.
Fly, Hawaiian picture-wing | Drosophila aglaia | Wherever found | E | 71 FR 26835; 5/9/2006, 50 CFR 17.95(i) CH.
Fly, Hawaiian picture-wing | Drosophila differens | Wherever found | E | 71 FR 26835; 5/9/2006, 50 CFR 17.95(i) CH.
Fly, Hawaiian picture-wing | Drosophila digressa | Wherever found | E | 78 FR 64637; 10/29/2013.
Fly, Hawaiian picture-wing | Drosophila hemipeza | Wherever found | E | 71 FR 26835; 5/9/2006, 50 CFR 17.95(i) CH.
Fly, Hawaiian picture-wing | Drosophila heteroneura | Wherever found | E | 71 FR 26835; 5/9/2006, 50 CFR 17.95(i) CH.
Fly, Hawaiian picture-wing | Drosophila montgomeryi | Wherever found | E | 71 FR 26835; 5/9/2006, 50 CFR 17.95(i) CH.
Fly, Hawaiian picture-wing | Drosophila mulli | Wherever found | T | 71 FR 26835; 5/9/2006, 50 CFR 17.95(i) CH.
Fly, Hawaiian picture-wing | Drosophila musaphilia | Wherever found | E | 71 FR 26835; 5/9/2006, 50 CFR 17.95(i) CH.
Fly, Hawaiian picture-wing | Drosophila neoclavisetae | Wherever found | E | 71 FR 26835; 5/9/2006, 50 CFR 17.95(i) CH.
Fly, Hawaiian picture-wing | Drosophila obatai | Wherever found | E | 71 FR 26835; 5/9/2006, 50 CFR 17.95(i) CH.
Fly, Hawaiian picture-wing | Drosophila ochrobasis | Wherever found | E | 71 FR 26835; 5/9/2006, 50 CFR 17.95(i) CH.
Fly, Hawaiian picture-wing | Drosophila sharpi | Wherever found | E | 71 FR 26835; 5/9/2006, 50 CFR 17.95(i) CH.
Fly, Hawaiian picture-wing | Drosophila substenoptera | Wherever found | E | 71 FR 26835; 5/9/2006, 50 CFR 17.95(i) CH.
Fly, Hawaiian picture-wing | Drosophila tarphytrichia | Wherever found | E | 71 FR 26835; 5/9/2006, 50 CFR 17.95(i) CH.
Grasshopper, Zayante band-winged | Trimerotropis infantilis | Wherever found | E | 62 FR 3616; 1/24/1997, 50 CFR 17.95(i) CH.
Moth, Blackburn's sphinx | Manduca blackburni | Wherever found | E | 65 FR 4770; 2/1/2000, 50 CFR 17.95(i) CH.
Moth, Kern primrose sphinx | Euproserpinus euterpe | Wherever found | T | 45 FR 24088; 4/8/1980.
Naucorid, Ash Meadows | Ambrysus amargosus | Wherever found | T | 50 FR 20777; 5/20/1985, 50 CFR 17.95(i) CH.
Skipper, Carson wandering | Pseudocopaeodes eunus obscurus | U.S.A., (Lassen County, CA; Washoe County, NV) | E | 67 FR 51116; 8/7/2002.
Skipper, Dakota | Hesperia dacotae | Wherever found | T | 79 FR 63671;10/24/2014, 50 CFR 17.95(i) CH, 50 CFR 17.47(b) 4d.
Skipper, Laguna Mountains | Pyrgus ruralis lagunae | Wherever found | E | 62 FR 2313; 1/16/1997, 50 CFR 17.95(i) CH.
Skipper, Pawnee montane | Hesperia leonardus montana | Wherever found | T | 52 FR 36176; 9/25/1987.
Skipperling, Poweshiek | Oarisma poweshiek | Wherever found | E | 79 FR 63671;10/24/2014, 50 CFR 17.95(i) CH.
Arachnids
Harvestman, Bee Creek Cave | Texella reddelli | Wherever found | E | 53 FR 36029; 9/16/1988, 58 FR 43818; 8/18/1993.
Harvestman, Bone Cave | Texella reyesi | Wherever found | E | 53 FR 36029; 9/16/1988, 58 FR 43818; 8/18/1993.
Harvestman, Cokendolpher cave | Texella cokendolpheri | Wherever found | E | 65 FR 69624; 11/17/2000, 50 CFR 17.95(g) CH.
Meshweaver, Braken Bat Cave | Circurina venii | Wherever found | E | 65 FR 69624; 11/17/2000, 50 CFR 17.95(g) CH.
Meshweaver, Government Canyon Bat Cave | Circurina vespera | Wherever found | E | 65 FR 69624; 11/17/2000, 50 CFR 17.95(g) CH.
Meshweaver, Madla Cave | Cicurina madla | Wherever found | E | 65 FR 69624; 11/17/2000, 50 CFR 17.95(g) CH.
Meshweaver, Robber Baron Cave | Cicurina baronia | Wherever found | E | 65 FR 69624; 11/17/2000, 50 CFR 17.95(g) CH.
Pseudoscorpion, Tooth Cave | Tartarocreagris texana | Wherever found | E | 53 FR 36029; 9/16/1988.
Spider, Government Canyon Bat Cave | Neoleptoneta microps | Wherever found | E | 65 FR 69624; 11/17/2000, 50 CFR 17.95(g) CH.
Spider, Kauai cave wolf | Adelocosa anops | Wherever found | E | 65 FR 2348; 1/14/2000, 50 CFR 17.95(g) CH.
Spider, spruce-fir moss | Microhexura montivaga | Wherever found | E | 60 FR 6968; 2/6/1995, 50 CFR 17.95(g) CH.
Spider, Tooth Cave | Neoleptoneta myopica | Wherever found | E | 53 FR 36029; 9/16/1988.
Crustaceans
Amphipod, diminutive | Gammarus hyalleloides | Wherever found | E | 78 FR 41227; 7/9/2013, 50 CFR 17.95(h) CH.
Amphipod, Hay's Spring | Stygobromus hayi | Wherever found | E | 47 FR 5425; 2/5/1982.
Amphipod, Illinois Cave | Gammarus acherondytes | Wherever found | E | 63 FR 46900; 9/3/1998.
Amphipod, Kauai cave | Spelaeorchestia koloana | Wherever found | E | 65 FR 2348; 1/14/2000, 50 CFR 17.95(h) CH.
Amphipod, Noel's | Gammarus desperatus | Wherever found | E | 76 FR 33036; 6/7/2011, 50 CFR 17.95(h) CH.
Amphipod, Peck's cave | Stygobromus (=Stygonectes) Pecki | Wherever found | E | 62 FR 66295; 12/18/1997, 50 CFR 17.95(h) CH.
Amphipod, Pecos | Gammarus pecos | Wherever found | E | 78 FR 41227; 7/9/2013, 50 CFR 17.95(h) CH.
Crayfish, Big Sandy | Cambarus callainus | Wherever found | T | 81 FR 20449; 4/7/2016.
Crayfish, cave | Cambarus aculabrum | Wherever found | E | 58 FR 25742; 4/27/1993.
Crayfish, cave | Cambarus zophonastes | Wherever found | E | 52 FR 11170; 4/7/1987.
Crayfish, Guyandotte River | ambarus veteranus | Wherever found | E | 81 FR 20449; 4/7/2016.
Crayfish, Nashville | Orconectes shoupi | Wherever found | E | 51 FR 34410; 9/3/1986.
Crayfish, Shasta | Pacifastacus fortis | Wherever found | E | 53 FR 38460; 9/30/1988.
Fairy shrimp, Conservancy | Branchinecta conservatio | Wherever found | E | 59 FR 48136; 9/19/1994, 50 CFR 17.95(h) CH.
Fairy shrimp, longhorn | Branchinecta longiantenna | Wherever found | E | 59 FR 48136; 9/19/1994, 50 CFR 17.95(h) CH.
Fairy shrimp, Riverside | Streptocephalus woottoni | Wherever found | E | 58 FR 41384; 8/3/1993, 50 CFR 17.95(h) CH.
Fairy shrimp, San Diego | Branchinecta sandiegonensis | Wherever found | E | 62 FR 4925; 2/3/1997, 50 CFR 17.95(h) CH.
Fairy shrimp, vernal pool | Branchinecta lynchi | Wherever found | E | 59 FR 48136; 9/19/1994, 50 CFR 17.95(h) CH.
Isopod, Lee County cave | Lirceus usdagalun | Wherever found | E | 57 FR 54722; 11/20/1992.
Isopod, Madison Cave | Antrolana lira | Wherever found | T | 47 FR 43699; 10/4/1982, 50 CFR 17.46(a) 4d.
Isopod, Socorro | Thermosphaeroma thermophilus | Wherever found | E | 43 FR 12690; 3/27/1978.
Shrimp, Alabama cave | Palaemonias alabamae | Wherever found | E | 53 FR 34696; 9/7/1988.
Shrimp, anchialine pool | Vetericaris chaceorum | Wherever found | E | 78 FR 64637; 10/29/2013.
Shrimp, California freshwater | Syncaris pacifica | Wherever found | E | 53 FR 43884; 10/31/1988.
Shrimp, Kentucky cave | Palaemonias ganteri | Wherever found | E | 48 FR 46337; 10/12/1983, 50 CFR 17.95(h) CH.
Shrimp, Squirrel Chimney cave | Palaemonetes cummingi | Wherever found | T | 55 FR 25588; 6/21/1990.
Tadpole shrimp, vernal pool | Lepidurus packardi | Wherever found | E | 59 FR 48136; 9/19/1994, 50 CFR 17.95(h) CH.
Corals
Coral, (no common name) | Acropora globiceps | Wherever found | T | 79 FR 53852; 9/10/2014 N, 79 FR 67356; 11/13/2014.
Coral, (no common name) | Acropora jacquelineae | Wherever found | T | 79 FR 53852; 9/10/2014 N, 79 FR 67356; 11/13/2014.
Coral, (no common name) | Acropora lokani | Wherever found | T | 79 FR 53852; 9/10/2014 N, 79 FR 67356; 11/13/2014.
Coral, (no common name) | Acropora pharaonis | Wherever found | T | 79 FR 53852; 9/10/2014 N, 79 FR 67356; 11/13/2014.
Coral, (no common name) | Acropora retusa | Wherever found | T | 79 FR 53852; 9/10/2014 N, 79 FR 67356; 11/13/2014.
Coral, (no common name) | Acropora rudis | Wherever found | T | 79 FR 53852; 9/10/2014 N, 79 FR 67356; 11/13/2014.
Coral, (no common name) | Acropora speciosa | Wherever found | T | 79 FR 53852; 9/10/2014 N, 79 FR 67356; 11/13/2014.
Coral, (no common name) | Acropora tenella | Wherever found | T | 79 FR 53852; 9/10/2014 N, 79 FR 67356; 11/13/2014.
Coral, (no common name) | Anacropora spinosa | Wherever found | T | 79 FR 53852; 9/10/2014 N, 79 FR 67356; 11/13/2014.
Coral, (no common name) | Euphyllia paradivisa | Wherever found | T | 79 FR 53852; 9/10/2014 N, 79 FR 67356; 11/13/2014.
Coral, (no common name) | Isopora crateriformis | Wherever found | T | 79 FR 53852; 9/10/2014 N, 79 FR 67356; 11/13/2014.
Coral, (no common name) | Montipora australiensis | Wherever found | T | 79 FR 53852; 9/10/2014 N, 79 FR 67356; 11/13/2014.
Coral, (no common name) | Pavona diffluens | Wherever found | T | 79 FR 53852; 9/10/2014 N, 79 FR 67356; 11/13/2014.
Coral, (no common name) | Porites napopora | Wherever found | T | 79 FR 53852; 9/10/2014 N, 79 FR 67356; 11/13/2014.
Coral, (no common name) | Seriatopora aculeata | Wherever found | T | 79 FR 53852; 9/10/2014 N, 79 FR 67356; 11/13/2014.
Coral, boulder star | Orbicella franksi | Wherever found | T | 79 FR 53852; 9/10/2014 N, 79 FR 67356; 11/13/2014.
Coral, elkhorn | Acropora palmata | Wherever found | T | 76 FR 20558; 4/13/2011, 79 FR 42687; 7/23/2014, 79 FR 53852; 9/10/2014 N, 79 FR 67356; 11/13/2014, 50 CFR 223.208 4d, 50 CFR 226.216 CH.
Coral, lobed star | Orbicella annularis | Wherever found | T | 79 FR 53852; 9/10/2014 N, 79 FR 67356; 11/13/2014.
Coral, mountainous star | Orbicella faveolata | Wherever found | T | 79 FR 53852; 9/10/2014 N, 79 FR 67356; 11/13/2014.
Coral, pillar | Dendrogyra cylindrus | Wherever found | T | 79 FR 53852; 9/10/2014 N, 79 FR 67356; 11/13/2014.
Coral, rough cactus | Mycetophyllia ferox | Wherever found | T | 79 FR 53852; 9/10/2014 N, 79 FR 67356; 11/13/2014.
Coral, staghorn | Acropora cervicornis | Wherever found | T | 76 FR 20558; 4/13/2011, 79 FR 42687; 7/23/2014, 79 FR 53852; 9/10/2014 N, 79 FR 67356; 11/13/2014, 50 CFR 223.208 4d, 50 CFR 226.216 CH.

3. Revise § 17.12 to read as follows:

§ 17.12 Endangered and threatened plants.

(a) The list in paragraph (h) of this section contains the plant species determined by the Service or the National Marine Fisheries Service (NMFS) of the Department of Commerce's National Oceanic and Atmospheric Administration (hereafter in this section referred to as “the Services”) to be endangered species or threatened species. It also contains the plant species treated as endangered or threatened because they are similar in appearance to and may be confused with endangered or threatened species (see §§ 17.50 through 17.52). The “Common name,” “Scientific name,” “Where listed,” and “Status” columns provide regulatory information; together, they identify listed plant species within the meaning of the Act and describe where they are protected. When a taxon has more than one entry, the “Where listed” or “Status” column will identify its status in each relevant geographic area. The listing of a particular taxon includes all lower taxonomic units.

(b) “Scientific name” column. The Services use the most recently accepted scientific name. In cases where confusion might arise, one or more synonyms are provided in parentheses within the “Scientific name” column. The Services will rely to the extent practicable on the Integrated Taxonomic Information System (ITIS) to determine a species' scientific name. ITIS incorporates the naming principles established by the International Code of Nomenclature for algae, fungi, and plants (see paragraph (g) of this section). If the scientific name in ITIS differs from the scientific name adopted for use under the Convention on International Trade in Endangered Species of Wild Fauna and Flora (CITES), the CITES nomenclature will be provided in brackets “[ ]” within the “Scientific name” column following the ITIS nomenclature.

(c) “Common name” column. Although common names are included, they cannot be relied upon for identification of any specimen, since they may vary greatly in local usage. In cases where confusion might arise, one or more synonyms are provided in parentheses within the “Common name” column.

(d) “Where listed” column. The “Where listed” column sets forth the geographic area where the species is listed for purposes of the Act. Except when providing a geographic description of an experimental population designation, “Wherever found” will be used to indicate the Act's protections apply to all individuals of the species, wherever found.

(e) “Status” column. Within the “Status” column, the following abbreviations are used:

Abbreviation | Regulatory status the abbreviation represents
E | Endangered species.
T | Threatened species.
E (S/A) | Endangered based on similarity of appearance to an existing listed species.
T (S/A) | Threatened based on similarity of appearance to an existing listed species.
XE | Essential experimental population (See subpart H of this part).
XN | Nonessential experimental population (See subpart H of this part).

(f) “Listing Citations and Applicable Rules” column. The “Listing Citations and Applicable Rules” column is nonregulatory in nature and is provided for informational and navigational purposes only. Please note that the sections of part 17 that include designations of critical habitat for plants are organized by family name. A link to the Integrated Taxonomic Information System (ITIS), which displays the taxonomic hierarchy of a species, including its family name, is provided on each species' profile page accessible through the Service's Web site (http://www.fws.gov/endangered/) or information is available directly through the ITIS (http://www.itis.gov/).

(1) Within the “Listing Citations and Applicable Rules” column, the following superscripts are used:

@
Superscript | Description of citation or rule
N | NMFS listing citation (NMFS Lead).
J | Both FWS and NMFS listing citation (Joint Jurisdiction).
CH | Critical habitat rule.
4d | Species-specific “4(d)” rule (a rule issued under the authority of section 4(d) of the Act).
10j | Species-specific “10(j)” rule (a rule issued under the authority of section 10(j) of the Act).

(2) Listing citations contain the volume, document starting page number, and publication date of the Federal Register publication(s) in which a species' status was assessed. At least since 1973, these documents have included a statement indicating the basis for the listing or reclassification, as well as the effective date(s) of the listing or other rules that changed how the species was identified in the list in paragraph (h) of this section.

(3) “Critical habitat” and “Species-specific” rules superscripts provide cross-references to other sections in part 17 or part 222, 223, or 226 of chapter II of this title where critical habitat and species-specific rules are found. The species-specific superscripts also identify experimental populations. Experimental populations (superscript “10j”) are a separate citation, with one of the following symbols in the “Status” column: “XE” for an essential experimental population and “XN” for a nonessential experimental population.

(4) This column is for reference and navigational purposes only. All other appropriate rules in part 17, parts 217 through 226 of chapter II of this title, and part 402 of chapter IV of this title apply, if no species-specific rules are referenced. In addition, other rules in this title could relate to such species (for example, port-of-entry requirements). The references in the “Listing Citations and Applicable Rules” column do not comprise a comprehensive list of all regulations that the Services might apply to the species or to the regulations of other Federal agencies or State or local governments.

(g) The Services will rely to the extent practicable on ITIS (http://www.itis.gov) and standard references adopted for CITES (http://cites.org).

(h) The “List of Endangered and Threatened Plants” is provided in the table in this paragraph (h):

Scientific name | Common name | Where listed | Status | Listing citations and applicable rules
Flowering Plants
Abronia macrocarpa | Large-fruited sand-verbena | Wherever found | E | 53 FR 37975; 9/28/1988.
Abutilon eremitopetalum | No common name | Wherever found | E | 56 FR 47686; 9/20/1991.
Abutilon menziesii | Ko`oloa`ula | Wherever found | E | 51 FR 34412; 9/26/1986.
Abutilon sandwicense | No common name | Wherever found | E | 56 FR 55770; 10/29/1991, 50 CFR 17.99(i)CH.
Acaena exigua | Liliwai | Wherever found | E | 57 FR 20772; 5/15/1992, 50 CFR 17.99(e)(1)CH.
Acanthomintha ilicifolia | San Diego thornmint | Wherever found | T | 63 FR 54938; 10/13/1998, 50 CFR 17.96(a)CH.
Acanthomintha obovata ssp. duttonii | San Mateo thornmint | Wherever found | E | 50 FR 37858; 9/18/1985.
Achyranthes mutica | No common name | Wherever found | E | 61 FR 53108; 10/10/1996, 50 CFR 17.99(k)CH.
Achyranthes splendens var. rotundata | Round-leaved chaff-flower | Wherever found | E | 51 FR 10518; 3/26/1986, 50 CFR 17.99(i)CH.
Acmispon dendroideus var. traskiae | San Clemente Island lotus | Wherever found | T | 42 FR 40685; 8/11/1977.
Aconitum noveboracense | Northern wild monkshood | Wherever found | T | 43 FR 17910; 4/26/1978.
Aeschynomene virginica | Sensitive joint-vetch | Wherever found | T | 57 FR 21569; 5/20/1992.
Agalinis acuta | Sandplain gerardia | Wherever found | E | 53 FR 34701; 9/7/1988.
Agave eggersiana | No common name | Wherever found | E | 79 FR 53303; 9/9/2014, 50 CFR 17.96(a)CH.
Alectryon macrococcus | Mahoe | Wherever found | E | 57 FR 20772; 5/15/1992, 50 CFR 17.99(a)(1)CH, 50 CFR 17.99(c)CH, 50 CFR 17.99(e)CH, 50 CFR 17.99(i)CH.
Allium munzii | Munz's onion | Wherever found | E | 63 FR 54975; 10/13/1998, 50 CFR 17.96(a)CH.
Alopecurus aequalis var. sonomensis | Sonoma alopecurus | Wherever found | E | 62 FR 54791; 10/22/1997.
Amaranthus brownii | No common name | Wherever found | E | 61 FR 43178; 8/21/1996, 50 CFR 17.99(g)CH.
Amaranthus pumilus | Seabeach amaranth | Wherever found | T | 58 FR 18035; 4/7/1993.
Ambrosia cheiranthifolia | South Texas ambrosia | Wherever found | E | 59 FR 43648; 8/24/1994.
Ambrosia pumila | San Diego ambrosia | Wherever found | E | 67 FR 44372; 7/2/2002, 50 CFR 17.96CH.
Amorpha crenulata | Crenulate lead-plant | Wherever found | E | 50 FR 29345; 7/18/1985.
Amphianthus pusillus | Little amphianthus | Wherever found | T | 53 FR 3560; 2/5/1988.
Amsinckia grandiflora | Large-flowered fiddleneck | Wherever found | E | 50 FR 19374; 5/8/1985, 50 CFR 17.96(a)CH.
Amsonia kearneyana | Kearney's blue-star | Wherever found | E | 54 FR 2131; 1/19/1989.
Ancistrocactus tobuschii | Tobusch fishhook cactus | Wherever found | E | 44 FR 64736; 11/7/1979.
Apios priceana | Price's potato-bean | Wherever found | T | 55 FR 429; 1/5/1990.
Arabis georgiana | Georgia rockcress | Wherever found | T | 79 FR 54627; 9/12/2014, 50 CFR 17.96(a)CH.
Arabis hoffmannii | Hoffmann's rock-cress | Wherever found | E | 62 FR 40954; 7/31/1997.
Arabis mcdonaldiana | McDonald's rock-cress | Wherever found | E | 43 FR 44810; 9/28/1978.
Arabis (=Boechera) perstellata | Braun's Rock-cress | Wherever found | E | 60 FR 56; 1/3/1995, 50 CFR 17.96(a)CH.
Arabis serotina | Shale barren rock-cress | Wherever found | E | 54 FR 29655; 7/13/1989.
Arctomecon humilis | Dwarf bear-poppy | Wherever found | E | 44 FR 64250; 11/6/1979.
Arctostaphylos confertiflora | Santa Rosa Island manzanita | Wherever found | E | 62 FR 40954; 7/31/1997.
Arctostaphylos franciscana | Franciscan manzanita | Wherever found | E | 77 FR 54434; 9/5/2012, 50 CFR 17.96(a)CH.
Arctostaphylos glandulosa ssp. crassifolia | Del Mar manzanita | Wherever found | E | 61 FR 52370; 10/7/1996.
Arctostaphylos hookeri var. ravenii | Presidio manzanita | Wherever found | E | 44 FR 61910; 10/26/1979.
Arctostaphylos morroensis | Morro manzanita | Wherever found | T | 59 FR 64613; 12/15/1994.
Arctostaphylos myrtifolia | Ione manzanita | Wherever found | T | 64 FR 28403; 5/26/1999.
Arctostaphylos pallida | Pallid manzanita | Wherever found | T | 63 FR 19842; 4/22/1998.
Arenaria cumberlandensis | Cumberland sandwort | Wherever found | E | 53 FR 23745; 6/23/1988.
Arenaria paludicola | Marsh sandwort | Wherever found | E | 58 FR 41378; 8/3/1993.
Arenaria ursina | Bear Valley sandwort | Wherever found | T | 63 FR 49006; 9/14/1998, 50 CFR 17.96(a)CH.
Argemone pleiacantha ssp. pinnatisecta | Sacramento prickly-poppy | Wherever found | E | 54 FR 35302; 8/24/1989.
Argyroxiphium kauense | Mauna Loa silversword | Wherever found | E | 58 FR 18029; 4/7/1993, 50 CFR 17.99(k)CH.
Argyroxiphium sandwicense ssp. macrocephalum | `Ahinahina | Wherever found | T | 57 FR 20772; 5/15/1992, 50 CFR 17.99(e)(1)CH.
Argyroxiphium sandwicense ssp. sandwicense | `Ahinahina | Wherever found | E | 51 FR 9814; 3/1/1986.
Aristida chaseae | No common name | Wherever found | E | 58 FR 25755; 4/27/1993.
Aristida portoricensis | Pelos del diablo | Wherever found | E | 55 FR 32255; 8/8/1990.
Asclepias meadii | Mead's milkweed | Wherever found | T | 53 FR 33992; 9/1/1988.
Asclepias welshii | Welsh's milkweed | Wherever found | T | 52 FR 41435; 10/28/1987, 50 CFR 17.96(a)CH.
Asimina tetramera | Four-petal pawpaw | Wherever found | E | 51 FR 34415; 9/26/1986.
Astelia waialealae | Painiu | Wherever found | E | 75 FR 18960; 4/13/2010, 50 CFR 17.99(a)CH.
Astragalus albens | Cushenbury milk-vetch | Wherever found | E | 59 FR 43652; 8/24/1994, 50 CFR 17.96(a)CH.
Astragalus ampullarioides | Shivwits milkvetch | Wherever found | E | 66 FR 49560; 9/28/2001, 50 CFR 17.96(a)CH.
Astragalus applegatei | Applegate's milk-vetch | Wherever found | E | 58 FR 40547; 7/28/1993.
Astragalus bibullatus | Guthrie's (=Pyne's) ground-plum | Wherever found | E | 56 FR 48748; 9/26/1991.
Astragalus brauntonii | Braunton's milk-vetch | Wherever found | E | 62 FR 4172; 1/29/1997, 50 CFR 17.96(a)CH.
Astragalus clarianus | Clara Hunt's milk-vetch | Wherever found | E | 62 FR 54791; 10/22/1997.
Astragalus cremnophylax var. cremnophylax | Sentry milk-vetch | Wherever found | E | 55 FR 50184; 12/5/1990.
Astragalus desereticus | Deseret milkvetch | Wherever found | T | 64 FR 56590; 10/20/1999.
Astragalus holmgreniorum | Holmgren milkvetch | Wherever found | E | 66 FR 49560; 9/28/2001, 50 CFR 17.96(a)CH.
Astragalus humillimus | Mancos milk-vetch | Wherever found | E | 50 FR 26568; 6/27/1985.
Astragalus jaegerianus | Lane Mountain milk-vetch | Wherever found | E | 63 FR 53596; 10/6/1998, 50 CFR 17.96(a)CH.
Astragalus lentiginosus var. coachellae | Coachella Valley milk-vetch | Wherever found | E | 63 FR 53596; 10/6/1998, 50 CFR 17.96(a)CH.
Astragalus lentiginosus var. piscinensis | Fish Slough milk-vetch | Wherever found | T | 63 FR 53596; 10/6/1998, 50 CFR 17.96(a)CH.
Astragalus magdalenae var. peirsonii | Peirson's milk-vetch | Wherever found | T | 63 FR 53596; 10/6/1998, 50 CFR 17.96(a)CH.
Astragalus montii | Heliotrope milkvetch | Wherever found | T | 52 FR 42652; 11/6/1987, 50 CFR 17.96(a)CH.
Astragalus osterhoutii | Kremmling Osterhout milkvetch | Wherever found | E | 54 FR 29658; 7/13/1989.
Astragalus phoenix | Ash Meadows milk-vetch | Wherever found | T | 50 FR 20777; 5/20/1985, 50 CFR 17.96(a)CH.
Astragalus pycnostachyus var. lanosissimus | Ventura Marsh milk-vetch | Wherever found | E | 66 FR 27901; 5/21/2001, 50 CFR 17.96(a)CH.
Astragalus robbinsii var. jesupi | Jesup's milk-vetch | Wherever found | E | 52 FR 21481; 6/5/1987.
Astragalus tener var. titi | Coastal dunes milk-vetch | Wherever found | E | 63 FR 43100; 8/12/1998.
Astragalus tricarinatus | Triple-ribbed milk-vetch | Wherever found | E | 63 FR 53596; 10/6/1998.
Astrophytum asterias | Star cactus | Wherever found | E | 58 FR 53804; 10/18/1993.
Atriplex coronata var. notatior | San Jacinto Valley crownscale | Wherever found | E | 63 FR 54975; 10/13/1998, 50 CFR 17.96(a)CH.
Auerodendron pauciflorum | No common name | Wherever found | E | 59 FR 9935; 3/2/1994.
Ayenia limitaris | Tamaulipan Kidneypetal | Wherever found | E | 59 FR 43648; 8/24/1994.
Baccharis vanessae | Encinitas baccharis | Wherever found | T | 61 FR 52370; 10/7/1996.
Banara vanderbiltii | Palo de Ramón | Wherever found | E | 52 FR 1459; 1/14/1987.
Baptisia arachnifera | Hairy rattleweed | Wherever found | E | 43 FR 17910; 4/26/1978.
Berberis nevinii | Nevin's barberry | Wherever found | E | 63 FR 54956; 10/13/1998, 50 CFR 17.96(a)CH.
Berberis pinnata ssp. insularis | Island barberry | Wherever found | E | 62 FR 40954; 7/31/1997.
Betula uber | Virginia round-leaf birch | Wherever found | T | 43 FR 17910; 4/26/1978, 59 FR 59173; 11/16/1994.
Bidens amplectens | Kookoolau | Wherever found | E | 77 FR 57647; 9/18/2012, 50 CFR 17.99(i)CH.
Bidens campylotheca ssp. pentamera | Kookoolau | Wherever found | E | 78 FR 32013; 5/28/2013, 50 CFR 17.99(e)(1)CH.
Bidens campylotheca ssp. waihoiensis | Kookoolau | Wherever found | E | 78 FR 32013; 5/28/2013, 50 CFR 17.99(e)(1)CH.
Bidens conjuncta | Kookoolau | Wherever found | E | 78 FR 32013; 5/28/2013, 50 CFR 17.99(e)(1)CH.
Bidens hillebrandiana ssp. hillebrandiana | Kookoolau | Wherever found | E | 78 FR 32013; 5/28/2013.
Bidens micrantha ssp. ctenophylla | Kookoolau | Wherever found | E | 78 FR 64637; 10/29/2013.
Bidens micrantha ssp. kalealaha | Kookoolau | Wherever found | E | 57 FR 20772; 5/15/1992, 50 CFR 17.99(e)(1)CH.
Bidens wiebkei | Kookoolau | Wherever found | E | 57 FR 46325; 10/8/1992, 50 CFR 17.99(c)CH.
Blennosperma bakeri | Sonoma sunshine | Wherever found | E | 56 FR 61173; 12/2/1991.
Boltonia decurrens | Decurrent false aster | Wherever found | T | 53 FR 45858; 11/14/1988.
Bonamia grandiflora | Florida bonamia | Wherever found | T | 52 FR 42068; 11/2/1987.
Bonamia menziesii | No common name | Wherever found | E | 59 FR 56333; 11/10/1994, 50 CFR 17.99(a)(1)CH, 50 CFR 17.99(k)CH, 50 CFR 17.99(e)(1)CH, 50 CFR 17.99(i)CH, 50 CFR 17.99(c)CH.
Brickellia mosieri | Florida Brickell-bush | Wherever found |  | 79 FR 52567; 9/4/2014, 50 CFR 17.96(a)CH.
Brighamia insignis | Olulu | Wherever found | E | 59 FR 9304; 2/25/1994, 50 CFR 17.99(a)(1)CH, 50 CFR 17.99(a)(2)CH.
Brighamia rockii | Pua ala | Wherever found | E | 57 FR 46325; 10/8/1992, 50 CFR 17.99(c)CH, 50 CFR 17.99(e)(1)CH.
Brodiaea filifolia | Thread-leaved brodiaea | Wherever found | T | 63 FR 54975; 10/13/1998, 50 CFR 17.96(a)CH.
Brodiaea pallida | Chinese Camp brodiaea | Wherever found | T | 63 FR 49022; 9/14/1998.
Bulbophyllum guamense | Siboyas halumtanu, Siboyan halom tano | Wherever found | T | 80 FR 59423; 10/1/2015.
Buxus vahlii | Vahl's boxwood | Wherever found | E | 50 FR 32572; 8/13/1985.
Calamagrostis hillebrandii | No common name | Wherever found | E | 78 FR 32013; 05/28/2013, 50 CFR 17.99(e)(1)CH.
Callicarpa ampla | Capá rosa | Wherever found | E | 57 FR 14782; 4/22/1992.
Callirhoe scabriuscula | Texas poppy-mallow | Wherever found | E | 46 FR 3184; 1/13/1981, 46 FR 40025; 8/6/1981.
Calochortus tiburonensis | Tiburon mariposa lily | Wherever found | T | 60 FR 6671; 2/3/1995.
Calyptranthes thomasiana | No common name | Wherever found | E | 59 FR 8138; 2/18/1994.
Calyptridium pulchellum | Mariposa pussypaws | Wherever found | T | 63 FR 49022; 9/14/1998.
Calyptronoma rivalis | Palma de manaca | Wherever found | T | 55 FR 4157; 2/6/1990.
Calystegia stebbinsii | Stebbins' morning-glory | Wherever found | E | 61 FR 54346; 10/18/1996.
Camissonia benitensis | San Benito evening-primrose | Wherever found | T | 50 FR 5755; 2/12/1985.
Campanula robinsiae | Brooksville bellflower | Wherever found | E | 54 FR 31190; 7/27/1989.
Canavalia molokaiensis | Awikiwiki | Wherever found | E | 57 FR 46325; 10/8/1992, 50 CFR 17.99(c)CH.
Canavalia napaliensis | Awikiwiki | Wherever found | E | 76 FR 15609; 5/5/2011, 50 CFR 17.99(a)CH.
Canavalia pubescens | Awikiwiki | Wherever found | E | 78 FR 32013; 5/28/2013, 50 CFR 17.99(e)(1)CH.
Cardamine micranthera | Small-anthered bittercress | Wherever found | E | 54 FR 38947; 9/21/1989.
Carex albida | White sedge | Wherever found | E | 62 FR 54791; 10/22/1997.
Carex lutea | Golden sedge | Wherever found | E | 67 FR 3120; 1/23/2002, 50 CFR 17.96(a)CH.
Carex specuicola | Navajo sedge | Wherever found | T | 50 FR 19370; 5/8/1985, 50 CFR 17.96(a)CH.
Castilleja affinis ssp. neglecta | Tiburon paintbrush | Wherever found | E | 60 FR 6671; 2/3/1995.
Castilleja campestris ssp. succulenta | Fleshy owl's-clover | Wherever found | T | 62 FR 14338; 3/26/1997, 50 CFR 17.96(a)CH.
Castilleja cinerea | Ash-gray Indian paintbrush | Wherever found | T | 63 FR 49006; 9/14/1998, 50 CFR 17.96(a)CH.
Castilleja grisea | San Clemente Island paintbrush | Wherever found | E | 42 FR 40682; 8/11/1977.
Castilleja levisecta | Golden paintbrush | Wherever found | T | 62 FR 31740; 6/11/1997.
Castilleja mollis | Soft-leaved paintbrush | Wherever found | E | 62 FR 40954; 7/31/1997.
Catesbaea melanocarpa | No common name | Wherever found | E | 64 FR 13116; 3/17/1999, 50 CFR 17.96(a)CH.
Caulanthus californicus | California jewelflower | Wherever found | E | 55 FR 29361; 7/19/1990.
Ceanothus ferrisae | Coyote ceanothus | Wherever found | E | 60 FR 6671; 2/3/1995.
Ceanothus ophiochilus | Vail Lake ceanothus | Wherever found | T | 63 FR 54956; 10/13/1998, 50 CFR 17.96(a)CH.
Ceanothus roderickii | Pine Hill ceanothus | Wherever found | E | 61 FR 54346; 10/18/1996.
Cenchrus agrimonioides | Kamanomano | Wherever found | E | 61 FR 53108; 10/10/1996, 50 CFR 17.99(e)(1)CH, 50 CFR 17.99(i)CH.
Centaurium namophilum | Spring-loving centaury | Wherever found | T | 50 FR 20777; 5/20/1985, 50 CFR 17.96(a)CH.
Cercocarpus traskiae | Catalina Island mountain-mahogany | Wherever found | E | 62 FR 42692; 8/8/1997.
Cereus eriophorus var. fragrans | Fragrant prickly-apple | Wherever found | E | 50 FR 45618; 11/1/1985.
Chamaecrista glandulosa var. mirabilis | No common name | Wherever found | E | 55 FR 12788; 4/5/1990.
Chamaesyce deltoidea ssp. deltoidea | Deltoid spurge | Wherever found | E | 50 FR 29345; 7/18/1985.
Chamaesyce garberi | Garber's spurge | Wherever found | T | 50 FR 29345; 7/18/1985.
Chamaesyce hooveri | Hoover's spurge | Wherever found | T | 62 FR 14338; 3/26/1997, 50 CFR 17.96(a)CH.
Chamaesyce skottsbergii var. skottsbergii | Akoko (Ewa Plains akoko) | Wherever found | E | 47 FR 36846; 8/24/1982, 77 FR 57647; 9/18/2012, 50 CFR 17.99(i)CH.
Charpentiera densiflora | Papala | Wherever found | E | 76 FR 15609; 5/5/2011, 50 CFR 17.99(a)CH.
Chionanthus pygmaeus | Pygmy fringe-tree | Wherever found | E | 52 FR 2227; 1/21/1987.
Chlorogalum purpureum | Purple amole (Camatta Canyon amole) | Wherever found | T | 65 FR 14878; 3/20/2000, 50 CFR 17.96(a)CH.
Chorizanthe howellii | Howell's spineflower | Wherever found | E | 57 FR 27848; 6/22/1992.
Chorizanthe orcuttiana | Orcutt's spineflower | Wherever found | E | 61 FR 52370; 10/7/1996.
Chorizanthe pungens var. hartwegiana | Ben Lomond spineflower | Wherever found | E | 59 FR 5499; 2/4/1994.
Chorizanthe pungens var. pungens | Monterey spineflower | Wherever found | T | 59 FR 5499; 2/4/1994, 50 CFR 17.96(a)CH.
Chorizanthe robusta var. hartwegii | Scotts Valley spineflower | Wherever found | E | 59 FR 5499; 2/4/1994, 50 CFR 17.96(a)CH.
Chorizanthe robusta var. robusta | Robust spineflower | Wherever found | E | 59 FR 5499; 2/4/1994, 50 CFR 17.96(b)CH.
Chorizanthe valida | Sonoma spineflower | Wherever found | E | 57 FR 27848; 6/22/1992.
Chromolaena frustrata | Cape Sable thoroughwort | Wherever found | E | 78 FR 63795; 10/24/2013, 50 CFR 17.96(a)CH, 50 CFR 17.96(h)CH.
Chrysopsis floridana | Florida golden aster | Wherever found | E | 51 FR 17974; 5/16/1986.
Cirsium fontinale var. fontinale | Fountain thistle | Wherever found | E | 60 FR 6671; 2/3/1995.
Cirsium fontinale var. obispoense | Chorro Creek bog thistle | Wherever found | E | 59 FR 64613; 12/15/1994.
Cirsium hydrophilum var. hydrophilum | Suisun thistle | Wherever found | E | 62 FR 61916; 11/20/1997, 50 CFR 17.96(a)CH.
Cirsium loncholepis | La Graciosa thistle | Wherever found | E | 65 FR 14888; 3/20/2000, 50 CFR 17.96(a)CH.
Cirsium pitcheri | Pitcher's thistle | Wherever found | T | 53 FR 27137; 7/18/1988.
Cirsium vinaceum | Sacramento Mountains thistle | Wherever found | T | 52 FR 22933; 6/16/1987.
Clarkia franciscana | Presidio clarkia | Wherever found | E | 60 FR 6671; 2/3/1995.
Clarkia imbricata | Vine Hill clarkia | Wherever found | E | 62 FR 54791; 10/22/1997.
Clarkia speciosa ssp. immaculata | Pismo clarkia | Wherever found | E | 59 FR 64613; 12/15/1994.
Clarkia springvillensis | Springville clarkia | Wherever found | T | 63 FR 49022; 9/14/1998.
Clematis morefieldii | Morefield's leather-flower | Wherever found | E | 57 FR 21562; 5/20/1992.
Clematis socialis | Alabama leather-flower | Wherever found | E | 51 FR 34420; 9/26/1986.
Clermontia drepanomorpha | Oha wai | Wherever found | E | 61 FR 53137; 10/10/1996, 50 CFR 17.99(k)CH.
Clermontia lindseyana | Oha wai | Wherever found | E | 59 FR 10305; 3/4/1994, 50 CFR 17.99(e)(1)CH, 50 CFR 17.99(k)CH.
Clermontia oblongifolia ssp. brevipes | Oha wai | Wherever found | E | 57 FR 46325; 10/8/1992, 50 CFR 17.99(c)CH.
Clermontia oblongifolia ssp. mauiensis | Oha wai | Wherever found | E | 57 FR 20772; 5/15/1992, 50 CFR 17.99(e)(1)CH.
Clermontia peleana | Oha wai | Wherever found | E | 59 FR 10305; 3/4/1994, 50 CFR 17.99(e)(1)CH, 50 CFR 17.99(k)CH.
Clermontia pyrularia | Oha wai | Wherever found | E | 59 FR 10305; 3/4/1994, 50 CFR 17.99(k)CH.
Clermontia samuelii | Oha wai | Wherever found | E | 64 FR 48307; 9/3/1999, 50 CFR 17.99(e)(1)CH.
Clitoria fragrans | Pigeon wings | Wherever found | T | 58 FR 25746; 4/27/1993.
Colubrina oppositifolia | Kauila | Wherever found | E | 59 FR 10305; 3/4/1994, 50 CFR 17.99(e)(1)CH, 50 CFR 17.99(i)CH, 50 CFR 17.99(k)CH.
Conradina brevifolia | Short-leaved rosemary | Wherever found | E | 58 FR 37432; 7/12/1993.
Conradina etonia | Etonia rosemary | Wherever found | E | 58 FR 37432; 7/12/1993.
Conradina glabra | Apalachicola rosemary | Wherever found | E | 58 FR 37432; 7/12/1993.
Conradina verticillata | Cumberland rosemary | Wherever found | T | 56 FR 60937; 11/29/1991.
Consolea corallicola | Cactus, Florida semaphore | Wherever found | E | 78 FR 63795; 10/24/2013, 50 CFR 17.96(a)CH.
Cordia bellonis | No common name | Wherever found | E | 62 FR 1645; 1/10/1997.
Cordylanthus maritimus ssp. maritimus | Salt marsh bird's-beak | Wherever found | E | 43 FR 44810; 9/28/1978.
Cordylanthus mollis ssp. mollis | Soft bird's-beak | Wherever found | E | 62 FR 61916; 11/20/1997, 50 CFR 17.96(a)CH.
Cordylanthus palmatus | Palmate-bracted bird's-beak | Wherever found | E | 51 FR 23765; 7/1/1986.
Cordylanthus tenuis ssp. capillaris | Pennell's bird's-beak | Wherever found | E | 60 FR 6671; 2/3/1995.
Cornutia obovata | Palo de nigua | Wherever found | E | 53 FR 11610; 4/7/1988.
Coryphantha minima | Nellie's cory cactus | Wherever found | E | 44 FR 64738; 11/7/1979.
Coryphantha ramillosa | Bunched cory cactus | Wherever found | T | 44 FR 64247; 11/6/1979.
Coryphantha robbinsorum | Cochise pincushion cactus | Wherever found | T | 51 FR 952; 1/9/1986.
Coryphantha scheeri var. robustispina | Pima pineapple cactus | Wherever found | E | 58 FR 49875; 9/23/1993.
Coryphantha sneedii var. leei | Lee pincushion cactus | Wherever found | T | 44 FR 61554 ; 10/25/1979.
Coryphantha sneedii var. sneedii | Sneed pincushion cactus | Wherever found | E | 44 FR 64741; 11/7/1979.
Cranichis ricartii | None | Wherever found | E | 56 FR 60933; 11/29/1991.
Crescentia portoricensis | Higuero de Sierra | Wherever found | E | 52 FR 46085; 12/4/1987.
Crotalaria avonensis | Avon Park harebells | Wherever found | E | 58 FR 25746; 4/27/1993.
Cryptantha crassipes | Terlingua Creek cats-eye | Wherever found | E | 56 FR 49634; 9/30/1991.
Cucurbita okeechobeensis ssp. okeechobeensis | Okeechobee gourd | Wherever found | E | 58 FR 37432; 7/12/1993.
Cyanea acuminata | Haha | Wherever found | E | 61 FR 53089; 10/10/1996, 50 CFR 17.99(i)CH.
Cyanea asarifolia | Haha | Wherever found | E | 59 FR 9304; 2/25/1994, 50 CFR 17.99(a)(1)CH.
Cyanea asplenifolia | Haha | Wherever found | E | 78 FR 32013; 5/28/2013, 50 CFR 17.99(e)(1)CH.
Cyanea calycina | Haha | Wherever found | E | 77 FR 57647; 9/18/2012, 50 CFR 17.99(i)CH.
Cyanea copelandii ssp. copelandii | Haha | Wherever found | E | 59 FR 10305; 3/4/1994.
Cyanea copelandii ssp. haleakalaensis | Haha | Wherever found | E | 64 FR 48307; 9/3/1999, 50 CFR 17.99(e)(1)CH.
Cyanea crispa | Haha | Wherever found | E | 59 FR 14482; 3/28/1994, 50 CFR 17.99(i)CH.
Cyanea dolichopoda | Haha | Wherever found | E | 76 FR 15609; 5/5/2011, 50 CFR 17.99(a)CH.
Cyanea dunbariae | Haha | Wherever found | E | 61 FR 53130; 10/10/1996, 50 CFR 17.99(c)CH.
Cyanea duvalliorum | Haha | Wherever found | E | 78 FR 32013; 5/28/2013, 50 CFR 17.99(e)(1)CH.
Cyanea eleeleensis | Haha | Wherever found | E | 76 FR 15609; 5/5/2011, 50 CFR 17.99(a)CH.
Cyanea gibsonii | No common name | Wherever found | E | 56 FR 47686; 9/20/1991.
Cyanea glabra | Haha | Wherever found | E | 64 FR 48307; 9/3/1999, 50 CFR 17.99(e)(1)CH.
Cyanea grimesiana ssp. grimesiana | Haha | Wherever found | E | 61 FR 53108; 10/10/1996, 50 CFR 17.99(c)CH, 50 CFR 17.99(i)CH.
Cyanea grimesiana ssp. obatae | Haha | Wherever found | E | 59 FR 32932; 6/27/1994, 78 FR 32013; 5/28/2013, 50 CFR 17.99(i)CH.
Cyanea hamatiflora ssp. carlsonii | Haha | Wherever found | E | 59 FR 10305; 3/4/1994, 50 CFR 17.99(k)CH.
Cyanea hamatiflora ssp. hamatiflora | Haha | Wherever found | E | 64 FR 48307; 9/3/1999, 50 CFR 17.99(e)(1)CH.
Cyanea horrida | Haha nui | Wherever found | E | 78 FR 32013; 5/28/2013, 50 CFR 17.99(e)(1)CH.
Cyanea humboltiana | Haha | Wherever found | E | 61 FR 53089; 10/10/1996, 50 CFR 17.99(i)CH.
Cyanea kolekoleensis | Haha | Wherever found | E | 76 FR 15609; 5/5/2011, 50 CFR 17.99(a)CH.
Cyanea koolauensis | Haha | Wherever found | E | 61 FR 53089; 10/10/1996, 50 CFR 17.99(i)CH.
Cyanea kuhihewa | Haha | Wherever found | E | 76 FR 15609; 5/5/2011, 50 CFR 17.99(a)CH.
Cyanea kunthiana | Haha | Wherever found | E | 78 FR 32013; 5/28/2013, 50 CFR 17.99(e)(1)CH.
Cyanea lanceolata | Haha | Wherever found | E | 77 FR 57647; 9/18/2012, 50 CFR 17.99(i)CH.
Cyanea lobata | Haha | Wherever found | E | 57 FR 20772; 5/15/1992, 50 CFR 17.99(e)(1)CH.
Cyanea longiflora | Haha | Wherever found | E | 61 FR 53089; 10/10/1996, 50 CFR 17.99(i)CH.
Cyanea magnicalyx | Haha | Wherever found | E | 78 FR 32013; 5/28/2013, 50 CFR 17.99(e)(1)CH.
Cyanea mannii | Haha | Wherever found | E | 57 FR 46325; 10/8/1992, 50 CFR 17.99(c)CH.
Cyanea maritae | Haha | Wherever found | E | 78 FR 32013; 5/28/2013, 50 CFR 17.99(e)(1)CH.
Cyanea marksii | Haha | Wherever found | E | 78 FR 64637; 10/29/2013.
Cyanea mauiensis | Haha | Wherever found | E | 78 FR 32013; 5/28/2013.
Cyanea mceldowneyi | Haha | Wherever found | E | 57 FR 20772; 5/15/1992, 50 CFR 17.99(e)(1)CH.
Cyanea munroi | Haha | Wherever found | E | 78 FR 32013; 5/28/2013, 50 CFR 17.99(c)CH.
Cyanea obtusa | Haha | Wherever found | E | 78 FR 32013; 5/28/2013, 50 CFR 17.99(e)(1)CH.
Cyanea pinnatifida | Haha | Wherever found | E | 56 FR 55770; 10/29/1991, 50 CFR 17.99(i)CH.
Cyanea platyphylla | Haha | Wherever found | E | 61 FR 53137; 10/10/1996, 50 CFR 17.99(k)CH.
Cyanea procera | Haha | Wherever found | E | 57 FR 46325; 10/8/1992, 50 CFR 17.99(c)CH.
Cyanea profuga | Haha | Wherever found | E | 78 FR 32013; 5/28/2013, 50 CFR 17.99(c)CH.
Cyanea purpurellifolia | Haha | Wherever found | E | 77 FR 57647; 9/18/2012.
Cyanea recta | Haha | Wherever found | T | 61 FR 53070; 10/10/1996, 50 CFR 17.99(a)(1)CH.
Cyanea remyi | Haha | Wherever found | E | 61 FR 53070; 10/10/1996, 50 CFR 17.99(a)(1)CH.
Cyanea shipmanii | Haha | Wherever found | E | 59 FR 10305; 3/4/1994, 50 CFR 17.99(k)CH.
Cyanea solanacea | Popolo | Wherever found | E | 78 FR 32013; 5/28/2013, 50 CFR 17.99(c)CH.
Cyanea st.-johnii | Haha | Wherever found | E | 61 FR 53089; 10/10/1996, 50 CFR 17.99(i)CH.
Cyanea stictophylla | Haha | Wherever found | E | 59 FR 10305; 3/4/1994, 50 CFR 17.99(k)CH.
Cyanea superba | No common name | Wherever found | E | 56 FR 46235; 9/11/1991, 50 CFR 17.99(i)CH.
Cyanea tritomantha | Aku | Wherever found | E | 78 FR 64637; 10/29/2013.
Cyanea truncata | Haha | Wherever found | E | 59 FR 14482; 3/28/1994, 50 CFR 17.99(i)CH.
Cyanea undulata | No common name | Wherever found | E | 56 FR 47695; 9/20/1991, 50 CFR 17.99(a)(1)CH.
Cycladenia humilis var. jonesii | Jones cycladenia | Wherever found | T | 51 FR 16526; 5/5/1986.
Cycas micronesica | Fadang, Faadang | Wherever found | T | 80 FR 59423; 10/1/2015.
Cyperus fauriei | No common name | Wherever found | E | 59 FR 10305; 3/4/1994, 50 CFR 17.99(c)CH, 50 CFR 17.99(k)CH.
Cyperus pennatiformis | No common name | Wherever found | E | 59 FR 56333; 11/10/1994, 50 CFR 17.99(a)(1)CH, 50 CFR 17.99(e)(1)CH, 50 CFR 17.99(g)CH, 50 CFR 17.99(i)CH.
Cyperus trachysanthos | Puukaa | Wherever found | E | 61 FR 53108; 10/10/1996, 50 CFR 17.99(a)(1)CH, 50 CFR 17.99(i)CH, 50 CFR 17.99(c)CH.
Cyrtandra crenata | Ha`iwale | Wherever found | E | 59 FR 14482; 3/28/1994.
Cyrtandra cyaneoides | Mapele | Wherever found | E | 61 FR 53070; 10/10/1996, 50 CFR 17.99(a)(1)CH.
Cyrtandra dentata | Haiwale | Wherever found | E | 61 FR 53089; 10/10/1996, 50 CFR 17.99(i)CH.
Cyrtandra ferripilosa | Haiwale | Wherever found | E | 78 FR 32013; 5/28/2013, 50 CFR 17.99(e)(1)CH.
Cyrtandra filipes | Haiwale | Wherever found | E | 78 FR 32013; 5/28/2013, 50 CFR 17.99(c)CH, 50 CFR 17.99(e)(1)CH.
Cyrtandra giffardii | Haiwale | Wherever found | E | 59 FR 10305; 3/4/1994, 50 CFR 17.99(k)CH.
Cyrtandra gracilis | Haiwale | Wherever found | E | 77 FR 57647; 9/18/2012, 50 CFR 17.99(i)CH.
Cyrtandra kaulantha | Haiwale | Wherever found | E | 77 FR 57647; 9/18/2012, 50 CFR 17.99(i)CH.
Cyrtandra limahuliensis | Haiwale | Wherever found | T | 59 FR 9304; 2/25/1994, 50 CFR 17.99(a)(1)CH.
Cyrtandra munroi | Haiwale | Wherever found | E | 57 FR 20772; 5/15/1992, 50 CFR 17.99(e)(1)CH.
Cyrtandra nanawaleensis | Haiwale | Wherever found | E | 78 FR 64637; 10/29/2013.
Cyrtandra oenobarba | Haiwale | Wherever found | E | 75 FR 18960; 4/13/2010, 50 CFR 17.99(a)CH.
Cyrtandra oxybapha | Haiwale | Wherever found | E | 78 FR 32013; 5/28/2013, 50 CFR 17.99(e)(1)CH.
Cyrtandra paliku | Haiwale | Wherever found | E | 75 FR 18960; 4/13/2010, 50 CFR 17.99(a)CH.
Cyrtandra polyantha | Haiwale | Wherever found | E | 59 FR 14482; 3/28/1994, 50 CFR 17.99(i)CH.
Cyrtandra sessilis | Haiwale | Wherever found | E | 77 FR 57647; 9/18/2012, 50 CFR 17.99(i)CH.
Cyrtandra subumbellata | Haiwale | Wherever found | E | 61 FR 53089; 10/10/1996, 50 CFR 17.99(i)CH.
Cyrtandra tintinnabula | Haiwale | Wherever found | E | 59 FR 10305; 3/4/1994, 50 CFR 17.99(k)CH.
Cyrtandra viridiflora | Haiwale | Wherever found | E | 61 FR 53089; 10/10/1996, 50 CFR 17.99(i)CH.
Cyrtandra wagneri | Haiwale | Wherever found | E | 78 FR 64637; 10/29/2013.
Cyrtandra waiolani | Haiwale | Wherever found | E | 77 FR 57647; 9/18/2012, 50 CFR 17.99(i)CH.
Dalea foliosa | Leafy prairie-clover | Wherever found | E | 56 FR 19953; 5/1/1991.
Daphnopsis hellerana | No common name | Wherever found | E | 53 FR 23740; 6/23/1988.
Deeringothamnus pulchellus | Beautiful pawpaw | Wherever found | E | 51 FR 34415; 9/26/1986.
Deeringothamnus rugelii | Rugel's pawpaw | Wherever found | E | 51 FR 34415; 9/26/1986.
Deinandra (= Hemizonia) conjugens | Otay tarplant | Wherever found | T | 63 FR 54938; 10/13/1998, 50 CFR 17.96(a)CH.
Deinandra increscens ssp. villosa | Gaviota tarplant | Wherever found | E | 65 FR 14888; 3/20/2000, 50 CFR 17.96(a)CH.
Delissea rhytidosperma | No common name | Wherever found | E | 59 FR 9304; 2/25/1994, 50 CFR 17.99(a)(1)CH.
Delissea rivularis | Haha | Wherever found | E | 61 FR 53070; 10/10/1996, 68 FR 9115; 2/27/2003, 50 CFR 17.99(a)(1)CH.
Delissea subcordata | Oha | Wherever found | E | 61 FR 53089; 10/10/1996, 50 CFR 17.99(i)CH.
Delissea undulata | No common name | Wherever found | E | 61 FR 53124; 10/10/1996, 50 CFR 17.99(a)(1)CH, 50 CFR 17.99(k)CH.
Delphinium bakeri | Baker's larkspur | Wherever found | E | 65 FR 4156; 1/26/2000, 50 CFR 17.96(a)CH.
Delphinium luteum | Yellow larkspur | Wherever found | E | 65 FR 4156; 1/26/2000, 50 CFR 17.96(a)CH.
Delphinium variegatum ssp. kinkiense | San Clemente Island larkspur | Wherever found | E | 42 FR 40682; 8/11/1977.
Dendrobium guamense | No common name | Wherever found | T | 80 FR 59423; 10/1/2015.
Dicerandra christmanii | Garrett's mint | Wherever found | E | 50 FR 45621; 11/1/1985, 54 FR 38946; 9/21/1989.
Dicerandra cornutissima | Longspurred mint | Wherever found | E | 50 FR 45621; 11/1/1985.
Dicerandra frutescens | Scrub mint | Wherever found | E | 50 FR 45621;11/1/1985, 54 FR 38946; 9/21/1989.
Dicerandra immaculata | Lakela's mint | Wherever found | E | 50 FR 20212; 5/15/1985.
Diplacus vandenbergensis | Vandenberg monkeyflower | Wherever found | E | 79 FR 50844; 8/26/2014, 50 CFR 17.96(a)CH.
Dodecahema leptoceras | Slender-horned spineflower | Wherever found | E | 52 FR 36265; 9/28/1987.
Dubautia herbstobatae | Naenae | Wherever found | E | 56 FR 55770; 10/29/1991, 50 CFR 17.99(i)CH.
Dubautia imbricata ssp. imbricata | Naenae | Wherever found | E | 75 FR 18960; 4/13/2010, 50 CFR 17.99(a)CH.
Dubautia kalalauensis | Naenae | Wherever found | E | 75 FR 18960; 4/13/2010, 50 CFR 17.99(a)CH.
Dubautia kenwoodii | Naenae | Wherever found | E | 75 FR 18960; 4/13/2010, 50 CFR 17.99(a)CH.
Dubautia latifolia | Koholapehu | Wherever found | E | 57 FR 20580; 5/13/1992, 50 CFR 17.99(a)(1)CH.
Dubautia pauciflorula | Naenae | Wherever found | E | 56 FR 47695; 9/20/1991, 50 CFR 17.99(a)(1)CH.
Dubautia plantaginea ssp. humilis | Naenae | Wherever found | E | 64 FR 48307; 9/3/1999, 50 CFR 17.99(e)(1)CH.
Dubautia plantaginea ssp. magnifolia | Naenae | Wherever found | E | 75 FR 18960; 4/13/2010, 50 CFR 17.99(a)CH.
Dubautia waialealae | Naenae | Wherever found | E | 75 FR 18960; 4/13/2010, 50 CFR 17.99(a)CH.
Dudleya abramsii ssp. parva | Conejo dudleya | Wherever found | T | 62 FR 4172; 1/29/1997.
Dudleya cymosa ssp. marcescens | Marcescent dudleya | Wherever found | T | 62 FR 4172; 1/29/1997.
Dudleya cymosa ssp. ovatifolia | Santa Monica Mountains dudleya | Wherever found | T | 62 FR 4172; 1/29/1997.
Dudleya nesiotica | Santa Cruz Island dudleya | Wherever found | T | 62 FR 40954; 7/31/1997.
Dudleya setchellii | Santa Clara Valley dudleya | Wherever found | E | 60 FR 6671; 2/3/1995.
Dudleya stolonifera | Laguna Beach liveforever | Wherever found | T | 63 FR 54938; 10/13/1998.
Dudleya traskiae | Santa Barbara Island liveforever | Wherever found | E | 43 FR 17910; 4/26/1978.
Dudleya verityi | Verity's dudleya | Wherever found | T | 62 FR 4172; 1/29/1997.
Echinacea laevigata | Smooth coneflower | Wherever found | E | 57 FR 46340; 10/8/1992.
Echinocactus horizonthalonius var. nicholii | Nichol's Turk's head cactus | Wherever found | E | 44 FR 61927; 10/26/1979.
Echinocereus chisoensis var. chisoensis | Chisos hedgehog cactus | Wherever found | T | 53 FR 38453; 9/30/1988.
Echinocereus fendleri var. kuenzleri | Kuenzler hedgehog cactus | Wherever found | E | 44 FR 61924; 10/26/1979.
Echinocereus reichenbachii var. albertii | Black lace cactus | Wherever found | E | 44 FR 61918; 10/26/1979.
Echinocereus triglochidiatus var. arizonicus | Arizona hedgehog cactus | Wherever found | E | 44 FR 61556; 10/25/1979.
Echinocereus viridiflorus var. davisii | Davis's green pitaya | Wherever found | E | 44 FR 64738; 11/7/1979.
Echinomastus erectocentrus var.acunensis | acuña cactus | Wherever found | E | 78 FR 60607; 10/1/2013.
Echinomastus mariposensis | Lloyd's Mariposa cactus | Wherever found | T | 44 FR 64247; 11/6/1979.
Enceliopsis nudicaulis var. corrugata | Ash Meadows sunray | Wherever found | T | 50 FR 20777; 5/20/1985, 50 CFR 17.96(a)CH.
Eragrostis fosbergii | Fosberg's love grass | Wherever found | E | 61 FR 53089; 10/10/1996, 50 CFR 17.99(i)CH.
Eremalche kernensis | Kern mallow | Wherever found | E | 55 FR 29361; 7/19/1990.
Eriastrum densifolium ssp. sanctorum | Santa Ana River woolly-star | Wherever found | E | 52 FR 36265; 9/28/1987.
Erigeron decumbens | Willamette daisy | Wherever found | E | 65 FR 3875; 1/25/2000, 50 CFR 17.96CH.
Erigeron parishii | Parish's daisy | Wherever found | T | 59 FR 43652; 8/24/1994, 50 CFR 17.96(a)CH.
Erigeron rhizomatus | Zuni fleabane | Wherever found | T | 50 FR 16680; 4/26/1985.
Eriodictyon altissimum | Indian Knob mountain balm | Wherever found | E | 59 FR 64613; 12/15/1994.
Eriodictyon capitatum | Lompoc yerba santa | Wherever found | E | 65 FR 14888; 3/20/2000, 50 CFR 17.96(a)CH.
Eriogonum apricum (incl. var. prostratum) | Ione (incl. Irish Hill) buckwheat | Wherever found | E | 64 FR 28403; 5/26/1999.
Eriogonum codium | Umtanum desert buckwheat | Wherever found | T | 78 FR 23983; 4/23/2013, 50 CFR 17.96(a)CH.
Eriogonum gypsophilum | Gypsum wild-buckwheat | Wherever found | T | 46 FR 5730; 1/19/1981, 46 FR 40025; 8/6/1981, 50 CFR 17.96(a)CH.
Eriogonum kennedyi var. austromontanum | Southern mountain wild-buckwheat | Wherever found | T | 63 FR 49006; 9/14/1998 50 CFR 17.96(a)CH.
Eriogonum longifolium var. gnaphalifolium | Scrub buckwheat | Wherever found | T | 58 FR 25746; 4/27/1993.
Eriogonum ovalifolium var. vineum | Cushenbury buckwheat | Wherever found | E | 59 FR 43652; 8/24/1994, 50 CFR 17.96(a)CH.
Eriogonum ovalifolium var. williamsiae | Steamboat buckwheat | Wherever found | E | 51 FR 24669; 7/8/1986.
Eriogonum pelinophilum | Clay-loving wild buckwheat | Wherever found | E | 49 FR 28562; 7/13/1984, 50 CFR 17.96(a)CH.
Eriophyllum latilobum | San Mateo woolly sunflower | Wherever found | E | 60 FR 6671; 2/3/1995.
Eryngium aristulatum var. parishii | San Diego button-celery | Wherever found | E | 58 FR 41384; 8/3/1993.
Eryngium constancei | Loch Lomond coyote-thistle | Wherever found | E | 50 FR 31187; 8/1/1985, 51 FR 45904; 12/23/1986.
Eryngium cuneifolium | Snakeroot | Wherever found | E | 52 FR 2227; 1/21/1987.
Erysimum capitatum var. angustatum | Contra Costa wallflower | Wherever found | E | 43 FR 17910; 4/26/1978, 50 CFR 17.96(a)CH.
Erysimum menziesii | Menzies' wallflower | Wherever found | E | 57 FR 27848; 6/22/1992.
Erysimum teretifolium | Ben Lomond wallflower | Wherever found | E | 59 FR 5499; 2/4/1994.
Erythronium propullans | Minnesota dwarf trout lily | Wherever found | E | 51 FR 10521; 3/26/1986.
Eugenia bryanii | No common name | Wherever found | E | 80 FR 59423; 10/1/2015.
Eugenia haematocarpa | Uvillo | Wherever found | E | 59 FR 60565; 11/25/1994.
Eugenia koolauensis | Nioi | Wherever found | E | 59 FR 14482; 3/28/1994, 50 CFR 17.99(c)CH, 50 CFR 17.99(i)CH.
Eugenia woodburyana | No common name | Wherever found | E | 59 FR 46715; 9/9/1994.
Euphorbia (=Chamaesyce) celastroides var. kaenana | Akoko | Wherever found | E | 56 FR 55770; 10/29/1991, 77 FR 57647; 9/18/2012, 50 CFR 17.99(i)CH.
Euphorbia (=Chamaesyce) deppeana | Akoko | Wherever found | E | 59 FR 14482; 3/28/1994, 77 FR 57647; 9/18/2012, 50 CFR 17.99(i)CH.
Euphorbia (=Chamaesyce) eleanoriae | Akoko | Wherever found | E | 75 FR 18960; 4/13/2010, 50 CFR 17.99(a)CH.
Euphorbia haeleeleana | Akoko | Wherever found | E | 61 FR 53108; 10/10/1996, 50 CFR 17.99(a)(1)CH, 50 CFR 17.99(i)CH.
Euphorbia (=Chamaesyce) halemanui | Akoko | Wherever found | E | 57 FR 20580; 5/13/1992, 50 CFR 17.99(a)(1)CH.
Euphorbia (=Chamaesyce) herbstii | Akoko | Wherever found | E | 61 FR 53089; 10/10/1996, 77 FR 57647; 9/18/2012, 50 CFR 17.99(i)CH.
Euphorbia (=Chamaesyce) kuwaleana | Akoko | Wherever found | E | 56 FR 55770; 10/29/1991, 77 FR 57647; 9/18/2012, 50 CFR 17.99(i)CH.
Euphorbia (=Chamaesyce) remyi var . kauaiensis | Akoko | Wherever found | E | 76 FR 15609; 5/5/2011, 50 CFR 17.99(a)CH.
Euphorbia (=Chamaesyce) remyi var . remyi | Akoko | Wherever found | E | 76 FR 15609; 5/5/2011, 50 CFR 17.99(a)CH.
Euphorbia (=Chamaesyce) rockii | Akoko | Wherever found | E | 61 FR 53089; 10/10/1996, 77 FR 57647; 9/18/2012, 50 CFR 17.99(i)CH.
Euphorbia telephioides | Telephus spurge | Wherever found | T | 57 FR 19813; 5/8/1992.
Eutrema penlandii | Mosquito Range mustard | Wherever found | T | 58 FR 40539; 7/28/1993.
Exocarpos luteolus | Heau | Wherever found | E | 59 FR 9304; 2/25/1994, 50 CFR 17.99(a)(1)CH.
Festuca molokaiensis | No common name | Wherever found | E | 78 FR 32013; 5/28/2013, 50 CFR 17.99(c)CH.
Flueggea neowawraea | Mehamehame | Wherever found | E | 59 FR 56333; 11/10/1994, 50 CFR 17.99(a)(1)CH, 50 CFR 17.99(c)CH, 50 CFR 17.99(e)(1)CH, 50 CFR 17.99(i)CH, 50 CFR 17.99(k)CH.
Fremontodendron californicum ssp. decumbens | Pine Hill flannelbush | Wherever found | E | 61 FR 54346; 10/18/1996.
Fremontodendron mexicanum | Mexican flannelbush | Wherever found | E | 63 FR 54956; 10/13/1998, 50 CFR 17.96(a)CH.
Fritillaria gentneri | Gentner's fritillary | Wherever found | E | 64 FR 69195; 12/10/1999.
Galactia smallii | Small's milkpea | Wherever found | E | 50 FR 29345; 7/18/1985.
Galium buxifolium | Island bedstraw | Wherever found | E | 62 FR 40954; 7/31/1997.
Galium californicum ssp. sierrae | El Dorado bedstraw | Wherever found | E | 61 FR 54346; 10/18/1996.
Gardenia brighamii | Hawaiian gardenia (Na`u) | Wherever found | E | 50 FR 33728; 8/21/1985.
Gardenia mannii | Nanu | Wherever found | E | 61 FR 53089; 10/10/1996, 50 CFR 17.99(i)CH.
Gaura neomexicana ssp. coloradensis | Colorado butterfly plant | Wherever found | T | 65 FR 62302; 10/18/2000, 50 CFR 17.96(a)CH.
Geocarpon minimum | No common name | Wherever found | T | 52 FR 22930; 6/16/1987.
Geranium arboreum | Nohoanu | Wherever found | E | 57 FR 20589; 5/13/1992, 50 CFR 17.99(e)(1)CH.
Geranium hanaense | Nohoanu | Wherever found | E | 78 FR 32013; 5/28/2013, 50 CFR 17.99(e)(1)CH.
Geranium hillebrandii | Nohoanu | Wherever found | E | 78 FR 32013; 5/28/2013, 50 CFR 17.99(e)(1)CH.
Geranium kauaiense | Nohoanu | Wherever found | E | 75 FR 18960; 4/13/2010, 50 CFR 17.99(a)CH.
Geranium multiflorum | Nohoanu | Wherever found | E | 57 FR 20772; 5/15/1992, 50 CFR 17.99(e)(1)CH.
Gesneria pauciflora | No common name | Wherever found | T | 60 FR 12483; 3/7/1995.
Geum radiatum | Spreading avens | Wherever found | E | 55 FR 12793; 4/5/1990.
Gilia tenuiflora ssp. arenaria | Monterey gilia | Wherever found | E | 57 FR 27848; 6/22/1992.
Gilia tenuiflora ssp. hoffmannii | Hoffmann's slender-flowered gilia | Wherever found | E | 62 FR 40954; 7/31/1997.
Goetzea elegans | Beautiful goetzea or matabuey | Wherever found | E | 50 FR 15564; 4/19/1985.
Gonocalyx concolor | No common name | Wherever found | E | 79 FR 53303; 9/9/2014, 50 CFR 17.96(a)CH.
Gouania hillebrandii | No common name | Wherever found | E | 49 FR 44753; 11/19/1984, 50 CFR 17.99(e)(1)CH, 50 CFR 17.99(e)(2)CH, 50 CFR 17.96(a)CH.
Gouania meyenii | No common name | Wherever found | E | 56 FR 55770; 10/29/1991, 50 CFR 17.99(a)(1)CH, 50 CFR 17.99(i)CH.
Gouania vitifolia | No common name | Wherever found | E | 59 FR 32932; 6/27/1994, 50 CFR 17.99(e)(1)CH, 50 CFR 17.99(k)CH.
Grindelia fraxino-pratensis | Ash Meadows gumplant | Wherever found | T | 50 FR 20777; 5/20/1985, 50 CFR 17.96(a)CH.
Hackelia venusta | Showy stickseed | Wherever found | E | 67 FR 5515; 2/6/2002.
Halophila johnsonii | Johnson's seagrass | Wherever found | T | 63 FR 49035 9/14/1998N, 64 FR 28392; 5/26/1999, 50 CFR 226.213CH.
Haplostachys haplostachya | No common name | Wherever found | E | 44 FR 62468; 10/30/1979.
Harperocallis flava | Harper's beauty | Wherever found | E | 44 FR 56862; 10/2/1979.
Harrisia aboriginum | Prickly-apple, aboriginal | Wherever found | E | 78 FR 63795; 10/24/2013, 50 CFR 17.96(a)CH.
Harrisia portoricensis | Higo chumbo | Wherever found | T | 55 FR 32252; 8/8/1990.
Hedeoma todsenii | Todsen's pennyroyal | Wherever found | E | 46 FR 5730; 1/19/1981, 46 FR 40025; 8/6/1981, 50 CFR 17.96(a)CH.
Hedyotis cookiana | Awiwi | Wherever found | E | 59 FR 9304; 2/25/1994, 50 CFR 17.99(a)(1)CH.
Hedyotis megalantha | Pau dedu, Pao doodu | Wherever found | E | 80 FR 59423; 10/1/2015.
Hedyotis purpurea var. montana | Roan Mountain bluet | Wherever found | E | 55 FR 12793; 4/5/1990.
Helenium virginicum | Virginia sneezeweed | Wherever found | T | 63 FR 59239; 11/3/1998.
Helianthemum greenei | Island rush-rose | Wherever found | T | 62 FR 40954; 7/31/1997.
Helianthus paradoxus | Pecos (=puzzle, =paradox) sunflower | Wherever found | T | 64 FR 56583; 10/20/1999, 50 CFR 17.96(a)CH.
Helianthus schweinitzii | Schweinitz's sunflower | Wherever found | E | 56 FR 21087; 5/7/1991.
Helianthus verticillatus | Whorled sunflower | Wherever found | E | 79 FR 44712; 8/1/2014.
Helonias bullata | Swamp pink | Wherever found | T | 53 FR 35076; 9/9/1988.
Heritiera longipetiolata | Ufa halumtanu, Ufa halom tano | Wherever found | E | 80 FR 59423; 10/1/2015.
Hesperolinon congestum | Marin dwarf-flax | Wherever found | T | 60 FR 6671; 2/3/1995.
Hesperomannia arborescens | No common name | Wherever found | E | 59 FR 14482; 3/28/1994, 50 CFR 17.99(e)(1)CH, 50 CFR 17.99(c)CH, 50 CFR 17.99(i)CH.
Hesperomannia arbuscula | No common name | Wherever found | E | 56 FR 55770; 10/29/1991, 50 CFR 17.99(e)(1)CH, 50 CFR 17.99(i)CH.
Hesperomannia lydgatei | No common name | Wherever found | E | 56 FR 47695; 9/20/1991, 50 CFR 17.99(a)(1)CH.
Hexastylis naniflora | Dwarf-flowered heartleaf | Wherever found | T | 54 FR 14964; 4/14/1989.
Hibiscadelphus distans | Kauai hau kuahiwi | Wherever found | E | 51 FR 15903; 4/29/1986.
Hibiscadelphus giffardianus | Hau kuahiwi | Wherever found | E | 61 FR 53137; 10/10/1996, 50 CFR 17.99(k)CH.
Hibiscadelphus hualalaiensis | Hau kuahiwi | Wherever found | E | 61 FR 53137; 10/10/1996, 50 CFR 17.99(k)CH.
Hibiscadelphus woodii | Hau kuahiwi | Wherever found | E | 61 FR 53070; 10/10/1996, 50 CFR 17.99(a)(1)CH.
Hibiscus arnottianus ssp. immaculatus | Kokio keokeo | Wherever found | E | 57 FR 46325; 10/8/1992, 50 CFR 17.99(c)CH.
Hibiscus brackenridgei | Mao hau hele | Wherever found | E | 59 FR 5633; 11/11/1994, 50 CFR 17.99(c)CH, 50 CFR 17.99(e)(1)CH, 50 CFR 17.99(e)(2)CH, 50 CFR 17.99(i)CH, 50 CFR 17.99(k)CH.
Hibiscus clayi | Clay's hibiscus | Wherever found | E | 59 FR 9304; 2/25/1994, 50 CFR 17.99(a)(1)CH.
Hibiscus dasycalyx | Neches River rose-mallow | Wherever found | T | 78 FR 56025; 9/11/2013, 50 CFR 17.96(a)CH.
Hibiscus waimeae ssp. hannerae | Kokio keokeo | Wherever found | E | 61 FR 53070; 10/10/1996, 50 CFR 17.99(a)(1)CH.
Hoffmannseggia tenella | Slender rush-pea | Wherever found | E | 50 FR 45621; 11/1/1985.
Holocarpha macradenia | Santa Cruz tarplant | Wherever found | T | 65 FR 14898; 3/20/2000, 50 CFR 17.96(a)CH.
Howellia aquatilis | Water howellia | Wherever found | T | 59 FR 35860; 7/14/1994.
Hudsonia montana | Mountain golden heather | Wherever found | T | 45 FR 69360; 10/20/1980, 50 CFR 17.96(a)CH.
Hymenoxys herbacea | Lakeside daisy | Wherever found | T | 53 FR 23742; 6/23/1988.
Hymenoxys texana | Texas prairie dawn-flower | Wherever found | E | 51 FR 8681; 3/13/1986.
Hypericum cumulicola | Highlands scrub hypericum | Wherever found | E | 52 FR 2227; 1/21/1987.
Ilex cookii | Cook's holly | Wherever found | E | 52 FR 22936; 6/16/1986.
Ilex sintenisii | None | Wherever found | E | 57 FR 14782; 4/22/1992.
Iliamna corei | Peter's Mountain mallow | Wherever found | E | 51 FR 17343; 5/12/1986.
Ipomopsis polyantha | Pagosa skyrocket | Wherever found | E | 76 FR 45053; 7/27/2011, 50 CFR 17.96(a)CH.
Ipomopsis sancti-spiritus | Holy Ghost ipomopsis | Wherever found | E | 59 FR 13836; 3/23/1994.
Iris lacustris | Dwarf lake iris | Wherever found | T | 53 FR 37972; 9/28/1988.
Ischaemum byrone | Hilo ischaemum | Wherever found | E | 59 FR 10305; 3/4/1994, 50 CFR 17.99(a)(1)CH, 50 CFR 17.99(c)CH, 50 CFR 17.99(e)(1)CH, 50 CFR 17.99(k)CH.
Isodendrion hosakae | Aupaka | Wherever found | T | 56 FR 1454; 1/14/1991, 50 CFR 17.99(k)CH.
Isodendrion laurifolium | Aupaka | Wherever found | E | 61 FR 53108; 10/10/1996, 50 CFR 17.99(a)(1)CH, 50 CFR 17.99(i)CH.
Isodendrion longifolium | Aupaka | Wherever found | T | 61 FR 53108; 10/10/1996, 50 CFR 17.99(a)(1)CH, 50 CFR 17.99(i)CH.
Isodendrion pyrifolium | Wahine noho kula | Wherever found | E | 59 FR 10305; 3/4/1994, 50 CFR 17.99(c)CH, 50 CFR 17.99(e)(1)CH, 50 CFR 17.99(i)CH.
Isotria medeoloides | Small whorled pogonia | Wherever found | T | 47 FR 39827; 9/9/1982, 59 FR 50852; 10/6/1994.
Ivesia kingii var. eremica | Ash Meadows ivesia | Wherever found | T | 50 FR 20777; 5/20/1985, 50 CFR 17.96(a)CH.
Ivesia webberi | Webber's ivesia | Wherever found | T | 79 FR 31878; 6/3/2014, 50 CFR 17.96(a)CH.
Jacquemontia reclinata | Beach jacquemontia | Wherever found | E | 58 FR 62046; 11/24/1993.
Jatropha costaricensis | Costa Rican jatropha | Wherever found | E | 49 FR 30199; 7/27/1984.
Juglans jamaicensis | Nogal or West Indian walnut | Wherever found | E | 62 FR 1691; 1/13/1997.
Justicia cooleyi | Cooley's water-willow | Wherever found | E | 54 FR 31190; 7/27/1989.
Kadua cordata ssp. remyi | Kopa | Wherever found | E | 64 FR 48307; 9/3/1999.
Kadua coriacea | Kioele | Wherever found | E | 57 FR 20772; 5/15/1992, 50 CFR 17.99(e)(1)CH, 50 CFR 17.99(i)CH.
Kadua degeneri | No common name | Wherever found | E | 56 FR 55770; 10/29/1991, 50 CFR 17.99(i)CH.
Kadua laxiflora | Pilo | Wherever found | E | 57 FR 46325; 10/8/1992, 50 CFR 17.99(c)CH, 50 CFR 17.99(e)(1)CH.
Kadua parvula | No common name | Wherever found | E | 56 FR 55770; 10/29/1991, 50 CFR 17.99(i)CH.
Kadua (=Hedyotis) st.-johnii | No common name | Wherever found | E | 56 FR 49639; 9/30/1991, 50 CFR 17.99(a)(1)CH.
Kanaloa kahoolawensis | Kohe malama malama o kanaloa | Wherever found | E | 64 FR 48307; 9/3/1999, 50 CFR 17.99(e)(2)CH.
Keysseria erici | No common name | Wherever found | E | 75 FR 18960; 4/13/2010, 50 CFR 17.99(a)CH.
Keysseria helenae | No common name | Wherever found | E | 75 FR 18960; 4/13/2010, 50 CFR 17.99(a)CH.
Kokia cookei | Cooke's koki`o | Wherever found | E | 44 FR 62470; 10/30/1979, 50 CFR 17.99(c)CH.
Kokia drynarioides | Koki`o | Wherever found | E | 49 FR 47397; 12/4/1984, 50 CFR 17.96(a)CH.
Kokia kauaiensis | Koki`o | Wherever found | E | 61 FR 53070; 10/10/1996, 50 CFR 17.99(a)(1)CH.
Korthalsella degeneri | Hulumoa | Wherever found | E | 77 FR 57647; 9/18/2012, 50 CFR 17.99(i)CH.
Labordia cyrtandrae | Kamakahala | Wherever found | E | 61 FR 53089; 10/10/1996, 50 CFR 17.99(i)CH.
Labordia helleri | Kamakahala | Wherever found | E | 75 FR 18960; 4/13/2010, 50 CFR 17.99(a)CH.
Labordia lydgatei | Kamakahala | Wherever found | E | 56 FR 47695; 9/20/1991, 50 CFR 17.99(a)(1)CH.
Labordia pumila | Kamakahala | Wherever found | E | 75 FR 18960; 4/13/2010, 50 CFR 17.99(a)CH.
Labordia tinifolia var. lanaiensis | Kamakahala | Wherever found | E | 64 FR 48307; 9/3/1999.
Labordia tinifolia var. wahiawaensis | Kamakahala | Wherever found | E | 61 FR 53070; 10/10/1996, 50 CFR 17.99(a)(1)CH.
Labordia triflora | Kamakahala | Wherever found | E | 64 FR 48307; 9/3/1999, 50 CFR 17.99(c)CH.
Lasthenia burkei | Burke's goldfields | Wherever found | E | 56 FR 61173; 12/2/1991.
Lasthenia conjugens | Contra Costa goldfields | Wherever found | E | 62 FR 33029; 6/18/1997, 50 CFR 17.96(a)CH.
Layia carnosa | Beach layia | Wherever found | E | 57 FR 27848; 6/22/1992.
Leavenworthia crassa | fleshy-fruit gladecress | Wherever found | E | 79 FR 44712; 8/1/2014.
Leavenworthia exigua var.laciniata | Kentucky glade cress | Wherever found | T | 79 FR 25683; 5/6/2014, 50 CFR 17.96(a)CH.
Leavenworthia texana | Texas golden gladecress | Wherever found | E | 78 FR 56025; 9/11/2013, 50 CFR 17.96(a)CH.
Lembertia congdonii | San Joaquin wooly-threads | Wherever found | E | 55 FR 29361; 7/19/1990.
Lepanthes eltoroensis | No common name | Wherever found | E | 56 FR 60933; 11/29/1991.
Lepidium arbuscula | Anaunau | Wherever found | E | 61 FR 53089; 10/10/1996, 50 CFR 17.99(i)CH.
Lepidium barnebyanum | Barneby ridge-cress | Wherever found | E | 55 FR 39860; 9/28/1990.
Leptocereus grantianus | No common name | Wherever found | E | 58 FR 11550; 2/26/1993.
Lespedeza leptostachya | Prairie bush-clover | Wherever found | T | 52 FR 781; 1/9/1987.
Lesquerella congesta | Dudley Bluffs bladderpod | Wherever found | T | 55 FR 4152; 2/6/1990.
Lesquerella kingii ssp. bernardina | San Bernardino Mountains bladderpod | Wherever found | E | 59 FR 43652; 8/24/1994, 50 CFR 17.96(a)CH.
Lesquerella lyrata | Lyrate bladderpod | Wherever found | T | 55 FR 39864; 9/28/1990.
Lesquerella pallida | White bladderpod | Wherever found | E | 52 FR 7424; 3/11/1987.
Lesquerella perforata | Spring Creek bladderpod | Wherever found | E | 61 FR 67493; 12/23/1996.
Lesquerella thamnophila | Zapata bladderpod | Wherever found | E | 64 FR 63745; 11/22/1999, 50 CFR 17.96(a)CH.
Lesquerella tumulosa | Kodachrome bladderpod | Wherever found | E | 58 FR 52027; 10/6/1993.
Lessingia germanorum (=L. g. var. germanorum) | San Francisco lessingia | Wherever found | E | 62 FR 33368; 6/19/1997.
Liatris helleri | Heller's blazingstar | Wherever found | T | 52 FR 44397; 11/19/1987.
Liatris ohlingerae | Scrub blazingstar | Wherever found | E | 54 FR 31190; 7/27/1989.
Lilaeopsis schaffneriana var. recurva | Huachuca water-umbel | Wherever found | E | 62 FR 665; 1/6/1997, 50 CFR 17.96(a)CH.
Lilium occidentale | Western lily | Wherever found | E | 59 FR 42171; 8/17/1994.
Lilium pardalinum ssp. pitkinense | Pitkin Marsh lily | Wherever found | E | 62 FR 54791; 10/22/1997.
Limnanthes floccosa ssp. californica | Butte County meadowfoam | Wherever found | E | 57 FR 24192; 6/8/1992, 50 CFR 17.96(a)CH.
Limnanthes floccosa ssp. grandiflora | large-flowered woolly meadowfoam | Wherever found | E | 67 FR 68004; 11/7/2002, 50 CFR 17.96(a)CH.
Limnanthes vinculans | Sebastopol meadowfoam | Wherever found | E | 56 FR 61173; 12/2/1991.
Lindera melissifolia | Pondberry | Wherever found | E | 51 FR 27495; 7/31/1986.
Linum carteri var. carteri | Carter's small-flowered flax | Wherever found | E | 79 FR 52567; 9/4/2014, 50 CFR 17.96(a)CH.
Lipochaeta fauriei | Nehe | Wherever found | E | 59 FR 9304; 2/25/1994, 50 CFR 17.99(a)(1)CH.
Lipochaeta lobata var. leptophylla | Nehe | Wherever found | E | 56 FR 55770; 10/29/1991, 50 CFR 17.99(i)CH.
Lipochaeta micrantha | Nehe | Wherever found | E | 59 FR 9304; 2/25/1994, 50 CFR 17.99(a)(1)CH.
Lipochaeta venosa | No common name | Wherever found | E | 44 FR 62468; 10/30/1979.
Lipochaeta waimeaensis | Nehe | Wherever found | E | 59 FR 9304; 2/25/1994, 50 CFR 17.99(a)(1)CH.
Lithophragma maximum | San Clemente Island woodland-star | Wherever found | E | 62 FR 42692; 8/8/1997.
Lobelia (gaudichaudii ssp.) koolauensis | No common name | Wherever found | E | 61 FR 53089; 10/10/1996, 77 FR 57647; 9/18/2012, 50 CFR 17.99(i)CH.
Lobelia monostachya | No common name | Wherever found | E | 61 FR 53089; 10/10/1996, 50 CFR 17.99(i)CH.
Lobelia niihauensis | No common name | Wherever found | E | 56 FR 55770; 10/29/1991, 50 CFR 17.99(i)CH.
Lobelia oahuensis | No common name | Wherever found | E | 59 FR 14482; 3/28/1994, 50 CFR 17.99(i)CH.
Lomatium bradshawii | Bradshaw's desert-parsley | Wherever found | E | 53 FR 38448; 9/30/1988.
Lomatium cookii | Cook's lomatium (Cook's desert parsley) | Wherever found | E | 67 FR 68004; 11/7/2002 50 CFR 17.96(a)CH.
Lupinus aridorum | Scrub lupine | Wherever found | E | 52 FR 11172; 4/7/1987.
Lupinus nipomensis | Nipomo Mesa lupine | Wherever found | E | 65 FR 14888; 3/20/2000.
Lupinus sulphureus ssp. kincaidii | Kincaid's lupine | Wherever found | T | 65 FR 3875; 3/25/2000, 50 CFR 17.96CH.
Lupinus tidestromii | Clover lupine | Wherever found | E | 57 FR 27848; 6/22/1992.
Lyonia truncata var. proctorii | No common name | Wherever found | E | 58 FR 25755; 4/27/1993.
Lysimachia asperulaefolia | Rough-leaved loosestrife | Wherever found | E | 52 FR 22585; 6/12/1987.
Lysimachia daphnoides | Lehua makanoe | Wherever found | E | 75 FR 18960; 4/13/2010, 50 CFR 17.99(a)CH.
Lysimachia filifolia | No common name | Wherever found | E | 59 FR 9304; 2/25/1994, 50 CFR 17.99(a)(1)CH, 50 CFR 17.99(i)CH.
Lysimachia iniki | No common name | Wherever found | E | 75 FR 18960; 4/13/2010, 50 CFR 17.99(a)CH.
Lysimachia lydgatei | No common name | Wherever found | E | 57 FR 20772; 5/15/1992, 50 CFR 17.99(e)(1)CH.
Lysimachia maxima | No common name | Wherever found | E | 61 FR 53130; 10/10/1996, 50 CFR 17.99(c)CH.
Lysimachia pendens | No common name | Wherever found | E | 75 FR 18960; 4/13/2010, 50 CFR 17.99(a)CH.
Lysimachia scopulensis | No common name | Wherever found | E | 75 FR 18960; 4/13/2010, 50 CFR 17.99(a)CH.
Lysimachia venosa | No common name | Wherever found | E | 75 FR 18960; 4/13/2010 50 CFR 17.99(a)CH.
Macbridea alba | White birds-in-a-nest | Wherever found | T | 57 FR 19813; 5/8/1992.
Maesa walkeri | No common name | Wherever found | T | 80 FR 59423; 10/1/2015.
Malacothamnus clementinus | San Clemente Island bush-mallow | Wherever found | E | 42 FR 40682; 8/11/1977.
Malacothamnus fasciculatus var. nesioticus | Santa Cruz Island bushmallow | Wherever found | E | 62 FR 40954; 7/31/1997.
Malacothrix indecora | Santa Cruz Island malacothrix | Wherever found | E | 62 FR 40954; 7/31/1997.
Malacothrix squalida | Island malacothrix | Wherever found | E | 62 FR 40954; 7/31/1997.
Manihot walkerae | Walker's manioc | Wherever found | E | 56 FR 49850; 10/2/1991.
Marshallia mohrii | Mohr's Barbara's buttons | Wherever found | T | 53 FR 34698; 9/7/1988.
Melanthera kamolensis | Nehe | Wherever found | E | 57 FR 20772; 5/15/1992, 50 CFR 17.99(e)(1)CH.
Melanthera tenuifolia | Nehe | Wherever found | E | 56 FR 55770; 10/29/1991, 50 CFR 17.99(i)CH.
Melicope adscendens | Alani | Wherever found | E | 59 FR 62346; 12/5/1994, 50 CFR 17.99(e)(1)CH.
Melicope balloui | Alani | Wherever found | E | 59 FR 62346; 12/5/1994, 50 CFR 17.99(e)(1)CH.
Melicope christophersenii | Alani | Wherever found | E | 77 FR 57647; 9/18/2012, 50 CFR 17.99(i)CH.
Melicope degeneri | Alani | Wherever found | E | 75 FR 18960; 4/13/2010, 50 CFR 17.99(a)CH.
Melicope haupuensis | Alani | Wherever found | E | 59 FR 9304; 2/25/1994, 50 CFR 17.99(a)(1)CH.
Melicope hiiakae | Alani | Wherever found | E | 77 FR 57647; 9/18/2012, 50 CFR 17.99(i)CH.
Melicope knudsenii | Alani | Wherever found | E | 59 FR 9304; 2/25/1994, 50 CFR 17.99(a)(1)CH, 50 CFR 17.99(e)(1)CH.
Melicope lydgatei | Alani | Wherever found | E | 59 FR 14482; 3/28/1994, 50 CFR 17.99(i)CH.
Melicope makahae | Alani | Wherever found | E | 77 FR 57647; 9/18/2012, 50 CFR 17.99(i)CH.
Melicope mucronulata | Alani | Wherever found | E | 57 FR 20772; 5/15/1992, 50 CFR 17.99(c)CH, 50 CFR 17.99(e)(1)CH.
Melicope munroi | Alani | Wherever found | E | 64 FR 48307; 9/3/1999, 50 CFR 17.99(c)CH.
Melicope ovalis | Alani | Wherever found | E | 59 FR 62346; 12/5/1994, 50 CFR 17.99(e)(1)CH.
Melicope pallida | Alani | Wherever found | E | 59 FR 9304; 2/25/1994, 50 CFR 17.99(a)(1)CH, 50 CFR 17.99(i)CH.
Melicope paniculata | Alani | Wherever found | E | 75 FR 18960; 4/13/2010, 50 CFR 17.99(a)CH.
Melicope puberula | Alani | Wherever found | E | 75 FR 18960; 4/13/2010, 50 CFR 17.99(a)CH.
Melicope quadrangularis | Alani | Wherever found | E | 59 FR 9304; 2/25/1994.
Melicope reflexa | Alani | Wherever found | E | 57 FR 46325; 10/8/1992, 50 CFR 17.99(c)CH.
Melicope saint-johnii | Alani | Wherever found | E | 61 FR 53089; 10/10/1996, 50 CFR 17.99(i)CH.
Melicope zahlbruckneri | Alani | Wherever found | E | 61 FR 53137; 10/10/1996, 50 CFR 17.99(k)CH.
Mentzelia leucophylla | Ash Meadows blazing-star | Wherever found | T | 50 FR 20777; 5/20/1985, 50 CFR 17.96(a)CH.
Mezoneuron kavaiense | Uhi uhi | Wherever found | E | 51 FR 24672; 7/8/1986.
Mimulus michiganensis (=Mimulus glabratus var. michiganensis ) | Michigan monkey-flower | Wherever found | E | 55 FR 25596; 6/21/1990, 75 FR 55686; 9/14/2010.
Mirabilis macfarlanei | MacFarlane's four-o'clock | Wherever found | T | 44 FR 61912; 10/26/1979, 61 FR 10693; 3/15/1996.
Mitracarpus maxwelliae | No common name | Wherever found | E | 59 FR 46715; 9/9/1994.
Mitracarpus polycladus | No common name | Wherever found | E | 59 FR 46715; 9/9/1994.
Monardella viminea | Willowy monardella | Wherever found | E | 63 FR 54938; 10/13/1998, 50 CFR 17.96(a)CH.
Mucuna sloanei var.persericea | Sea bean | Wherever found | E | 78 FR 32013; 5/28/2013, 50 CFR 17.99(e)(1)CH.
Myrcia paganii | No common name | Wherever found | E | 59 FR 8138; 2/18/1994.
Myrsine juddii | Kolea | Wherever found | E | 61 FR 53089; 10/10/1996, 50 CFR 17.99(i)CH.
Myrsine knudsenii | Kolea | Wherever found | E | 75 FR 18960; 4/13/2010, 50 CFR 17.99(a)CH.
Myrsine linearifolia | Kolea | Wherever found | T | 61 FR 53070; 10/10/1996, 50 CFR 17.99(a)(1)CH.
Myrsine mezii | Kolea | Wherever found | E | 75 FR 18960; 4/13/2010, 50 CFR 17.99(a)CH.
Myrsine vaccinioides | Kolea | Wherever found | E | 78 FR 32013; 5/28/2013, 50 CFR 17.99(e)(1)CH.
Navarretia fossalis | Spreading navarretia | Wherever found | T | 63 FR 54975; 10/13/1998, 50 CFR 17.96(a)CH.
Navarretia leucocephala ssp. pauciflora (=N. pauciflora) | Few-flowered navarretia | Wherever found | E | 62 FR 33029; 6/18/1997.
Navarretia leucocephala ssp. plieantha | Many-flowered navarretia | Wherever found | E | 62 FR 33029; 6/18/1997.
Neostapfia colusana | Colusa grass | Wherever found | T | 62 FR 14338; 3/26/1997, 50 CFR 17.96(a)CH.
Neraudia angulata | No common name | Wherever found | E | 56 FR 55770; 10/29/1991, 50 CFR 17.99(i)CH.
Neraudia ovata | No common name | Wherever found | E | 61 FR 53137; 10/10/1996, 50 CFR 17.99(k)CH.
Neraudia sericea | No common name | Wherever found | E | 59 FR 56333; 11/10/1994, 50 CFR 17.99(c)CH, 50 CFR 17.99(e)(1)CH, 50 CFR 17.99(e)(2)CH.
Nervilia jacksoniae | No common name | Wherever found | T | 80 FR 59423; 10/1/2015.
Nesogenes rotensis | No common name | Wherever found | E | 69 FR 10335; 3/5/2004.
Nitrophila mohavensis | Amargosa niterwort | Wherever found | E | 50 FR 20777; 5/20/1985, 50 CFR 17.96(a)CH.
Nolina brittoniana | Britton's beargrass | Wherever found | E | 58 FR 25746; 4/27/1993.
Nothocestrum breviflorum | Aiea | Wherever found | E | 59 FR 10305; 3/4/1994, 50 CFR 17.99(k)CH.
Nothocestrum peltatum | Aiea | Wherever found | E | 59 FR 9304; 2/25/1994, 50 CFR 17.99(a)(1)CH.
Nototrichium humile | Kului | Wherever found | E | 56 FR 55770; 10/29/1991, 50 CFR 17.99(e)(1)CH, 50 CFR 17.99(i)CH.
Ochrosia kilaueaensis | Holei | Wherever found | E | 59 FR 10305; 3/4/1994.
Oenothera avita ssp. eurekensis | Eureka Valley evening-primrose | Wherever found | E | 43 FR 17910; 4/26/1978.
Oenothera deltoides ssp. howellii | Antioch Dunes evening-primrose | Wherever found | E | 43 FR 17910; 4/26/1978, 50 CFR 17.96(a)CH.
Opuntia treleasei | Bakersfield cactus | Wherever found | E | 55 FR 29361; 7/19/1990.
Orcuttia californica | California Orcutt grass | Wherever found | E | 58 FR 41384; 8/3/1993.
Orcuttia inaequalis | San Joaquin Valley Orcutt grass | Wherever found | T | 62 FR 14338; 3/26/1997, 50 CFR 17.96(a)CH.
Orcuttia pilosa | Hairy Orcutt grass | Wherever found | T | 62 FR 14338; 3/26/1997, 50 CFR 17.96(a)CH.
Orcuttia tenuis | Slender Orcutt grass | Wherever found | T | 62 FR 14338; 3/26/1997, 50 CFR 17.96(a)CH.
Orcuttia viscida | Sacramento Orcutt grass | Wherever found | T | 62 FR 14338; 3/26/1997, 50 CFR 17.96(a)CH.
Osmoxylon mariannense | No common name | Wherever found | E | 69 FR 10335; 3/5/2004.
Ottoschulzia rhodoxylon | Palo de rosa | Wherever found | E | 55 FR 13488; 4/10/1990.
Oxypolis canbyi | Canby's dropwort | Wherever found | E | 51 FR 6690; 2/25/1986.
Oxytheca parishii var. goodmaniana | Cushenbury oxytheca | Wherever found | E | 59 FR 43652; 8/24/1994, 50 CFR 17.96(a)CH.
Oxytropis campestris var. chartacea | Fassett's locoweed | Wherever found | T | 53 FR 37970; 9/28/1988.
Panicum fauriei var. carteri | Carter's panicgrass | Wherever found | E | 48 FR 46328; 10/12/1983, 50 CFR 17.96(a)CH.
Panicum niihauense | Lau ehu | Wherever found | E | 61 FR 53108; 10/10/1996, 50 CFR 17.99(a)(1)CH.
Paronychia chartacea | Papery whitlow-wort | Wherever found | T | 52 FR 2227; 1/21/1987.
Parvisedum leiocarpum | Lake County stonecrop | Wherever found | E | 62 FR 33029; 6/18/1997.
Pedicularis furbishiae | Furbish lousewort | Wherever found | E | 43 FR 17910; 4/26/1978.
Pediocactus bradyi | Brady pincushion cactus | Wherever found | E | 44 FR 61784; 10/26/1979.
Pediocactus despainii | San Rafael cactus | Wherever found | E | 52 FR 34914; 9/16/1987.
Pediocactus knowltonii | Knowlton cactus | Wherever found | E | 44 FR 62244; 10/29/1979.
Pediocactus peeblesianus var. fickeiseniae | Fickeisen plains cactus | Wherever found | E | 78 FR 60607; 10/1/2013.
Pediocactus peeblesianus var. peeblesianus | Peebles Navajo cactus | Wherever found | E | 44 FR 61922; 10/26/1979.
Pediocactus sileri | Siler pincushion cactus | Wherever found | T | 44 FR 61786; 10/26/1979, 58 FR 68476; 12/27/1993.
Pediocactus winkleri | Winkler cactus | Wherever found | T | 63 FR 44587; 8/20/1998.
Penstemon debilis | Parachute beardtongue | Wherever found | T | 76 FR 45053; 7/27/2011, 50 CFR 17.96(a)CH.
Penstemon haydenii | Blowout penstemon | Wherever found | E | 52 FR 32926; 9/1/1987.
Penstemon penlandii | Kremmling beardtongue | Wherever found | E | 54 FR 29658; 7/13/1989.
Pentachaeta bellidiflora | White-rayed pentachaeta | Wherever found | E | 60 FR 6671; 2/3/1995.
Pentachaeta lyonii | Lyon's pentachaeta | Wherever found | E | 62 FR 4172; 1/29/1997, 50 CFR 17.96(a)CH.
Peperomia subpetiolata | Alaala wai nui | Wherever found | E | 78 FR 32013; 5/28/2013, 50 CFR 17.99(e)(1)CH.
Peperomia wheeleri | Wheeler's peperomia | Wherever found | E | 52 FR 1459; 1/14/1987.
Peucedanum sandwicense | Makou | Wherever found | T | 59 FR 9304; 2/25/1994, 50 CFR 17.99(a)(1)CH, 50 CFR 17.99(c)CH, 50 CFR 17.99(e)(1)CH, 50 CFR 17.99(i)CH.
Phacelia argillacea | Clay phacelia | Wherever found | E | 43 FR 44810; 9/28/1978.
Phacelia formosula | North Park phacelia | Wherever found | E | 47 FR 38540; 9/1/1982.
Phacelia insularis ssp. insularis | Island phacelia | Wherever found | E | 62 FR 40954; 7/31/1997.
Phacelia submutica | DeBeque phacelia | Wherever found | T | 76 FR 45053; 7/27/2011, 50 CFR 17.96(a)CH.
Phlox hirsuta | Yreka phlox | Wherever found | E | 65 FR 5268; 2/3/2000.
Phlox nivalis ssp. texensis | Texas trailing phlox | Wherever found | E | 56 FR 49636; 9/30/1991.
Phyllanthus saffordii | No common name | Wherever found | E | 80 FR 59423; 10/1/2015.
Phyllostegia bracteata | No common name | Wherever found | E | 78 FR 32013; 5/28/2013, 50 CFR 17.99(e)(1)CH.
Phyllostegia floribunda | No common name | Wherever found | E | 78 FR 64637; 10/29/2013.
Phyllostegia glabra var. lanaiensis | No common name | Wherever found | E | 56 FR 47686; 9/20/1991.
Phyllostegia haliakalae | No common name | Wherever found | E | 78 FR 32013; 5/28/2013, 50 CFR 17.99(c)CH, 50 CFR 17.99(e)(1)CH.
Phyllostegia hirsuta | No common name | Wherever found | E | 61 FR 53089; 10/10/1996, 50 CFR 17.99(i)CH.
Phyllostegia hispida | No common name | Wherever found | E | 74 FR 11319; 3/17/2009, 50 CFR 17.99(c)CH.
Phyllostegia kaalaensis | No common name | Wherever found | E | 61 FR 53089; 10/10/1996, 50 CFR 17.99(i)CH.
Phyllostegia knudsenii | No common name | Wherever found | E | 61 FR 53070; 10/10/1996, 50 CFR 17.99(a)(1)CH.
Phyllostegia mannii | No common name | Wherever found | E | 57 FR 46325; 10/8/1992, 50 CFR 17.99(c)CH, 50 CFR 17.99(e)(1)CH.
Phyllostegia mollis | No common name | Wherever found | E | 56 FR 55770; 10/29/1991, 50 CFR 17.99(e)(1)CH, 50 CFR 17.99(i)CH.
Phyllostegia parviflora | No common name | Wherever found | E | 61 FR 53108; 10/10/1996, 50 CFR 17.99(i)CH.
Phyllostegia pilosa | No common name | Wherever found | E | 78 FR 32013; 5/28/2013, 50 CFR 17.99(c)CH, 50 CFR 17.99(e)(1)CH.
Phyllostegia racemosa | Kiponapona | Wherever found | E | 61 FR 53137; 10/10/1996, 50 CFR 17.99(k)CH.
Phyllostegia renovans | No common name | Wherever found | E | 75 FR 18960; 4/13/2010, 50 CFR 17.99(a)CH.
Phyllostegia velutina | No common name | Wherever found | E | 61 FR 53137; 10/10/1996, 50 CFR 17.99(k)CH.
Phyllostegia waimeae | No common name | Wherever found | E | 59 FR 9304; 2/25/1994, 50 CFR 17.99(a)(1)CH.
Phyllostegia warshaueri | No common name | Wherever found | E | 61 FR 53137; 10/10/1996, 50 CFR 17.99(k)CH.
Phyllostegia wawrana | No common name | Wherever found | E | 61 FR 53070; 10/10/1996, 50 CFR 17.99(a)(1)CH.
Physaria douglasii subsp. tuplashensis | White Bluffs bladderpod | Wherever found | T | 78 FR 23983; 4/23/2013, 50 CFR 17.96(a)CH.
Physaria filiformis (= Lesquerella f.) | Missouri bladderpod | Wherever found | T | 52 FR 679; 1/8/1987, 68 FR 59337; 10/15/2003, 75 FR 55686; 9/14/2010.
Physaria globosa | Short's bladderpod | Wherever found | E | 79 FR 44712; 8/1/2014.
Physaria obcordata | Dudley Bluffs twinpod | Wherever found | T | 55 FR 4152; 2/6/1990.
Pilosocereus robinii | Key tree-cactus | Wherever found | E | 49 FR 29234; 7/19/1984.
Pinguicula ionantha | Godfrey's butterwort | Wherever found | T | 58 FR 37432; 7/12/1993.
Piperia yadonii | Yadon's piperia | Wherever found | E | 63 FR 43100; 8/12/1998, 50 CFR 17.96(a)CH.
Pittosporum halophilum | Hoawa | Wherever found | E | 78 FR 32013; 5/28/2013, 50 CFR 17.99(c)CH.
Pittosporum hawaiiense | Hoawa, haawa | Wherever found | E | 78 FR 64637; 10/29/2013.
Pittosporum napaliense | Hoawa | Wherever found | E | 75 FR 18960; 4/13/2010, 50 CFR 17.99(a)CH.
Pityopsis ruthii | Ruth's golden aster | Wherever found | E | 50 FR 29341; 7/18/1985.
Plagiobothrys hirtus | Rough popcornflower | Wherever found | E | 65 FR 3866; 1/25/2000.
Plagiobothrys strictus | Calistoga allocarya | Wherever found | E | 62 FR 54791; 10/22/1997.
Plantago hawaienis | Laukahi kuahiwi | Wherever found | E | 59 FR 10305; 3/4/1994, 50 CFR 17.99(k)CH.
Plantago princeps | Laukahi kuahiwi | Wherever found | E | 59 FR 56333; 11/10/1994, 50 CFR 17.99(a)(1)CH, 50 CFR 17.99(c)CH, 50 CFR 17.99(e)(1)CH, 50 CFR 17.99(i)CH.
Platanthera holochila | No common name | Wherever found | E | 61 FR 53108; 10/10/1996, 50 CFR 17.99(c)CH, 50 CFR 17.99(a)(1)CH, 50 CFR 17.99(e)(1)CH, 50 CFR 17.99(i)CH.
Platanthera leucophaea | Eastern prairie fringed orchid | Wherever found | T | 54 FR 39857; 9/28/1989.
Platanthera praeclara | Western prairie fringed orchid | Wherever found | T | 54 FR 39857; 9/28/1989.
Platydesma cornuta var. cornuta | No common name | Wherever found | E | 77 FR 57647; 9/18/2012, 50 CFR 17.99(i)CH.
Platydesma cornuta var. decurrens | No common name | Wherever found | E | 77 FR 57647; 9/18/2012, 50 CFR 17.99(i)CH.
Platydesma remyi | No common name | Wherever found | E | 78 FR 64637; 10/29/2013.
Platydesma rostrata | Pilo kea lau lii | Wherever found | E | 75 FR 18960; 4/13/2010, 50 CFR 17.99(a)CH.
Pleodendron macranthum | Chupacallos | Wherever found | E | 59 FR 60565; 11/25/1994.
Pleomele fernaldii | Hala pepe | Wherever found | E | 78 FR 32013; 5/28/2013.
Pleomele forbesii | Hala pepe | Wherever found | E | 77 FR 57647; 9/18/2012, 50 CFR 17.99(i)CH.
Pleomele hawaiiensis | Hala pepe | Wherever found | E | 61 FR 53137; 10/10/1996, 50 CFR 17.99(k)CH.
Poa atropurpurea | San Bernardino bluegrass | Wherever found | E | 63 FR 49006; 9/14/1998, 50 CFR 17.96(a)CH.
Poa mannii | Mann's bluegrass | Wherever found | E | 59 FR 56330; 11/10/1994, 50 CFR 17.99(a)(1)CH.
Poa napensis | Napa bluegrass | Wherever found | E | 62 FR 54791; 10/22/1997.
Poa sandvicensis | Hawaiian bluegrass | Wherever found | E | 57 FR 20580; 5/13/1992, 50 CFR 17.99(a)(1)CH.
Poa siphonoglossa | No common name | Wherever found | E | 57 FR 20580; 5/13/1992, 50 CFR 17.99(a)(1)CH.
Pogogyne abramsii | San Diego mesa mint | Wherever found | E | 43 FR 44810; 9/28/1978.
Pogogyne nudiuscula | Otay mesa mint | Wherever found | E | 58 FR 41384; 8/3/1993.
Polygala lewtonii | Lewton's polygala | Wherever found | E | 58 FR 25746; 4/27/1993.
Polygala smallii | Tiny polygala | Wherever found | E | 50 FR 29345; 7/18/1985.
Polygonella basiramia | Wireweed | Wherever found | E | 52 FR 2227; 1/21/1987.
Polygonella myriophylla | Sandlace | Wherever found | E | 58 FR 25746; 4/27/1993.
Polygonum hickmanii | Scotts Valley polygonum | Wherever found | E | 68 FR 16979; 4/8/2003, 50 CFR 17.96(a)CH.
Polyscias (=Tetraplasandra) bisattenuata | No common name | Wherever found | E | 75 FR 18960; 4/13/2010, 50 CFR 17.99(a)CH.
Polyscias (=Tetraplasandra) flynnii | No common name | Wherever found | E | 75 FR 18960; 4/13/2010, 50 CFR 17.99(a)CH.
Polyscias (=Tetraplasandra) gymnocarpa | Oheohe | Wherever found | E | 59 FR 14482; 3/28/1994, 50 CFR 17.99(i)CH.
Polyscias (=Tetraplasandra) lydgatei | No common name | Wherever found | E | 77 FR 57647; 9/18/2012, 50 CFR 17.99(i)CH.
Polyscias (=Munroidendron) racemosa (=racemosum) | No common name | Wherever found | E | 59 FR 9304; 2/25/1994, 50 CFR 17.99(a)(1)CH.
Portulaca sclerocarpa | Poe | Wherever found | E | 59 FR 10305; 3/4/1994, 50 CFR 17.99(k)CH.
Potamogeton clystocarpus | Little Aguja pondweed | Wherever found | E | 56 FR 57844; 11/14/1991.
Potentilla hickmanii | Hickman's potentilla | Wherever found | E | 63 FR 43100; 8/12/1998.
Primula maguirei | Maguire primrose | Wherever found | T | 50 FR 33731; 8/21/1985.
Pritchardia affinis | Loulu | Wherever found | E | 59 FR 10305; 3/4/1994.
Pritchardia aylmer-robinsonii | Wahane | Wherever found | E | 61 FR 41020; 8/7/1996.
Pritchardia hardyi | Loulu | Wherever found | E | 75 FR 18960; 4/13/2010.
Pritchardia kaalae | Loulu | Wherever found | E | 61 FR 53089; 10/10/1996.
Pritchardia lanigera | Loulu | Wherever found | E | 78 FR 64637; 10/29/2013.
Pritchardia maideniana | Loulu | Wherever found | E | 59 FR 10305; 3/4/1994.
Pritchardia munroi | Loulu | Wherever found | E | 57 FR 46325; 10/8/1992.
Pritchardia napaliensis | Loulu | Wherever found | E | 61 FR 53070; 10/10/1996.
Pritchardia remota | Loulu | Wherever found | E | 61 FR 43178; 8/21/1996, 50 CFR 17.99(g)CH.
Pritchardia schattaueri | Loulu | Wherever found | E | 61 FR 53137; 10/10/1996.
Pritchardia viscosa | Loulu | Wherever found | E | 61 FR 53070; 10/10/1996.
Prunus geniculata | Scrub plum | Wherever found | E | 52 FR 2227; 1/21/1987.
Pseudobahia bahiifolia | Hartweg's golden sunburst | Wherever found | E | 62 FR 5542; 2/6/1997.
Pseudobahia | San Joaquin adobe sunburst | Wherever found | T | 62 FR 5542; 2/6/1997.
Psychotria grandiflora | Kopiko | Wherever found | E | 75 FR 18960; 4/13/2010, 50 CFR 17.99(a)CH.
Psychotria hexandra ssp. oahuensis | Kopiko | Wherever found | E | 77 FR 57647; 9/18/2012, 50 CFR 17.99(i)CH.
Psychotria hobdyi | Kopiko | Wherever found | E | 75 FR 18960; 4/13/2010, 50 CFR 17.99(a)CH.
Psychotria malaspinae | Aplokating palaoan | Wherever found | E | 80 FR 59423; 10/1/2015.
Pteralyxia kauaiensis | Kaulu | Wherever found | E | 59 FR 9304; 2/25/1994, 50 CFR 17.99(a)(1)CH.
Pteralyxia macrocarpa | Kaulu | Wherever found | E | 77 FR 57647; 9/18/2012, 50 CFR 17.99(i)CH.
Ptilimnium nodosum | Harperella | Wherever found | E | 53 FR 37978; 9/28/1988.
Purshia subintegra | Arizona cliffrose | Wherever found | E | 49 FR 22326; 5/29/1984.
Quercus hinckleyi | Hinckley's oak | Wherever found | T | 53 FR 32824; 8/26/1988.
Ranunculus acriformis var. aestivalis | Autumn buttercup | Wherever found | E | 54 FR 30550; 7/21/1989.
Remya kauaiensis | No common name | Wherever found | E | 56 FR 1450; 1/14/1991, 50 CFR 17.99(a)(1)CH.
Remya mauiensis | Maui remya | Wherever found | E | 56 FR 1450; 1/14/1991, 50 CFR 17.99(e)(1)CH.
Remya montgomeryi | No common name | Wherever found | E | 56 FR 1450; 1/14/1991, 50 CFR 17.99(a)(1)CH.
Rhodiola integrifolia ssp. leedyi (= Sedum integrifolium ssp. l. ) | Leedy's roseroot | Wherever found | T | 57 FR 14649; 4/22/1992, 75 FR 55686; 9/14/2010.
Rhododendron chapmanii | Chapman rhododendron | Wherever found | E | 44 FR 24248; 4/24/1979.
Rhus michauxii | Michaux's sumac | Wherever found | E | 54 FR 39850; 9/28/1989.
Rhynchospora knieskernii | Knieskern's beaked-rush | Wherever found | T | 56 FR 32978; 7/18/1991.
Ribes echinellum | Miccosukee gooseberry | Wherever found | T | 50 FR 29338; 7/18/1985.
Rorippa gambellii | Gambel's watercress | Wherever found | E | 58 FR 41378; 8/3/1993.
Sagittaria fasciculata | Bunched arrowhead | Wherever found | E | 44 FR 43700; 7/25/1979.
Sagittaria secundifolia | Kral's water-plantain | Wherever found | T | 55 FR 13907; 4/13/1990.
Sanicula mariversa | No common name | Wherever found | E | 56 FR 55770; 10/29/1991, 50 CFR 17.99(i)CH.
Sanicula purpurea | No common name | Wherever found | E | 61 FR 53108; 10/10/1996, 50 CFR 17.99(e)(1)CH, 50 CFR 17.99(i)CH.
Santalum haleakalae var.lanaiense | Lanai sandalwood or iliahi | Wherever found | E | 51 FR 3182; 1/24/1986, 78 FR 32013; 5/28/2013, 50 CFR 17.99(e)(1)CH, 50 CFR 17.99(c)CH.
Sarracenia oreophila | Green pitcher-plant | Wherever found | E | 44 FR 54922; 9/21/1979, 45 FR 18929; 3/24/1980.
Sarracenia rubra ssp. alabamensis | Alabama canebrake pitcher-plant | Wherever found | E | 54 FR 10150; 3/10/1989.
Sarracenia rubra ssp. jonesii | Mountain sweet pitcher-plant | Wherever found | E | 53 FR 38470; 9/30/1988.
Scaevola coriacea | Dwarf naupaka | Wherever found | E | 51 FR 17971; 5/16/1986.
Schenkia sebaeoides | Awiwi | Wherever found | E | 56 FR 55770; 10/29/1991, 50 CFR 17.99(a)(1)CH, 50 CFR 17.99(c)CH, 50 CFR 17.99(e)(1)CH, 50 CFR 17.99(i)CH.
Schiedea adamantis | Diamond Head schiedea | Wherever found | E | 49 FR 6099; 2/17/1984.
Schiedea apokremnos | Maolioli | Wherever found | E | 56 FR 49639; 9/30/1991, 50 CFR 17.99(a)(1)CH.
Schiedea attenuata | No common name | Wherever found | E | 75 FR 18960; 4/13/2010, 50 CFR 17.99(a)CH.
Schiedea diffusa ssp.macraei | No common name | Wherever found | E | 78 FR 64637; 10/29/2013.
Schiedea haleakalensis | No common name | Wherever found | E | 57 FR 20772; 5/15/1992, 50 CFR 17.99(e)(1)CH.
Schiedea hawaiiensis | No common name | Wherever found | E | 78 FR 64637; 10/29/2013.
Schiedea helleri | No common name | Wherever found | E | 61 FR 53070; 10/10/1996, 50 CFR 17.99(a)(1)CH.
Schiedea hookeri | No common name | Wherever found | E | 61 FR 53108; 10/10/1996, 50 CFR 17.99(i)CH.
Schiedea jacobii | No common name | Wherever found | E | 78 FR 32013; 5/28/2013, 50 CFR 17.99(e)(1)CH.
Schiedea kaalae | No common name | Wherever found | E | 56 FR 55770; 10/29/1991, 50 CFR 17.99(i)CH.
Schiedea kauaiensis | No common name | Wherever found | E | 61 FR 53108; 10/10/1996, 50 CFR 17.99(a)(1)CH.
Schiedea kealiae | Maolioli | Wherever found | E | 61 FR 53089; 10/10/1996, 50 CFR 17.99(i)CH.
Schiedea laui | No common name | Wherever found | E | 78 FR 32013; 5/28/2013, 50 CFR 17.99(c)CH.
Schiedea (=Alsinidendron) lychnoides | Kuawawaenohu | Wherever found | E | 61 FR 53070; 10/10/1996, 50 CFR 17.99(a)(1)CH.
Schiedea lydgatei | No common name | Wherever found | E | 57 FR 46325; 10/8/1992, 50 CFR 17.99(c)CH.
Schiedea membranacea | No common name | Wherever found | E | 61 FR 53070; 10/10/1996, 50 CFR 17.99(a)(1)CH.
Schiedea nuttallii | No common name | Wherever found | E | 61 FR 53108; 10/10/1996, 50 CFR 17.99(a)(1)CH, 50 CFR 17.99(c)CH, 50 CFR 17.99(i)CH.
Schiedea obovata | No common name | Wherever found | E | 56 FR 55770; 10/29/1991, 77 FR 57647; 9/18/2012, 50 CFR 17.99(i)CH.
Schiedea salicaria | No common name | Wherever found | E | 78 FR 32013; 5/28/2013, 50 CFR 17.99(e)(1)CH.
Schiedea sarmentosa | No common name | Wherever found | E | 61 FR 53130; 10/10/1996, 50 CFR 17.99(c)CH.
Schiedea spergulina var. leiopoda | No common name | Wherever found | E | 59 FR 9304; 2/25/1994, 50 CFR 17.99(a)(1)CH.
Schiedea spergulina var. spergulina | No common name | Wherever found | T | 59 FR 9304; 2/25/1994, 50 CFR 17.99(a)(1)CH.
Schiedea stellarioides | Laulihilihi (=Maolioli) | Wherever found | E | 61 FR 53070; 10/10/1996, 50 CFR 17.99(a)(1)CH.
Schiedea trinervis | No common name | Wherever found | E | 56 FR 55770; 10/29/1991, 50 CFR 17.99(i)CH.
Schiedea verticillata | No common name | Wherever found | E | 61 FR 43178; 8/21/1996, 50 CFR 17.99(g)CH.
Schiedea (=Alsinidendron) viscosa (=viscosum) | No common name | Wherever found | E | 61 FR 53070; 10/10/1996, 50 CFR 17.99(a)(1)CH.
Schoenocrambe argillacea | Clay reed-mustard | Wherever found | T | 57 FR 1398; 1/14/1992.
Schoenocrambe barnebyi | Barneby reed-mustard | Wherever found | E | 57 FR 1398; 1/14/1992.
Schoenocrambe suffrutescens | Shrubby reed-mustard | Wherever found | E | 52 FR 37416; 10/6/1987.
Schoepfia arenaria | None | Wherever found | T | 56 FR 16021; 4/19/1991.
Schwalbea americana | American chaffseed | Wherever found | E | 57 FR 44703; 9/29/1992.
Scirpus ancistrochaetus | Northeastern bulrush | Wherever found | E | 56 FR 21091; 5/7/1991.
Sclerocactus brevispinus | Pariette cactus | Wherever found | T | 44 FR 58868; 10/11/1979, 74 FR 47112; 9/15/2009.
Sclerocactus glaucus | Colorado hookless cactus | Wherever found | T | 44 FR 58868; 10/11/1979, 74 FR 47112; 9/15/2009.
Sclerocactus mesae-verdae | Mesa Verde cactus | Wherever found | T | 44 FR 62471; 10/30/1979.
Sclerocactus wetlandicus | Uinta Basin hookless cactus | Wherever found | T | 44 FR 58868; 10/11/1979, 74 FR 47112; 9/15/2009.
Sclerocactus wrightiae | Wright fishhook cactus | Wherever found | E | 44 FR 58866; 10/11/1979.
Scutellaria floridana | Florida skullcap | Wherever found | T | 57 FR 19813; 5/8/1992.
Scutellaria montana | Large-flowered skullcap | Wherever found | T | 51 FR 22521; 6/20/1986, 67 FR 1662; 1/14/2002.
Senecio franciscanus | San Francisco Peaks ragwort | Wherever found | T | 48 FR 52743; 11/22/1983, 50 CFR 17.96(a)CH.
Senecio layneae | Layne's butterweed | Wherever found | T | 61 FR 54346; 10/18/1996.
Serianthes nelsonii | Hayun lagu (Guam), Tronkon guafi (Rota) | Wherever found | E | 52 FR 4907; 2/18/1987, 52 FR 6651; 5/4/1987.
Sesbania tomentosa | Ohai | Wherever found | E | 59 FR 56333; 11/10/1994, 50 CFR 17.99(a)(1)CH, 50 CFR 17.99(c)CH, 50 CFR 17.99(e)(1)CH, 50 CFR 17.99(g)CH, 50 CFR 17.99(i)CH, 50 CFR 17.99(k)CH.
Sibara filifolia | Santa Cruz Island rock-cress | Wherever found | E | 62 FR 42692; 8/8/1997.
Sicyos albus (=alba) | Anunu | Wherever found | E | 61 FR 53137; 10/10/1996, 50 CFR 17.99(k)CH.
Sidalcea keckii | Keck's checkermallow | Wherever found | E | 65 FR 7757; 2/16/2000, 50 CFR 17.96(a)CH.
Sidalcea nelsoniana | Nelson's checker-mallow | Wherever found | T | 58 FR 8235; 2/12/1993.
Sidalcea oregana var. calva | Wenatchee Mountains checker-mallow | Wherever found | E | 64 FR 71680; 12/22/1999, 50 CFR 17.96(a)CH.
Sidalcea oregana ssp. valida | Kenwood Marsh checker-mallow | Wherever found | E | 62 FR 54791; 10/22/1997.
Sidalcea pedata | Pedate checker-mallow | Wherever found | E | 49 FR 34497; 8/31/1984.
Silene alexandri | No common name | Wherever found | E | 57 FR 46325; 10/8/1992, 50 CFR 17.99(c)CH.
Silene hawaiiensis | No common name | Wherever found | T | 59 FR 10305; 3/4/1994, 50 CFR 17.99(k)CH.
Silene lanceolata | No common name | Wherever found | E | 57 FR 46325; 10/8/1992, 50 CFR 17.99(c)CH, 50 CFR 17.99(i)CH.
Silene perlmanii | No common name | Wherever found | E | 56 FR 55770; 10/29/1991, 50 CFR 17.99(i)CH.
Silene polypetala | Fringed campion | Wherever found | E | 56 FR 1932; 1/18/1991.
Silene spaldingii | Spalding's catchfly | Wherever found | T | 66 FR 51597; 10/10/2001.
Sisyrinchium dichotomum | White irisette | Wherever found | E | 56 FR 48752; 9/26/1991.
Solanum drymophilum | Erubia | Wherever found | E | 53 FR 32827; 8/26/1988.
Solanum guamense | Biringenas halumtanu, Birengenas halom tano | Wherever found | E | 80 FR 59423; 10/1/2015.
Solanum incompletum | Popolo ku mai | Wherever found | E | 59 FR 56333; 10/10/1994, 50 CFR 17.99(e)(1)CH, 50 CFR 17.99(k)CH.
Solanum sandwicense | Aiakeakua, popolo | Wherever found | E | 59 FR 9304; 2/25/1994, 50 CFR 17.99(a)(1)CH, 50 CFR 17.99(i)CH.
Solidago albopilosa | White-haired goldenrod | Wherever found | T | 53 FR 11612; 4/7/1988.
Solidago houghtonii | Houghton's goldenrod | Wherever found | T | 53 FR 27134; 7/18/1988.
Solidago shortii | Short's goldenrod | Wherever found | E | 50 FR 36085; 9/5/1985.
Solidago spithamaea | Blue Ridge goldenrod | Wherever found | T | 50 FR 12306; 3/28/1985.
Spermolepis hawaiiensis | No common name | Wherever found | E | 59 FR 56333; 11/10/1994, 50 CFR 17.99(a)(1)CH, 50 CFR 17.99(c)CH, 50 CFR 17.99(e)(1)CH, 50 CFR 17.99(i)CH.
Sphaeralcea gierischii | Gierisch mallow | Wherever found | E | 78 FR 49149; 8/13/2013.
Spigelia gentianoides | Gentian pinkroot | Wherever found | E | 55 FR 49046; 11/26/1990.
Spiraea virginiana | Virginia spiraea | Wherever found | T | 55 FR 24241; 6/15/1990.
Spiranthes delitescens | Canelo Hills ladies'-tresses | Wherever found | E | 62 FR 665; 1/6/1997.
Spiranthes diluvialis | Ute ladies'-tresses | Wherever found | T | 57 FR 2048; 1/17/1992.
Spiranthes parksii | Navasota ladies'-tresses | Wherever found | E | 47 FR 19539; 5/6/1982.
Stahlia monosperma | Cóbana negra | Wherever found | T | 55 FR 12790; 4/5/1990.
Stenogyne angustifolia var. angustifolia | No common name | Wherever found | E | 44 FR 62468; 10/30/1979.
Stenogyne bifida | No common name | Wherever found | E | 57 FR 46325; 10/8/1992, 50 CFR 17.99(c)CH.
Stenogyne campanulata | No common name | Wherever found | E | 57 FR 20580; 5/13/1992, 50 CFR 17.99(a)(1)CH.
Stenogyne cranwelliae | No common name | Wherever found | E | 78 FR 64637; 10/29/2013.
Stenogyne kanehoana | No common name | Wherever found | E | 57 FR 20592; 5/13/1992, 50 CFR 17.99(i)CH.
Stenogyne kauaulaensis | No common name | Wherever found | E | 78 FR 32013; 5/28/2013, 50 CFR 17.99(e)(1)CH.
Stenogyne kealiae | No common name | Wherever found | E | 75 FR 18960; 4/13/2010, 50 CFR 17.99(a)CH.
Stephanomeria malheurensis | Malheur wire-lettuce | Wherever found | E | 47 FR 50881; 11/10/1982, 50 CFR 17.96(a)CH.
Streptanthus albidus ssp. albidus | Metcalf Canyon jewelflower | Wherever found | E | 60 FR 6671; 2/3/1995.
Streptanthus niger | Tiburon jewelflower | Wherever found | E | 60 FR 6671; 2/3/1995.
Styrax portoricensis | Palo de jazmfn | Wherever found | E | 57 FR 14782; 4/22/1992.
Styrax texanus | Texas snowbells | Wherever found | E | 49 FR 40035; 10/12/1984.
Suaeda californica | Sea-blite, California | Wherever found | E | 59 FR 64613; 12/15/1994.
Swallenia alexandrae | Eureka Dune grass | Wherever found | E | 43 FR 17910; 4/26/1978.
Tabernaemontana rotensis | No common name | Wherever found | T | 80 FR 59423; 10/1/2015.
Taraxacum californicum | California taraxacum | Wherever found | E | 63 FR 49006; 9/14/1988, 50 CFR 17.96(a)CH.
Ternstroemia luquillensis | Palo colorado | Wherever found | E | 57 FR 14782; 4/22/1992.
Ternstroemia subsessilis | No common name | Wherever found | E | 57 FR 14782; 4/22/1992.
Tetramolopium arenarium | No common name | Wherever found | E | 59 FR 10305; 3/4/1994.
Tetramolopium capillare | Pamakani | Wherever found | E | 59 FR 49860; 9/30/1994, 50 CFR 17.99(e)(1)CH.
Tetramolopium filiforme | No common name | Wherever found | E | 56 FR 55770; 10/29/1991, 50 CFR 17.99(i)CH.
Tetramolopium lepidotum ssp. lepidotum | No common name | Wherever found | E | 56 FR 55770; 10/29/1991, 50 CFR 17.99(i)CH.
Tetramolopium remyi | No common name | Wherever found | E | 56 FR 47686; 9/20/1991, 50 CFR 17.99(e)(1)CH.
Tetramolopium rockii | No common name | Wherever found | T | 57 FR 46325; 10/8/1992, 50 CFR 17.99(c)CH.
Thalictrum cooleyi | Cooley's meadowrue | Wherever found | E | 54 FR 5935; 2/7/1989.
Thelypodium howellii ssp. spectabilis | Howell's spectacular thelypody | Wherever found | T | 64 FR 28393; 5/26/1999.
Thelypodium stenopetalum | Slender-petaled mustard | Wherever found | E | 49 FR 34497; 8/31/1984.
Thlaspi californicum | Kneeland Prairie penny-cress | Wherever found | E | 65 FR 6332; 2/9/2000, 50 CFR 17.96(a)CH.
Thymophylla tephroleuca | Ashy dogweed | Wherever found | E | 49 FR 29232; 7/19/1984.
Thysanocarpus conchuliferus | Santa Cruz Island fringepod | Wherever found | E | 62 FR 40954; 7/31/1997.
Tinospora homosepala | No common name | Wherever found | E | 80 FR 59423; 10/1/2015.
Townsendia aprica | Last Chance townsendia | Wherever found | T | 50 FR 33734; 8/21/1985.
Trematolobelia singularis | No common name | Wherever found | E | 61 FR 53089; 10/10/1996, 50 CFR 17.99(i)CH.
Trichilia triacantha | Bariaco | Wherever found | E | 53 FR 3565; 2/5/1988.
Trichostema austromontanum ssp. compactum | Hidden Lake bluecurls | Wherever found | T | 63 FR 49006; 9/14/1998.
Trifolium amoenum | Showy Indian clover | Wherever found | E | 62 FR 54791; 10/22/1997.
Trifolium stoloniferum | Running buffalo clover | Wherever found | E | 52 FR 21478; 6/5/1987.
Trifolium trichocalyx | Monterey clover | Wherever found | E | 63 FR 43100; 8/12/1998.
Trillium persistens | Persistent trillium | Wherever found | E | 43 FR 17910; 4/26/1978.
Trillium reliquum | Relict trillium | Wherever found | E | 53 FR 10879; 4/4/1988.
Tuberolabium guamense | No common name | Wherever found | T | 80 FR 59423; 10/1/2015.
Tuctoria greenei | Greene's tuctoria | Wherever found | T | 62 FR 14338; 3/26/1997, 50 CFR 17.96(a)CH.
Tuctoria mucronata | Solano grass | Wherever found | T | 43 FR 44810; 9/28/1978, 50 CFR 17.96(a)CH.
Urera kaalae | Opuhe | Wherever found | E | 56 FR 55770; 10/29/1991, 50 CFR 17.99(i)CH.
Varronia rupicola | No common name | Wherever found | T | 79 FR 53303; 9/9/2014, 50 CFR 17.96(a)CH.
Verbena californica | Red Hills vervain | Wherever found | T | 63 FR 49006; 9/14/1998.
Verbesina dissita | Big-leaved crownbeard | Wherever found | T | 61 FR 52370; 10/7/1996.
Vernonia proctorii | No common name | Wherever found | E | 58 FR 25755; 4/27/1993.
Vicia menziesii | Hawaiian vetch | Wherever found | E | 43 FR 17910; 4/26/1978.
Vigna o-wahuensis | No common name | Wherever found | E | 59 FR 56333; 11/10/1994, 50 CFR 17.99(e)(1)CH, 50 CFR 17.99(e)(2)CH, 50 CFR 17.99(i)CH, 50 CFR 17.99(c)CH, 50 CFR 17.99(k)CH.
Viola chamissoniana ssp. chamissoniana | Pamakani | Wherever found | E | 56 FR 55770; 10/29/1991, 50 CFR 17.99(i)CH.
Viola helenae | No common name | Wherever found | E | 56 FR 47695; 9/20/1991, 50 CFR 17.99(a)(1)CH.
Viola kauaiensis var. wahiawaensis | Nani waialeale | Wherever found | E | 61 FR 53070; 10/10/1996, 50 CFR 17.99(a)(1)CH.
Viola lanaiensis | No common name | Wherever found | E | 56 FR 47686; 9/20/1991.
Viola oahuensis | No common name | Wherever found | E | 61 FR 53089; 10/10/1996, 50 CFR 17.99(i)CH.
Warea amplexifolia | Wide-leaf warea | Wherever found | E | 52 FR 15501; 4/29/1987.
Warea carteri | Carter's mustard | Wherever found | E | 52 FR 2227; 1/21/1987.
Wikstroemia villosa | Akia | Wherever found | E | 78 FR 32013; 5/28/2013, 50 CFR 17.99(e)(1)CH.
Wilkesia hobdyi | Dwarfiliau | Wherever found | E | 57 FR 27859; 6/22/1992, 50 CFR 17.99(a)(1)CH.
Xylosma crenatum | No common name | Wherever found | E | 57 FR 20580; 5/13/1992, 50 CFR 17.99(a)(1)CH.
Xyris tennesseensis | Tennessee yellow-eyed grass | Wherever found | E | 56 FR 34151; 7/26/1991.
Yermo xanthocephalus | Desert yellowhead | Wherever found | T | 67 FR 11442; 3/14/2002, 50 CFR 17.96(a)CH.
Zanthoxylum dipetalum var. tomentosum | Ae | Wherever found | E | 61 FR 53137; 10/10/1996, 50 CFR 17.99(k)CH.
Zanthoxylum hawaiiense | Ae | Wherever found | E | 59 FR 10305; 3/4/1994, 50 CFR 17.99(a)(1)CH, 50 CFR 17.99(c)CH, 50 CFR 17.99(e)(1)CH.
Zanthoxylum oahuense | Ae | Wherever found | E | 77 FR 57647; 9/18/2012, 50 CFR 17.99(i)CH.
Zanthoxylum thomasianum | St. Thomas prickly-ash | Wherever found | E | 50 FR 51867; 12/20/1985.
Zizania texana | Texas wild-rice | Wherever found | E | 43 FR 17910; 4/26/1978, 50 CFR 17.96(a)CH.
Ziziphus celata | Florida ziziphus | Wherever found | E | 54 FR 31190; 7/27/1989.
Conifers
Abies guatemalensis | Guatemalan fir (=pinabete) | Wherever found | T | 44 FR 65002; 11/8/1979.
Cupressus goveniana ssp. goveniana | Gowen cypress | Wherever found | T | 63 FR 43100; 8/12/1998.
Fitzroya cupressoides | Alerce or Chilean false larch | Wherever found | T | 44 FR 64730; 11/7/1979.
Hesperocyparis abramsiana | Santa Cruz cypress | Wherever found | T | 52 FR 675; 1/8/1987, 81 FR 8408; 2/19/2016.
Torreya taxifolia | Florida torreya | Wherever found | E | 49 FR 2783; 1/23/1984.
Ferns and Allies
Adenophorus periens | Pendent kihi fern | Wherever found | E | 59 FR 56333; 11/10/1994, 50 CFR 17.99(e)(1)CH, 50 CFR 17.99(a)(1)CH, 50 CFR 17.99(i)CH, 50 CFR 17.99(k)CH.
Adiantum vivesii | No common name | Wherever found | E | 58 FR 32308; 6/9/1993.
Asplenium dielerectum | Asplenium-leaved diellia | Wherever found | E | 59 FR 56333; 11/10/1994, 50 CFR 17.99(a)(1)CH, 50 CFR 17.99(c)CH, 50 CFR 17.99(e)(1)CH, 50 CFR 17.99(i)CH, 50 CFR 17.99(k)CH.
Asplenium (=Diellia) dielfalcatum (=falcate) | No common name | Wherever found | E | 56 FR 55770; 10/29/1991, 50 CFR 17.99(i)CH.
Asplenium (=Diellia) dielmannii (=mannii) | No common name | Wherever found | E | 75 FR 18960; 4/13/2010, 50 CFR 17.99(a)CH.
Asplenium (=Diellia) dielpallicum (=pallida) | No common name | Wherever found | E | 59 FR 9304; 2/25/1994, 50 CFR 17.99(a)(1)CH.
Asplenium peruvianum var. insulare | No common name | Wherever found | E | 59 FR 49025; 9/26/1994, 50 CFR 17.99(e)(1)CH, 50 CFR 17.99(k)CH.
Asplenium scolopendrium var. americanum | American hart's-tongue fern | Wherever found | T | 54 FR 29726; 7/14/1989.
Asplenium (=Diellia) unisorum (=unisora) | No common name | Wherever found | E | 59 FR 32932; 6/27/1994, 50 CFR 17.99(i)CH.
Ctenitis squamigera | Pauoa | Wherever found | E | 59 FR 49025; 9/26/1994, 50 CFR 17.99(a)(1)CH, 50 CFR 17.99(c)CH, 50 CFR 17.99(e)(1)CH, 50 CFR 17.99(i)CH.
Cyathea dryopteroides | Elfin tree fern | Wherever found | E | 52 FR 22936; 6/16/1987.
Diplazium molokaiense | No common name | Wherever found | E | 59 FR 49025; 9/26/1994, 50 CFR 17.99(a)(1)CH, 50 CFR 17.99(c)CH, 50 CFR 17.99(e)(1)CH, 50 CFR 17.99(i)CH.
Doryopteris angelica | No common name | Wherever found | E | 75 FR 18960; 4/13/2010, 50 CFR 17.99(a)CH.
Doryopteris takeuchii | No common name | Wherever found | E | 77 FR 57647; 9/18/2012, 50 CFR 17.99(i)CH.
Dryopteris crinalis var. podosorus | Palapalai aumakua | Wherever found | E | 75 FR 18960; 4/13/2010, 50 CFR 17.99(a)CH.
Elaphoglossum serpens | None | Wherever found | E | 58 FR 32308; 6/9/1993.
Huperzia mannii | Wawae`iole | Wherever found | E | 57 FR 20772; 5/15/1992, 50 CFR 17.99(e)(1)CH.
Huperzia nutans | Wawaeiole | Wherever found | E | 57 FR 20772; 5/15/1992, 50 CFR 17.99(e)(1)CH, 50 CFR 17.99(i)CH.
Isoetes louisianensis | Louisiana quillwort | Wherever found | E | 57 FR 48741; 10/28/1992.
Isoetes melanospora | Black-spored quillwort | Wherever found | E | 53 FR 3560; 2/5/1988.
Isoetes tegetiformans | Mat-forming quillwort | Wherever found | E | 53 FR 3560; 2/5/1988.
Marsilea villosa | Ihiihi | Wherever found | E | 57 FR 27863; 6/22/1992, 50 CFR 17.99(c)CH, 50 CFR 17.99(i)CH.
Polystichum aleuticum | Aleutian shield-fern | Wherever found | E | 53 FR 4626; 2/17/1988.
Polystichum calderonense | No common name | Wherever found | E | 58 FR 32308; 6/9/1993.
Pteris lidgatei | No common name | Wherever found | E | 59 FR 49025; 9/26/1994, 50 CFR 17.99(e)(1)CH, 50 CFR 17.99(i)CH, 50 CFR 17.99(c)CH.
Tectaria estremerana | No common name | Wherever found | E | 58 FR 32308; 6/9/1993.
Thelypteris inabonensis | No common name | Wherever found | E | 58 FR 35887; 7/2/1993.
Thelypteris pilosa var. alabamensis | Alabama streak-sorus fern | Wherever found | T | 57 FR 30164; 7/8/1992.
Thelypteris verecunda | No common name | Wherever found | E | 58 FR 35887; 7/2/1993.
Thelypteris yaucoensis | No common name | Wherever found | E | 58 FR 35887; 7/2/1993.
Trichomanes punctatumssp. floridanum | Florida bristle fern | Wherever found | E | 80 FR 60439; 10/6/2015.
Lichens
Cladonia perforata | Florida perforate cladonia | Wherever found | E | 58 FR 25746; 4/27/1993.
Gymnoderma lineare | Rock gnome lichen | Wherever found | E | 60 FR 3557; 1/18/1995.

§ 17.50 [Amended]

4. Revise § 17.50 by removing the three examples at the end of the section.

5. In § 17.52, revise the introductory text to read as follows:

§ 17.52 Permits—similarity of appearance.

Upon receipt of a complete application and unless otherwise indicated in a rule found at §§ 17.40 through 17.48, §§ 17.73 through 17.78, or §§ 17.84 through 17.86, the Director may issue permits for any activity otherwise prohibited with a species designated as endangered or threatened due to its similarity of appearance. Such a permit may authorize a single transaction, a series of transactions, or a number of activities over a specified period of time.

* * * * *

Dated: June 28, 2016.
Stephen Guertin,
Acting Director, U.S. Fish and Wildlife Service.

[FR Doc. 2016-17322 Filed 8-3-16; 8:45 am]

BILLING CODE 4333-15-P